FEDERAL COMMUNICATIONS COMMISSION

47 CFR Part 1

[MD Docket No. 21-190; FCC 21-98; FRS 46814]

Assessment and Collection of Regulatory Fees for Fiscal Year 2021

AGENCY: Federal Communications Commission.

ACTION: Final rule.

SUMMARY: In this document, the Commission revises its Schedule of Regulatory Fees to recover an amount of $374,000,000 that Congress has required the Commission to collect for fiscal year 2021. Section 9 of the Communications Act of 1934, as amended, provides for the annual assessment and collection of regulatory fees under respectively.

DATES: Effective September 22, 2021. To avoid penalties and interest, regulatory fees should be paid by the due date of September 24, 2021.

FOR FURTHER INFORMATION CONTACT: Roland Helvajian, Office of Managing Director at (202) 418-0444.

SUPPLEMENTARY INFORMATION: This is a summary of the Commission's Report and Order, FCC 21-98, MD Docket No. 21-190, adopted on August 25, 2021 and released on August 26, 2020. The full text of this document is available for public inspection by downloading the text from the Commission's website at http://transition.fcc.gov/Daily_Releases/Daily_Business/2017/db0906/FCC-17-111A1.pdf.

I. Administrative Matters

A. Final Regulatory Flexibility Analysis

1. As required by the Regulatory Flexibility Act of 1980 (RFA), the Commission has prepared a Final Regulatory Flexibility Analysis (FRFA) relating to this Report and Order. The FRFA is located at the end of this document.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

2. The Commission has determined, and the Administrator of the Office of Information and Regulatory Affairs, Office of Management and Budget, concurs that these rules are non-major under the Congressional Review Act, 5 U.S.C. 804(2). The Commission will send a copy of this Report & Order to Congress and the Government Accountability Office pursuant to 5 U.S.C. 801(a)(1)(A).

3. In this Report and Order, we adopt a schedule to collect the $374,000,000 in congressionally required regulatory fees for fiscal year (FY) 2021. The regulatory fees for all payors are due on September 24, 2021.

4. This Report and Order addresses the issues that were raised in the FY 2021 Notice of Proposed Rulemaking including: (i) The use of non-geographic numbers in the calculation of the number of subscribers for each commercial mobile radio service (CMRS) provider; (ii) ending our phase-in of direct broadcast satellite (DBS) regulatory fees, and have the Media Bureau-based DBS regulatory fee category to be in the same fee category as cable television and internet Protocol Television (IPTV); (iii) continuing to assess regulatory fees for full service broadcast television on population-based methodology that we used for FY 2020, including changes that we adopted previously for stations in Puerto Rico; (iv) apportioning NGSO regulatory fees between the new NGSO fee subcategories for “less complex” NGSO systems and “other” NGSO systems, taking into account the relative benefits provided to them from our oversight and regulatory activities; and (v) extending our streamlined waiver provisions adopted in FY 2020 for FY 2021. These issues are discussed below.

II. Report and Order

A. Issues Raised by Commenters

5. Broadband DATA Act Implementation. As part of our FY 2021 appropriation, Congress directed the Commission to assess and collect $374 million in regulatory fees, of which $33 million is to be made available for implementing the Broadband DATA Act. Among other things, the Broadband DATA Act requires the Commission to collect standardized, granular data on the availability and quality of both fixed and mobile broadband internet access services, to create a common dataset of all locations where fixed broadband internet access service can be installed (the Fabric), and to create publicly available coverage maps.

6. Several commenters representing the broadcast industry object to the assessment on broadcasters of any portion of the $33 million designated by Congress to cover the costs of implementation of the Broadband DATA Act as part of the Commission's FY 2021 appropriation. They argue that broadcasters are not regulated by nor do they benefit from implementation of the Broadband DATA Act. Specifically, that these Broadband DATA Act costs are not overhead costs because they pertain only to certain Commission core bureaus and identifiable entities, namely, broadband service providers, that are regulated by and benefit from the Commission's activities implementing the legislation.

7. Therefore, we adjust the Commission's approach to account for the unusual circumstances accompanying the Broadband DATA Act earmark. While we categorize the costs of implementation of the Broadband DATA Act as indirect costs consistent with our normal methodology, in this limited instance, given the one-time nature and magnitude of the earmark, the statutory text, the legislative history, and the record in this proceeding, we exclude one group of regulatees—broadcasters or “Media Services” licensees—from their share of these indirect costs. While we modify our methodology here with respect to the $33 million earmark, this one-time modification is consistent with the Commission's longstanding goals of implementing a fair, sustainable, and administrable regulatory fee regime.

8. Auction FTEs. Several commenters contend that the Commission should include auctions FTEs in the calculation of indirect and overhead expenses. In other words, excluding Wireless Telecommunications Bureau FTEs who work on auction issues artificially depresses the costs attributable to the wireless industry and, disadvantages Media Bureau regulatees, as the Media Bureau has substantially fewer of its FTEs classified as auction employees. We find, however, that including auctions FTEs would be inconsistent with section 9 of the Act and therefore decline to accept this proposal. Section 9 of the Communications Act requires the Commission to assess and collect regulatory fees to recover the costs of carrying out the Commission's functions equal to the amount of the Commission's salaries and expenses appropriations each fiscal year. Auctions FTEs are not included in the calculation of regulatory fees because our methodology excludes all auction-related FTEs and their overhead from the regulatory fee calculations. Auctions expenses are separately funded and not part of the Commission's appropriation supported by regulatory fees. The Commission recovers the costs of developing and implementing its section 309(j) spectrum auctions program as an offsetting collection against auction proceeds and subject to an annual cap.

9. Office of Engineering and Technology Activities. Commenters contend that the Commission should require users of unlicensed spectrum and/or equipment manufacturers to pay regulatory fees to support the Commission's Office of Engineering and Technology's (OET's) work on the management of spectrum for unlicensed use and authorization of equipment. We decline the commenters' request to revisit our fundamental regulatory fees methodology, and their proposal to create one or more new regulatory fee payor categories consisting of unlicensed spectrum users and/or equipment manufacturers, which under our current methodology would effectively transform OET into a “core bureau” and transform OET FTEs into “direct” FTEs. The Commission has not treated OET as a core bureau and has considered its FTEs' work to be “indirect” activities for which all payors of regulatory fees have been responsible.

10. Exempt Noncommercial Stations. A broadcast commenter contends that broadcasters should not be responsible for the regulatory fees of exempt noncommercial stations. The RAY BAUM'S Act specifically exempted non-commercial radio and television stations from regulatory fees. And because Congress has mandated collection of regulatory fees equal to the annual appropriation, the $374 million must be collected from all non-exempt regulatory fee payors. As a result, we find it is consistent with section 9 of the Act to include those costs that are attributable to all regulatees in each bureau's revenue requirement because all of the regulatees in that fee category, whether they pay regulatory fees or not, benefit from the oversight and regulation of that bureau.

B. Commercial Mobile Radio Service Regulatory Fees Calculation

11. We adopt our proposal to include non-geographic numbers in the calculation of the number of subscribers for each Commercial Mobile Radio Service (CMRS) provider. The inclusion non-geographic numbers does not increase the total amount collected from the CMRS industry but will reduce the per subscriber fee. In the FY 2021 NPRM, we determined that, with the inclusion of non-geographic numbers, there would be 504 million payment units, and the estimated regulatory fee would be 15 cents per subscriber. As we explained in the FY 2021 NPRM, non-geographic numbers are assigned numbers but not associated with any particular geographic area. They are included in Numbering Resource Utilization Forecast (NRUF) Report data and fall within the definition of assigned numbers. Historically, non-geographic numbers were commonly used for “follow me” services, which allowed a consumer to receive a call at different locations, and were not used for independent subscribers. For that reason, the Commission did not previously include these numbers in the CMRS subscriber count estimates because it would result in double counting of subscribers. More recently, however, non-geographic numbers are increasingly used for machine-to-machine calling, such as wireless alarm monitoring and car emergency services subscriptions. Therefore, counting non-geographic numbers for regulatory fee purposes is no longer duplicative of the geographic number. No commenters oppose our proposal, and we therefore adopt it.

C. Direct Broadcast Satellite Fees

12. We adopt our proposal to complete the phase-in of the DBS regulatory fee and place all DBS, cable television, and internet Protocol television (IPTV) providers in the same fee category at the same per subscriber regulatory fee. Direct Broadcast Satellite (DBS) service is a nationally distributed subscription service that delivers video and audio programming via satellite to a small parabolic “dish” antenna at the subscriber's location. DBS providers are multichannel video programming distributors (MVPDs), as defined in section 602(13) of the Act. The Media Bureau oversees the regulation of MVPDs, including the two providers of DBS in the United States: DISH Network and DIRECTV. Upon adoption of this Report and Order, the Commission will include cable, IPTV, and DBS in the same fee category. Commenters also request that the Commission use updated MVPD subscriber numbers that are closer in time to the release of the Commission's annual regulatory fee order. While we understand this concern, we are unable to administratively accommodate this request. Since DBS subscriber information is not reported to the Commission, it would be difficult for the Commission to permit DBS providers to pay based on their most recent subscriber count in June, for example, because this subscriber count information would only become known to the Commission when DBS providers make their payment in late September. Therefore, we decline to make this change on the reporting date of DBS subscriber information.

D. Full-Service Television Broadcaster Fees

1. FY 2021 Regulatory Fees

13. We adopt the use of the population-based methodology for full-service television broadcasters for FY 2021, as proposed. In FY 2020, the Commission completed the transition to a population-based full-power broadcast television regulatory fee, finding it to be more equitable. In the FY 2021 NPRM, we proposed adopting a factor of .8525 of one cent ($.008525) per population served for FY 2021 full-power broadcast television station fees. We are, however, adopting a lower fee factor, .7793 of one cent ($.007793). This lower fee factor is a result of excluding radio and television broadcasters from the $33 million portion of our appropriation that is earmarked for implementation of the Broadband DATA Act. The population data for each licensee and the population-based fee (population multiplied by $.007793) for each full-power broadcast television station, including each satellite station, is listed in Table 7. Some commenters argue that the Commission's resources in oversight and regulation do not increase or decrease depending on the population served by a broadcaster, and therefore we should not base the regulatory fee on the population served. These commenters do not, however, offer an alternative proposal that would be fair and reasonable to small and large broadcasters. As we have previously stated, the Commission's methodology need not reach scientific precision, but simply be reasonable.

2. Stations in Puerto Rico

14. We adopt the same adjustments to population count for FY 2021 for TV broadcasters in Puerto Rico that we provided those broadcasters in FY 2020. Previously, a group of broadcasters in Puerto Rico argued that our methodology overstates the population served by Puerto Rico stations because the mountainous terrain conditions result in the TVStudy overstating the population served. They also argued that significant and measurable drops in Puerto Rico's population resulting from an exodus caused in part by Hurricane Maria overstated that the population counts underlying the TVStudy. To address these concerns, in the FY 2020 Report and Order, the Commission reduced the population counts used in the TVStudy by 16.9%, or the decline between the last census in 2010 and the current population estimate. Additionally, the Commission limited the market served by primary television stations and commonly owned satellite broadcast stations in Puerto Rico to no more than 3.10 million people, the latest population estimate. We find that since commenters on this issue do not oppose the Commission's actions, we adopt our proposals in the FY 2021 NPRM to adjust the population and to limit the market served by all stations to the total population.

E. Toll-Free Numbers

15. We decline to revise our rules and remove a Responsible Organizations (RespOrgs)'s responsibility to pay regulatory fees for toll-free numbers. Toll-free numbers allow callers to reach the called party without being charged for the call. With toll-free calls, the charge for the call is paid by the called party (the toll-free subscriber) instead. Historically, the Commission has not assessed regulatory fees on toll-free numbers under the rationale that the entities controlling the numbers, wireline and wireless carriers, were paying regulatory fees based on either revenues or subscribers. For reasons discussed in the FY 2014 Report and Order and the FY 2015 Report and Order, the Commission established a regulatory fee obligation for RespOrgs that manage toll-free numbers, beginning in FY 2015, so that toll-free numbers are allocated in an equitable and orderly manner that serves the public interest under section 251(e)(1) of the Act.

16. A commenter contends that the regulatory fee for toll-free numbers should be assessed differently for entities that are not carriers, arguing that carriers that report revenues on FCC Form 499s, should be responsible for the payment of regulatory fees. Commenter contends that clients should remit the fee to the Commission under their own FCC Registration Numbers. We disagree and continue to believe that the existing process is orderly and equitable. While we recognize that many RespOrgs offset their fee payments to the Commission by passing these fees on to their customers who use the toll-free numbers, this practice is not mandatory. The statutory responsibility for payment of the regulatory fee rests solely with the regulated entity, the RespOrg, and not with customers of the RespOrg. Therefore, it is the responsibility of the RespOrg to pay the full amount of toll-free regulatory fees to the Commission by the fee due date.

F. Submarine Cable Regulatory Fees

17. We adopt our proposal to use the same tiers for assessing fees on submarine cable operators for FY 2021 as in FY 2020, which are based on the “lit” capacity of the fiber-optic submarine cable. International bearer circuits (IBCs) consist of terrestrial and satellite circuits and submarine cable systems. Prior to 2009, IBC regulatory fees were collected based on 64 kbps circuits for each of the three types of facilities used to provide international service. In 2009, at the request of a large number of submarine cable operators (“2009 Consensus Proposal”), the Commission changed the methodology for assessing IBC fees and began to assess fees on a per cable landing license basis, with higher fees for larger submarine cable systems and lower fees for smaller submarine cable systems. The Commission concluded that this methodology served the public interest and was competitively neutral because it included both common carriers and non-common carriers. Through FY 2019, the Commission continued to assess fees for international service provided over terrestrial and satellite facilities based on a per 64 kbps basis with the proportion of 87.6% for submarine cable operators, and 12.4% for terrestrial and satellite facilities based on relative capacity at the time. Later, the Commission adopted a five-tier structure for assessing fees on submarine cables systems, with larger systems paying more based on lit capacity, and a per gigabits per second (Gbps) assessment on active circuit capacity for terrestrial and satellite facilities.

18. In the FY 2020 Report and Order, the Commission revised the allocation of IBC fees and adopted new tiers for the fees. The Commission concluded that a ratio attributing 95% to submarine cables and 5% to terrestrial and satellite circuits would be more reasonable than the historic ratio. The Commission found again that capacity was an appropriate measure by which to assess IBC fees. The Commission rejected the use of a flat rate for submarine cables and adjusted the tiers for submarine cables. Subsequently, in the FY 2021 NPRM, we proposed to use the same tiers for assessing fees on submarine cable operators as the Commission adopted in the FY 2020 Report and Order. We find there are no significant changes in our regulatory framework and oversight of submarine cables, or changes in the marketplace, to reevaluate our fee framework based on lit capacity. As the Commission has previously stated, lit capacity is a reasonable basis to assess regulatory costs among the submarine cable regulatees that benefit from the Commission's work. We therefore find sufficient reason to adopt submarine cable systems fees based on lit capacity.

G. Space Station Regulatory Fees

1. NGSO Regulatory Fees—Less Complex and Other

19. In 2020, the Commission adjusted the allocation of FTEs among GSO and NGSO space station and earth station operators. The Commission noted the disparity in number of units between GSO space stations (98) and NGSO systems (seven), and observed that many space stations can be operated under a single NGSO license while counting as a single unit for regulatory fee purposes, but only one satellite can be operated per GSO space station regulatory fee unit. To ensure that regulatory fees more closely reflect the work of FTEs' oversight and regulation for each category, the Commission allocated 80% of space station regulatory fees to GSOs and 20% of the space station regulatory fees to NGSOs.

20. In the Further Notice of Proposed Rulemaking attached to the FY 2020 Report and Order, the Commission sought comment on adopting subcategories of NGSO systems for regulatory fee purposes. Based on comments received, we concluded that space systems planning to communicate with 20 or fewer U.S. authorized earth stations that are primarily used for Earth Exploration Satellite Service (EESS) and/or Automatic Identification System (AIS) are significantly less complex to regulate than other types of NGSO systems. We concluded that this category of “less complex” systems does in fact require fewer Commission resources for several reasons. Such systems rarely involve resource-intensive NGSO processing rounds, based on their ability to share with other operators in the requested frequency bands. The “Other” types of NGSO systems typically have a more global presence, thereby requiring significantly more resources in connection with international forums. These other NGSO systems also have significant spectrum needs and involve a variety of frequency bands, technical issues, and services, constituting a significant part of the International Bureau's NGSO work and resource allocation. We therefore adopted two new fee subcategories: “less complex” NGSO systems and all other NGSO systems identified as “other” NGSO systems, both under the broader category of “Space Stations (Non-Geostationary Orbit)” with an 20/80 allocation within the NGSO fee category. We proposed a 20/80 allocation (in the FY 2021 NPRM) within the category of NGSO fees, with “less complex” NGSO systems responsible for 20% of NGSO regulatory fees and the remaining NGSO systems (“other”) responsible for 80% of NGSO regulatory fees.

21. Several commenters disagree generally with creating NGSO subcategories, arguing that operators should not pay differing fees based on whether an NGSO system is “less complex.” Below, we discuss the NGSO subcategories and the allocation of the NGSO fees among the NGSO subcategories.

a. NGSO Space Station Subcategories

22. We reject commenters' arguments that we should not have adopted the “less complex” and “other” subcategories within the NGSO regulatory fee category. Our decision is based on the fact that commenters primarily rely on arguments that were fully considered and addressed as part of our decision in the Report and Order accompanying the FY 2021 NPRM, providing no new arguments or citing no new developments. Thus, our decision to create two NGSO fee subcategories incorporated elements of the specific proposals, and our decision-making process did not constitute an “abrupt reversal” or “abrupt change in direction,” but was based on a fully developed record following a notice and comment rulemaking.

23. We also disagree with the contention that we “attached misplaced significance” to application processing costs in determining the amount of Commission resources used in the oversight and regulation of NGSO systems because we took into consideration processing round procedures in concluding that certain NGSO systems require fewer Commission resources. Section 9 of the Communications Act requires the Commission to recover, through regulatory fees, the total amount of its appropriation each year. The Commission must consider all FTE time costs in recovering its regulatory fees. We perform a holistic analysis of our regulation of NGSO systems and the FTE time accorded the oversight and regulation thereof, including rulemakings benefiting those systems, which are directly relevant for purposes of assessing regulatory fees. In so doing, we look at the overall FTE time spent in oversight and regulation of the types of NGSO systems and identify examples of proceedings involving certain NGSO systems.

24. Finally, we reject commenters' allegations that the consideration of earth stations is overly simplistic. Comparative complexity in earth station siting and licensing is not relevant to our analysis to determine whether an NGSO space system is less complex to regulate. Regulatory fees for earth stations are separately assessed from space stations fees. Although individual earth station applications may differ in terms of Commission resources required to process, those activities are not relevant to determine whether a space system planning to communicate with such an earth station is a complex system or not. Similarly, we disagree with arguments that space station systems communicating with larger numbers of earth stations are not likely to require more Commission oversight and regulatory activities. While an earth station blanket license application for technically-identical user terminals may in some instances be fairly easily processed, the ongoing activities associated with regulating the corresponding NGSO space station system will be more intensive, because the number of earth stations is an indicator that the space system itself is more complex. Furthermore, we also disagree with the contention that our consideration of numbers of earth stations presupposes that EESS systems require no more than 20 earth stations to support their network. Our experience has shown that authorized EESS systems typically communicate with fewer than 20 earth stations in the United States, and takes into account earth stations owned and operated by a third party that communicate with a particular NGSO system. As indicated, we are using “fewer than 20 earth stations” as a proxy and at the application stage, if we determine that a space system is planning to communicate with more than 20 earth stations based on the system design, such system design and plans would indicate that the space system would not fall into the “less complex” system category for regulatory fee purposes. Nothing in the record, or our analysis of the resources the International Bureau devotes to NGSO oversight and regulation, demonstrates that we erred in adopting an additional NGSO space station regulatory fee category for “less complex” NGSO systems.

b. 20/80 NGSO Regulatory Fee Allocation

25. We adopt our proposal from the FY 2021 NPRM to allocate 20% of NGSO regulatory fees to “less complex” NGSO systems and 80% of NGSO regulatory fees to “other' NGSO systems. In so doing, we consider the record, our experience, and analysis of the time International Bureau FTEs devote to oversight and regulation of “less complex” and “other” NGSO systems. While some commenters agree with the 20/80 allocation, others disagree. Many of those commenters disagree with the underlying creation of the “less complex” NGSO fee category, as adopted. The Commission considered various aspects of the Commission's oversight and the amount of FTE time devoted to the subcategories of NGSOs, specifically on the number of applications processed, the number of changes made to the Commission's rules, and the number of FTEs working on oversight for each category of operators. Here, in evaluating the FTE time devoted to the subcategories to develop the proposed 20/80 allocation, we considered the adjudicatory role of the Commission in connection with different types of NGSO systems—which is typically more intensive for those systems authorized as part of processing rounds. We also considered the number of rulemakings over the last several years, as well as current rulemakings, and which types of NGSO systems were implicated in those rulemaking activities, and we considered the various international activities that Commission staff engage in and how those activities benefit the different types of NGSO systems. We then considered the number of FTEs typically working on processing round issues/adjudications on an ongoing basis, compared the number of FTEs working on various rulemakings, and considered the number of FTEs in the International Bureau that engage in various international activities and forums, and the extent to which such activities benefit each category of NGSO system. Our allocation percentage is based on our quantitative experience (approximate numbers of FTE hours spent in a year) and expert judgement, and such calculation remains to be the best approximation of our FTE cost allocation at this time, based on the record before us. The fees must be administrable, and we note again that the Commission's methodology need not reach scientific precision and instead must simply be reasonable.

2. NGSO Regulatory Fees—Satellites Authorized Under Multiple Call Signs

26. We find it premature to make a determination how the Commission's regulatory fees should apply to NGSO satellites operating as an integrated NGSO system, but authorized under multiple call signs. Several commenters to the FY 2021 NPRM asked us to clarify whether NGSO satellites operating as an integrated NGSO system, but authorized under multiple call signs, should be considered part of the same system—and therefore be assessed a single regulatory fee. Specifically, commenters suggest that the Commission should consider NGSO satellites operating as part of the system—but authorized under multiple call signs (even by different operators)—as one “system” for purposes of NGSO regulatory fees. The Commision does not currently have any authorized NGSO systems that fit the description of a multi-regulatee/multi-call sign NGSO system. The answer is likely to be fact-specific, and involve a determination of what exactly constitutes an NGSO “system” and where the space stations in the “system” are operated by different entities. In the case of GSO space stations, it is clear when there are multiple licensees associated with the same physical satellite. The situation is less clear for NGSO systems because the situation could quickly become factually complex where different space stations in the “system” are described as attributable to different entities for regulatory fee purposes. We will continue to apply the general presumption that NGSO systems operated by different licensees or market access grantees constitute different NGSO systems.

H. Flexibility for Regulatory Payors Due to COVID-19 Pandemic

27. As proposed in the FY 2021 NPRM, we extend the temporary COVID-19 regulatory fee relief measures that were implemented in our FY 2020 Report and Order. Last year, the Commission adopted certain relief measures to address concerns raised by commenters about financial hardship caused by the COVID-19 pandemic. Comments received in response to the FY 2021 NPRM indicate that the financial hardship caused by the pandemic have continued into the 2021 fiscal year. Accordingly, we find good reason to continue the same relief measures we adopted in FY 2020 for FY 2021.

28. Specifically, for FY 2021, we again waive section 1.1166 of our rules, to the extent necessary, to permit parties seeking regulatory fee waiver, deferral and/or installment payment relief for financial hardship reasons related to the pandemic. Those parties may make a single request for all forms of relief sought, whether in combination or in the alternative, and may submit all such requests for relief electronically to the Commission via a dedicated email address. For FY 2021, the email address is 2021regfeerelief@fcc.gov. Additionally, we partially waive our red-light rule to allow debtors that are experiencing financial hardship to nonetheless request relief with respect to their regulatory fees. As we provided in FY 2020, however, such regulatees are required to resolve all delinquent debt by paying it in full, entering into an installment agreement to repay it, and/or if applicable, curing all payment and other defaults under existing installment agreements. We believe the existing waiver standard together with the measures described above will work as designed, to provide fee relief to those regulatees most in need.

29. Regulatees whose businesses have been hurt by the pandemic, but not to the extent required to receive a waiver, reduction, or deferral, may be eligible to pay their FY 2021 fees in installments under section 1.1914 of our rules. For those regulatees, we exercise our discretion under section 3717(a) of the Debt Collection Improvement Act of 1996, as amended, to reduce the interest rate the Commission charges on installments payments to a nominal rate and we suspend our down payment requirement. We also recognize that demonstrating financial hardship caused by the pandemic may require different financial documentation than the documentation the Commission has traditionally accepted. While the burden of proving financial hardship remains with the party requesting it, we again direct the Managing Director to work with individual regulatees that have filed requests if additional documents are needed to render a decision on the request. Finally, we direct the Managing Director to release one or more public notices describing in more detail the relief we have described herein.

We remind regulatees that we cannot relax the standard for granting a waiver or deferral of fees, penalties, or other charges for late payment of regulatory fees under section 9A of the Act. Under the statute, the Commission may only waive a regulatory fee, penalty or interest if it finds there is good cause for the waiver and that the waiver is in the public interest. The Commission has only granted financial hardship waivers when the requesting party has shown it “lacks sufficient funds to pay the regulatory fees and to maintain its service to the public.” Other statutory limitations include that the Commission must act on waiver requests individually, and cannot extend the deadline we set for payment of fees beyond September 30.

III. Procedural Matters

30. Included below are procedural items as well as our current payment and collection methods.

31. Credit Card Transaction Levels. In accordance with Treasury Financial Manual, Volume I, Part 5, Chapter 7000, Section 7045—Limitations on Card Collection Transactions, the highest amount that can be charged on a credit card for transactions with federal agencies is $24,999.99. Transactions greater than $24,999.99 will be rejected. This limit applies to single payments or bundled payments of more than one bill. Multiple transactions to a single agency in one day may be aggregated and treated as a single transaction subject to the $24,999.99 limit. Customers who wish to pay an amount greater than $24,999.99 should consider available electronic alternatives such as Visa or MasterCard debit cards, ACH debits from a bank account, and wire transfers. Each of these payment options is available after filing regulatory fee information in Fee Filer. Further details will be provided regarding payment methods and procedures at the time of FY 2021 regulatory fee collection in Fact Sheets, https://www.fcc.gov/regfees.

32. Payment Methods. Pursuant to an Office of Management and Budget (OMB) directive, the Commission is moving towards a paperless environment, extending to disbursement and collection of select federal government payments and receipts. In 2015, the Commission stopped accepting checks (including cashier's checks and money orders) and the accompanying hardcopy forms (e.g., Forms 159, 159-B, 159-E, 159-W) for the payment of regulatory fees. During the fee season for collecting regulatory fees, regulatees can pay their fees by credit card through Pay.gov, ACH, debit card, or by wire transfer. Additional payment instructions are posted on the Commission's website at http://transition.fcc.gov/fees/regfees.html. The receiving bank for all wire payments is the U.S. Treasury, New York, NY (TREAS NYC). Any other form of payment (e.g., checks, cashier's checks, or money orders) will be rejected. For payments by wire, a Form 159-E should still be transmitted via fax so that the Commission can associate the wire payment with the correct regulatory fee information. The fax should be sent to the Federal Communications Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at https://www.fcc.gov/licensing-databases/fees/wire-transfer.

33. De Minimis Regulatory Fees, Section 9(e)(2) Exemption. Under the de minimis rule, and pursuant to our analysis under section 9(e)(2) of the Act, a regulatee is exempt from paying regulatory fees if the sum total of all of its annual regulatory fee liabilities is $1,000 or less for the fiscal year. The de minimis threshold applies only to filers of annual regulatory fees, not regulatory fees paid through multi-year filings, and it is not a permanent exemption. Each regulatee will need to reevaluate the total annual fee liability each fiscal year to determine whether it meets the de minimis exemption.

34. Standard Fee Calculations and Payment Dates. The Commission will accept fee payments made in advance of the window for the payment of regulatory fees. The responsibility for payment of fees by service category is as follows:

• Media Services: Regulatory fees must be paid for initial construction permits that were granted on or before October 1, 2020 for AM/FM radio stations, VHF/UHF broadcast television stations, and satellite television stations. Regulatory fees must be paid for all broadcast facility licenses granted on or before October 1, 2020.

• Wireline (Common Carrier) Services: Regulatory fees must be paid for authorizations that were granted on or before October 1, 2020. In instances where a permit or license is transferred or assigned after October 1, 2020, responsibility for payment rests with the holder of the permit or license as of the fee due date. Audio bridging service providers are included in this category. For Responsible Organizations (RespOrgs) that manage Toll Free Numbers (TFN), regulatory fees should be paid on all working, assigned, and reserved toll free numbers as well as toll free numbers in any other status as defined in section 52.103 of the Commission's rules. The unit count should be based on toll free numbers managed by RespOrgs on or about December 31, 2020.

• Wireless Services: CMRS cellular, mobile, and messaging services (fees based on number of subscribers or telephone number count): Regulatory fees must be paid for authorizations that were granted on or before October 1, 2020. The number of subscribers, units, or telephone numbers on December 31, 2020 will be used as the basis from which to calculate the fee payment. In instances where a permit or license is transferred or assigned after October 1, 2020, responsibility for payment rests with the holder of the permit or license as of the fee due date.

• Wireless Services, Multi-year fees: The first eight regulatory fee categories in our Schedule of Regulatory Fees pay “small multi-year wireless regulatory fees.” Entities pay these regulatory fees in advance for the entire amount period covered by the ten-year terms of their initial licenses, and pay regulatory fees again only when the license is renewed, or a new license is obtained. We include these fee categories in our rulemaking to publicize our estimates of the number of “small multi-year wireless” licenses that will be renewed or newly obtained in FY 2021.

• Multichannel Video Programming Distributor Services (cable television operators, CARS licensees, DBS, and IPTV): Regulatory fees must be paid for the number of basic cable television subscribers as of December 31, 2020. Regulatory fees also must be paid for CARS licenses that were granted on or before October 1, 2020. In instances where a permit or license is transferred or assigned after October 1, 2020, responsibility for payment rests with the holder of the permit or license as of the fee due date. For providers of DBS service and IPTV-based MVPDs, regulatory fees should be paid based on a subscriber count on or about December 31, 2020. In instances where a permit or license is transferred or assigned after October 1, 2020, responsibility for payment rests with the holder of the permit or license as of the fee due date.

• International Services (Earth Stations and Space Stations): Regulatory fees must be paid for (1) earth stations and (2) geostationary orbit space stations and non-geostationary orbit satellite systems that were licensed and operational on or before October 1, 2020. In instances where a permit or license is transferred or assigned after October 1, 2020, responsibility for payment rests with the holder of the permit or license as of the fee due date.

• International Services (Submarine Cable Systems, Terrestrial and Satellite Services): Regulatory fees for submarine cable systems are to be paid on a per cable landing license basis based on lit circuit capacity as of December 31, 2020. Regulatory fees for terrestrial and satellite IBCs are to be paid based on active (used or leased) international bearer circuits as of December 31, 2020 in any terrestrial or satellite transmission facility for the provision of service to an end user or resale carrier. When calculating the number of such active circuits, entities must include circuits used by themselves or their affiliates. For these purposes, “active circuits” include backup and redundant circuits as of December 31, 2020. Whether circuits are used specifically for voice or data is not relevant for purposes of determining that they are active circuits. In instances where a permit or license is transferred or assigned after October 1, 2020, responsibility for payment rests with the holder of the permit or license as of the fee due date.

35. Commercial Mobile Radio Service (CMRS) and Mobile Services Assessments. The Commission compiled data from the Numbering Resource Utilization Forecast (NRUF) report that is based on “assigned” telephone number (subscriber) counts that have been adjusted for porting to net Type 0 ports (“in” and “out”). We have included non-geographic numbers in the calculation of the number of subscribers for each CMRS provider in Tables 2 and the CMRS regulatory fee rate in Table 3. CMRS provider regulatory fees are calculated and should be paid based on the inclusion of non-geographic numbers. CMRS providers can adjust the total number of subscribers, if needed. This information of telephone numbers (subscriber count) will be posted on the Commission's electronic filing and payment system (Fee Filer).

36. A carrier wishing to revise its telephone number (subscriber) count can do so by accessing Fee Filer and follow the prompts to revise their telephone number counts. Any revisions to the telephone number counts should be accompanied by an explanation or supporting documentation. The Commission will then review the revised count and supporting documentation and either approve or disapprove the submission in Fee Filer. If the submission is disapproved, the Commission will contact the provider to afford the provider an opportunity to discuss its revised subscriber count and/or provide additional supporting documentation. If we receive no response from the provider, or we do not reverse our initial disapproval of the provider's revised count submission, the fee payment must be based on the number of subscribers listed initially in Fee Filer. Once the timeframe for revision has passed, the telephone number counts are final and are the basis upon which CMRS regulatory fees are to be paid. Providers can view their final telephone counts online in Fee Filer. A final CMRS assessment letter will not be mailed out.

37. Because some carriers do not file the NRUF report, they may not see their telephone number counts in Fee Filer. In these instances, the carriers should compute their fee payment using the standard methodology that is currently in place for CMRS Wireless services (i.e., compute their telephone number counts as of December 31, 2020), and submit their fee payment accordingly. Whether a carrier reviews its telephone number counts in Fee Filer or not, the Commission reserves the right to audit the number of telephone numbers for which regulatory fees are paid. In the event that the Commission determines that the number of telephone numbers that are paid is inaccurate, the Commission will bill the carrier for the difference between what was paid and what should have been paid.

38. Effective Date. Providing a 30-day period after Federal Register publication before this Report and Order and Notice of Proposed Rulemaking, becomes effective as normally required by 5 U.S.C. 553(d) will not allow sufficient time to collect the FY 2021 fees before FY 2021 ends on September 30, 2021. For this reason, pursuant to 5 U.S.C. 553(d)(3), we find there is good cause to waive the requirements of section 553(d), and this Report and Order and Notice of Proposed Rulemaking will become effective upon publication in the Federal Register. Because payments of the regulatory fees will not actually be due until late September, persons affected by the Report and Order will still have a reasonable period in which to make their payments and thereby comply with the rules established herein.

39. Final Regulatory Flexibility Analysis. As required by the Regulatory Flexibility Act of 1980 (RFA) the Commission has prepared a Final Regulatory Flexibility Analysis (FRFA) relating to this Report and Order. The FRFA is contained in the back of this document.

40. Paperwork Reduction Act of 1995 Analysis. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

41. Congressional Review Act. The Commission has determined, and the Administrator of the Office of Information and Regulatory Affairs, Office of Management and Budget, concurs that these rules are non-major under the Congressional Review Act, 5 U.S.C. 804(2). The Commission will send a copy of this Report and Order and Notice of Proposed Rulemaking to Congress and the Government Accountability Office pursuant to 5 U.S.C. 801(a)(1)(A).

List of Tables

Table 1—List of Commenters
Name of commenter | Abbreviated name
Amazon Web Services, Inc | AWS.
ATL Communications, Inc | ATL.
DISH Network L.L.C and AT&T Services, Inc | DISH and DIRECTV.
Iridium Communications Inc | Iridium.
Kepler Communications Inc | Kepler.
Myriota Pty. Ltd | Myriota.
National Association of Broadcasters | NAB.
NCTA—The Internet & Television Association and ACA Connects—America's Communications Association | NCTA and ACA Connects.
Planet Labs, Inc | Planet.
Space Exploration Holdings, LLC | SpaceX.
Spanish Broadcasting System Holding Company, Inc. and Televicentro of Puerto Rico, LLC | SBS and Televicentro.
Cable & Wireless Networks; GlobeNet Cabos Submarinos America, Inc.; GU Holdings Inc., an indirect, wholly-owned subsidiary of Google LLC; Hawaiki Submarine Cable USA LLC; SETAR; and Tata Communications (Americas), Inc | Submarine Cable Coalition.
Telesat Canada. Space Exploration Holdings, LLC, Kepler Communications Inc., and WorldVu Satellites Limited (d/b/a OneWeb) | NGSO Satellite Coalition.

List of Reply Commenters
Name of reply commenter | Abbreviated name
Alabama Broadcasters Association, Alaska Broadcasters Association, Arizona Broadcasters Association, Arkansas Broadcasters Association, California Broadcasters Association, Connecticut Broadcasters Association, Florida Association of Broadcasters, Georgia Association of Broadcasters, Hawaii Association of Broadcasters, Idaho State Broadcasters Association, Illinois Broadcasters Association, Indiana Broadcasters Association, Iowa Broadcasters Association, Kansas Association of Broadcasters, Kentucky Broadcasters Association, Louisiana Association of Broadcasters, Maine Association of Broadcasters, MD/DC/DE Broadcasters Association, Massachusetts Broadcasters Association, Michigan Association of Broadcasters, Minnesota Broadcasters Association, Mississippi Association of Broadcasters, Missouri Broadcasters Association, Montana Broadcasters Association, Nebraska Broadcasters Association, Nevada Broadcasters Association, New Hampshire Association of Broadcasters, New Jersey Broadcasters Association, New Mexico Broadcasters Association, The New York State Broadcasters Association, Inc., North Carolina Association of Broadcasters, North Dakota Broadcasters Association, Ohio Association of Broadcasters, Oklahoma Association of Broadcasters, Oregon Association of Broadcasters, Pennsylvania Association of Broadcasters, Radio Broadcasters Association of Puerto Rico, Rhode Island Broadcasters Association, South Carolina Broadcasters Association, South Dakota Broadcasters Association, Tennessee Association of Broadcasters, Texas Association of Broadcasters, Utah Broadcasters Association, Vermont Association of Broadcasters, Virginia Association of Broadcasters, Washington State Association of Broadcasters, West Virginia Broadcasters Association, Wisconsin Broadcasters Association, and Wyoming Association of Broadcasters | State Broadcasters Associations.
American General Media | AGM.
AGM California, Inc., AGM-Nevada, L.L.C., Brayden Madison Broadcasting, LLC, Clarke Broadcasting Corporation, Davis Broadcasting of Atlanta, L.L.C., Davis Broadcasting Inc. of Columbus, Galaxy Syracuse Licensee LLC, Galaxy Utica Licensee LLC, Golden Isles Broadcasting, LLC, Good Karma Broadcasting, LLC, Good Karma Brands Milwaukee, LLC, Gulf South Communications Inc., HEH Communications, LLC, Inland Empire Broadcasting Corporation, JAM Communications, Inc., Kensington Digital Media, L.L.C., Kensington Digital Media of Indiana, L.L.C., Kirkman Broadcasting, Inc., KWHY-22 Broadcasting, LLC, KLOS Radio Holdings, LLC, KXOX Radio Holdings, LLC, L.M. Communications, Inc., L.M. Communications of KY, L.L.C., LM Communications of SC Inc., LM Communications II of SC Inc., Meruelo Radio Holdings, LLC, Mississippi Broadcasters, L.L.C., New South Radio Inc., Partnership Radio, LLC, Pathfinder Communications Corporation, Sarkes Tarzian, Inc., SBR Broadcasting Corporation, Serge Martin Enterprises, Inc., Talking Stick Communications, LLC, Winton Road Broadcasting Co., LLC, and WKLC, Inc | Joint Radio Broadcasters.
Care Weather Technologies, Inc., Hiber, Inc., Loft Orbital Solutions, Inc., Myriota Pty. Ltd., Totum Labs, Inc., SpaceQuest, Ltd., Fleet Space Technologies Pty., Ltd | SmallSat Commenters.
Colorado Broadcasters Association, Florida Association of Broadcasters, and Puerto Rico Broadcasters Association | Joint Broadcasters.
CTIA—The Wireless Association® | CTIA.
Iridium Communications Inc | Iridium.
Kepler Communications Inc | Kepler.
Kineis | Kineis.
Lumen | Lumen.
Maxar Technologies, Inc | Maxar.
National Association of Broadcasters | NAB.
NCTA—The Internet & Television Association and ACA Connects—America's Communications Association | NCTA and ACA Connects.
Planet Labs, Inc | Planet.
SES Americom, Inc | SES.
Spire Global, Inc | Spire.

Table 2—Calculation of FY 2021 Revenue Requirements and Pro-Rata Fees
[Regulatory fees for the categories shaded in gray are collected by the Commission in advance to cover the term of the license and are submitted at the time the application is filed.]
Fee category | FY 2021 payment units | Yrs | FY 2020 revenue estimate | Pro-rated FY 2021 revenue requirement | Computed FY 2021 regulatory fee | Rounded FY 2021 reg. fee | Expected FY 2021 revenue
PLMRS (Exclusive Use) | 300 | 10 | 187,500 | 75,000 | 25.00 | 25 | 75,000
PLMRS (Shared use) | 9,900 | 10 | 1,170,000 | 990,000 | 10.00 | 10 | 990,000
Microwave | 19,000 | 10 | 3,150,000 | 4,750,000 | 25.00 | 25 | 4,750,000
Marine (Ship) | 6,150 | 10 | 1,065,000 | 922,500 | 15.00 | 15 | 922,500
Aviation (Aircraft) | 3,900 | 10 | 550,000 | 390,000 | 10.00 | 10 | 390,000
Marine (Coast) | 40 | 10 | 36,000 | 16,000 | 40.00 | 40 | 16,000
Aviation (Ground) | 550 | 10 | 220,000 | 110,000 | 20.00 | 20 | 110,000
AM Class A ¹ | 63 | 1 | 296,100 | 290,869 | 4,617 | 4,615 | 290,745
AM Class B ¹ | 1,456 | 1 | 3,681,450 | 3,609,310 | 2,479 | 2,480 | 3,610,880
AM Class C ¹ | 825 | 1 | 1,310,400 | 1,292,416 | 1,567 | 1,565 | 1,291,125
AM Class D ¹ | 1,397 | 1 | 4,356,100 | 4,269,73 | 3,056 | 3,055 | 4,267,835
FM Classes A, B1 & C3 ¹ | 3,059 | 1 | 9,141,975 | 8,885,212 | 2,905 | 2,905 | 8,886,395
FM Classes B, C, C0, C1 & C2 ¹ | 3,118 | 1 | 11,246,950 | 11,102,752 | 3,561 | 3,560 | 11,100,080
AM Construction Permits ² | 6 | 1 | 3,660 | 3,660 | 610 | 610 | 3,660
FM Construction Permits ² | 55 | 1 | 64,500 | 58,850 | 1,070 | 1,070 | 58,850
Digital Television ⁵ (including Satellite TV) | 3.262 billion population | 1 | 25,473,855 | 25,416,380 | .0077927 | .007793 | 25,416,380
Digital TV Construction Permits ² | 4 | 1 | 14,850 | 20,400 | 5,100 | 5,100 | 20,400
LPTV/Class A/Translators FM Trans/Boosters | 5,156 | 1 | 1,682,100 | 1,654,836 | 321 | 320 | 1,649,920
CARS Stations | 150 | 1 | 208,000 | 233,524 | 1,557 | 1,555 | 233,250
Cable TV Systems, including IPTV & DBS | 77,800,000 | 1 | 69,511,000 | 75,900,608 | .9756 | .98 | 76,244,000
Interstate Telecommunication Service Providers | $30,100,000,000 | 1 | 98,547,000 | 120,352,605 | 0.003998 | 0.00400 | 120,400,000
Toll Free Numbers | 33,500,000 | 1 | 3,960,000 | 4,135,328 | 0.12344 | 0.12 | 4,020,000
CMRS Mobile Services (Cellular/Public Mobile) | 504,000,000 | 1 | 72,250,000 | 76,601,126 | 0.1520 | 0.15 | 75,600,000
CMRS Messaging Services | 1,700,000 | 1 | 152,000 | 136,000 | 0.0800 | 0.080 | 136,000
BRS/ ³ | 1,250 | 1 | 716,800 | 756,250 | 605 | 605 | 756,250
LMDS | 342 | 1 | 190,400 | 206,910 | 605 | 605 | 206,910
Per Gbps circuit Int'l Bearer Circuits Terrestrial (Common & Non-Common) & Satellite (Common & Non-Common) | 10,900 | 1 | 438,700 | 465,241 | 42.68 | 43 | 468,700
Submarine Cable Providers (See chart at bottom of Appendix C) ⁴ | 58.188 | 1 | 8,280,333 | 8,839,411 | 151,913 | 151,915 | 8,839,554
Earth Stations | 3,000 | 1 | 1,680,000 | 1,791,235 | 597 | 595 | 1,785,000
Space Stations (Geostationary) | 147 | 1 | 16,092,500 | 17,177,620 | 116,855 | 116,855 | 17,177,685
Space Stations (Non-Geostationary, Other) | 10 | 1 | 4,023,000 | 3,435,525 | 343,553 | 343,555 | 3,435,550
Space Stations (Non-Geostationary, Less Complex) | 7 | 1 |  | 858,880 | 122,697 | 122,695 | 858,865
****** Total Estimated Revenue to be Collected |  |  | 338,940,733 | 373,897,672 |  |  | 373,920,077
****** Total Revenue Requirement |  |  | 339,000,000 | 374,000,000 |  |  | 374,000,000
Difference |  |  | (59,267) | (102,328) |  |  | (79,923)
Notes on Table 2
¹ The fee amounts listed in the column entitled “Rounded New FY 2021 Regulatory Fee” constitute a weighted average broadcast regulatory fee by class of service. The actual FY 2021 regulatory fees for AM/FM radio station are listed on a grid located at the end of Table 3.
² The AM and FM Construction Permit revenues and the Digital (VHF/UHF) Construction Permit revenues were adjusted, respectively, to set the regulatory fee to an amount no higher than the lowest licensed fee for that class of service. Reductions in the Digital (VHF/UHF) Construction Permit revenues, and in the AM and FM Construction Permit revenues, were offset by increases in the revenue totals for Digital television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
⁴ The chart at the end of Table 3 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009). The Submarine Cable fee in Table 2 is a weighted average of the various fee payers in the chart at the end of Table 3.
⁵ The actual digital television regulatory fees to be paid by call sign are identified in Table 7.

Table 3—FY 2021 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25
Microwave (per license) (47 CFR part 101) | 25
Marine (Ship) (per station) (47 CFR part 80) | 15
Marine (Coast) (per license) (47 CFR part 80) | 40
Rural Radio (47 CFR part 22) (previously listed under the Land Mobile category) | 10
PLMRS (Shared Use) (per license) (47 CFR part 90) | 10
Aviation (Aircraft) (per station) (47 CFR part 87) | 10
Aviation (Ground) (per license) (47 CFR part 87) | 20
CMRS Mobile/Cellular Services (per unit) (47 CFR parts 20, 22, 24, 27, 80 and 90) (Includes Non-Geographic telephone numbers) | .15
CMRS Messaging Services (per unit) (47 CFR parts 20, 22, 24 and 90) | .08
Broadband Radio Service (formerly MMDS/MDS) (per license) (47 CFR part 27) | 605
Local Multipoint Distribution Service (per call sign) (47 CFR part 101) | 605
AM Radio Construction Permits | 610
FM Radio Construction Permits | 1,070
AM and FM Broadcast Radio Station Fees | See Table Below
Digital TV (47 CFR part 73) VHF and UHF Commercial Fee Factor | * $.007793
Digital TV Construction Permits | 5,100
Low Power TV, Class A TV, TV/FM Translators & FM Boosters (47 CFR part 74) | 320
CARS (47 CFR part 78) | 1,555
Cable Television Systems (per subscriber) (47 CFR part 76), Including IPTV (per subscriber) and Direct Broadcast Satellite (DBS) (per subscriber) | .98
Interstate Telecommunication Service Providers (per revenue dollar) | .00400
Toll Free (per toll free subscriber) (47 CFR section 52.101(f) of the rules) | .12
Earth Stations (47 CFR part 25) | 595
Space Stations (per operational station in geostationary orbit) (47 CFR part 25) also includes DBS Service (per operational station) (47 CFR part 100) | 116,855
Space Stations (per operational system in non-geostationary orbit) (47 CFR part 25) (Other) | 343,555
Space Stations (per operational system in non-geostationary orbit) (47 CFR part 25) (Less Complex) | 122,695
International Bearer Circuits—Terrestrial/Satellites (per Gbps circuit) | $43
Submarine Cable Landing Licenses Fee (per cable system) | See Table Below
* See Appendix G for fee amounts due, also available at https://www.fcc.gov/licensing-databases/fees/regulatory-fees.

FY 2021 Radio Station Regulatory Fees
Population served | AM Class A | AM Class B | AM Class C | AM Class D | FM Classes A, B1 & C3 | FM Classes B, C, C0, C1 & C2
<=25,000 | $975 | $700 | $610 | $670 | $1,070 | $1,220
25,001-75,000 | 1,465 | 1,050 | 915 | 1,000 | 1,605 | 1,830
75,001-150,000 | 2,195 | 1,575 | 1,375 | 1,510 | 2,410 | 2,745
150,001-500,000 | 3,295 | 2,365 | 2,060 | 2,265 | 3,615 | 4,125
500,001-1,200,000 | 4,935 | 3,540 | 3,085 | 3,390 | 5,415 | 6,175
1,200,001-3,000,000 | 7,410 | 5,320 | 4,635 | 5,090 | 8,130 | 9,270
3,000,001-6,000,000 | 11,105 | 7,975 | 6,950 | 7,630 | 12,185 | 13,895
>6,000,000 | 16,665 | 11,965 | 10,425 | 11,450 | 18,285 | 20,850

FY 2021 International Bearer Circuits—Submarine Cable Systems
Submarine cable systems (capacity as of December 31, 2020) | Fee ratio (units) | FY 2021 regulatory fees
Less than 50 Gbps | .0625 | $9,495
50 Gbps or greater, but less than 250 Gbps | .125 | 18,990
250 Gbps or greater, but less than 1,500 Gbps | .25 | 37,980
1,500 Gbps or greater, but less than 3,500 Gbps | .5 | 75,955
3,500 Gbps or greater, but less than 6,500 Gbps | 1.0 Unit | 151,910
6,500 Gbps or greater | 2.0 | 303,820

Table 4—Sources of Payment Unit Estimates for FY 2021

In order to calculate individual service fees for FY 2021, we adjusted FY 2020 payment units for each service to more accurately reflect expected FY 2021 payment liabilities. We obtained our updated estimates through a variety of means and sources. For example, we used Commission licensee data bases, actual prior year payment records and industry and trade association projections, when available. The databases we consulted include our Universal Licensing System (ULS), International Bureau Filing System (IBFS), Consolidated Database System (CDBS), Licensing and Management System (LMS) and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues.

We sought verification for these estimates from multiple sources and, in all cases, we compared FY 2021 estimates with actual FY 2020 payment units to ensure that our revised estimates were reasonable. Where appropriate, we adjusted and/or rounded our final estimates to take into consideration the fact that certain variables that impact on the number of payment units cannot yet be estimated with sufficient accuracy. These include an unknown number of waivers and/or exemptions that may occur in FY 2021 and the fact that, in many services, the number of actual licensees or station operators fluctuates from time to time due to economic, technical, or other reasons. When we note, for example, that our estimated FY 2021 payment units are based on FY 2020 actual payment units, it does not necessarily mean that our FY 2021 projection is exactly the same number as in FY 2020. We have either rounded the FY 2020 number or adjusted it slightly to account for these variables.

Fee category | Sources of payment unit estimates
Land Mobile (All), Microwave, Marine (Ship & Coast), Aviation (Aircraft & Ground), Domestic Public Fixed | Based on Wireless Telecommunications Bureau (WTB) projections of new applications and renewals taking into consideration existing Commission licensee data bases. Aviation (Aircraft) and Marine (Ship) estimates have been adjusted to take into consideration the licensing of portions of these services on a voluntary basis.
CMRS Cellular/Mobile Services | Based on WTB projection reports, and FY 2020 payment data.
CMRS Messaging Services | Based on WTB reports, and FY 2020 payment data.
AM/FM Radio Stations | Based on CDBS data, adjusted for exemptions, and actual FY 2020 payment units.
Digital TV Stations (Combined VHF/UHF units) | Based on LMS data, fee rate adjusted for exemptions, and population figures are calculated based on individual station parameters.
AM/FM/TV Construction Permits | Based on CDBS data, adjusted for exemptions, and actual FY 2020 payment units.
LPTV, Translators and Boosters, Class A Television | Based on LMS data, adjusted for exemptions, and actual FY 2020 payment units.
BRS (formerly MDS/MMDS) LMDS | Based on WTB reports and actual FY 2020 payment units. Based on WTB reports and actual FY 2020 payment units.
Cable Television Relay Service (CARS) Stations | Based on data from Media Bureau's COALS database and actual FY 2020 payment units.
Cable Television System Subscribers, Including IPTV Subscribers | Based on publicly available data sources for estimated subscriber counts and actual FY 2020 payment units.
Interstate Telecommunication Service Providers | Based on FCC Form 499-Q data for the four quarters of calendar year 2020, the Wireline Competition Bureau projected the amount of calendar year 2020 revenue that will be reported on the 2021 FCC Form 499-A worksheets due in April 2021.
Earth Stations | Based on International Bureau licensing data and actual FY 2020 payment units.
Space Stations (GSOs & NGSOs) | Based on International Bureau data reports and actual FY 2020 payment units.
International Bearer Circuits | Based on International Bureau reports and submissions by licensees, adjusted as necessary, and actual FY 2020 payment units.
Submarine Cable Licenses | Based on International Bureau license information, and actual FY 2020 payment units.

Table 5—Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @1 km) for the antenna system. The standard, or augmented standard if pertinent, horizontal plane radiation pattern was calculated using techniques and methods specified in sections 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2010 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2010 block centroids were contained in the polygon. The sum of the population figures for all enclosed blocks represents the total population for the predicted principal community coverage area.

Table 6—Satellite Charts for FY 2021 Regulatory Fees
[U.S.-licensed space stations]
Licensee | Call sign | Satellite name | Type
DIRECTV Enterprises, LLC | S2922 | SKY-B1 | GSO
DIRECTV Enterprises, LLC | S2640 | DIRECTV T11 | GSO
DIRECTV Enterprises, LLC | S2711 | DIRECTV RB-1 | GSO
DIRECTV Enterprises, LLC | S2632 | DIRECTV T8 | GSO
DIRECTV Enterprises, LLC | S2669 | DIRECTV T9S | GSO
DIRECTV Enterprises, LLC | S2641 | DIRECTV T10 | GSO
DIRECTV Enterprises, LLC | S2797 | DIRECTV T12 | GSO
DIRECTV Enterprises, LLC | S2930 | DIRECTV T15 | GSO
DIRECTV Enterprises, LLC | S2673 | DIRECTV T5 | GSO
DIRECTV Enterprises, LLC | S2455 | DIRECTV T7S | GSO
DIRECTV Enterprises, LLC | S2133 | SPACEWAY 2 | GSO
DIRECTV Enterprises, LLC | S3039 | DIRECTV T16 | GSO
DISH Operating L.L.C | S2931 | ECHOSTAR 18 | GSO
DISH Operating L.L.C | S2738 | ECHOSTAR 11 | GSO
DISH Operating L.L.C | S2694 | ECHOSTAR 10 | GSO
DISH Operating L.L.C | S2740 | ECHOSTAR 7 | GSO
DISH Operating L.L.C | S2790 | ECHOSTAR 14 | GSO
EchoStar Satellite Operating Corporation | S2811 | ECHOSTAR 15 | GSO
EchoStar Satellite Operating Corporation | S2844 | ECHOSTAR 16 | GSO
EchoStar Satellite Operating Corporation | S2653 | ECHOSTAR 12 | GSO
EchoStar Satellite Services L.L.C | S2179 | ECHOSTAR 9 | GSO
ES 172 LLC | S2610 | EUTELSAT 174A | GSO
ES 172 LLC | S3021 | EUTELSAT 172B | GSO
Horizon-3 Satellite LLC | S2947 | HORIZONS-3e | GSO
Hughes Network Systems, LLC | S2663 | SPACEWAY 3 | GSO
Hughes Network Systems, LLC | S2834 | ECHOSTAR 19 | GSO
Hughes Network Systems, LLC | S2753 | ECHOSTAR XVII | GSO
Intelsat License LLC/ViaSat, Inc | S2160 | GALAXY 28 | GSO
Intelsat License LLC, Debtor-in-Possession | S2414 | INTELSAT 10-02 | GSO
Intelsat License LLC, Debtor-in-Possession | S2972 | INTELSAT 37e | GSO
Intelsat License LLC, Debtor-in-Possession | S2854 | NSS-7 | GSO
Intelsat License LLC, Debtor-in-Possession | S2409 | INELSAT 905 | GSO
Intelsat License LLC, Debtor-in-Possession | S2405 | INTELSAT 901 | GSO
Intelsat License LLC, Debtor-in-Possession | S2408 | INTELSAT 904 | GSO
Intelsat License LLC, Debtor-in-Possession | S2804 | INTELSAT 25 | GSO
Intelsat License LLC, Debtor-in-Possession | S2959 | INTELSAT 35e | GSO
Intelsat License LLC, Debtor-in-Possession | S2237 | INTELSAT 11 | GSO
Intelsat License LLC, Debtor-in-Possession | S2785 | INTELSAT 14 | GSO
Intelsat License LLC, Debtor-in-Possession | S2913 | INTELSAT 29E | GSO
Intelsat License LLC, Debtor-in-Possession | S2380 | INTELSAT 9 | GSO
Intelsat License LLC, Debtor-in-Possession | S2831 | INTELSAT 23 | GSO
Intelsat License LLC, Debtor-in-Possession | S2915 | INTELSAT 34 | GSO
Intelsat License LLC, Debtor-in-Possession | S2863 | INTELSAT 21 | GSO
Intelsat License LLC, Debtor-in-Possession | S2750 | INTELSAT 16 | GSO
Intelsat License LLC, Debtor-in-Possession | S2715 | GALAXY 17 | GSO
Intelsat License LLC, Debtor-in-Possession | S2154 | GALAXY 25 | GSO
Intelsat License LLC, Debtor-in-Possession | S2253 | GALAXY 11 | GSO
Intelsat License LLC, Debtor-in-Possession | S2381 | GALAXY 3C | GSO
Intelsat License LLC, Debtor-in-Possession | S2887 | INTELSAT 30 | GSO
Intelsat License LLC, Debtor-in-Possession | S2924 | INTELSAT 31 | GSO
Intelsat License LLC, Debtor-in-Possession | S2647 | GALAXY 19 | GSO
Intelsat License LLC, Debtor-in-Possession | S2687 | GALAXY 16 | GSO
Intelsat License LLC, Debtor-in-Possession | S2733 | GALAXY 18 | GSO
Intelsat License LLC, Debtor-in-Possession | S2385 | GALAXY 14 | GSO
Intelsat License LLC, Debtor-in-Possession | S2386 | GALAXY 13 | GSO
Intelsat License LLC, Debtor-in-Possession | S2422 | GALAXY 12 | GSO
Intelsat License LLC, Debtor-in-Possession | S2387 | GALAXY 15 | GSO
Intelsat License LLC, Debtor-in-Possession | S2704 | INTELSAT 5 | GSO
Intelsat License LLC, Debtor-in-Possession | S2817 | INTELSAT 18 | GSO
Intelsat License LLC, Debtor-in-Possession | S2960 | JCSAT-RA | GSO
Intelsat License LLC, Debtor-in-Possession | S2850 | INTELSAT 19 | GSO
Intelsat License LLC, Debtor-in-Possession | S2368 | INTELSAT 1R | GSO
Intelsat License LLC, Debtor-in-Possession | S2988 | TELKOM-2 | GSO
Intelsat License LLC, Debtor-in-Possession | S2789 | INTELSAT 15 | GSO
Intelsat License LLC, Debtor-in-Possession | S2423 | HORIZONS 2 | GSO
Intelsat License LLC, Debtor-in-Possession | S2846 | INTELSAT 22 | GSO
Intelsat License LLC, Debtor-in-Possession | S2847 | INTELSAT 20 | GSO
Intelsat License LLC, Debtor-in-Possession | S2948 | INTELSAT 36 | GSO
Intelsat License LLC, Debtor-in-Possession | S2814 | INTELSAT 17 | GSO
Intelsat License LLC, Debtor-in-Possession | S2410 | INTELSAT 906 | GSO
Intelsat License LLC, Debtor-in-Possession | S2406 | INTELSAT 902 | GSO
Intelsat License LLC, Debtor-in-Possession | S2939 | INTELSAT 33e | GSO
Intelsat License LLC, Debtor-in-Possession | S2382 | INTELSAT 10 | GSO
Intelsat License LLC, Debtor-in-Possession | S2751 | NEW DAWN | GSO
Intelsat License LLC, Debtor-in-Possession | S3023 | INTELSAT 39 | GSO
Leidos, Inc | S2371 | LM-RPS2 | GSO
Ligado Networks Subsidiary, LLC | S2358 | SKYTERRA-1 | GSO
Ligado Networks Subsidiary, LLC | AMSC-1 | MSAT-2 | GSO
Novavision Group, Inc | S2861 | DIRECTV KU-79W | GSO
Satellite CD Radio LLC | S2812 | FM-6 | GSO
SES Americom, Inc | S2415 | NSS-10 | GSO
SES Americom, Inc | S2162 | AMC-3 | GSO
SES Americom, Inc | S2347 | AMC-6 | GSO
SES Americom, Inc | S2134 | AMC-2 | GSO
SES Americom, Inc | S2826 | SES-2 | GSO
SES Americom, Inc | S2807 | SES-1 | GSO
SES Americom, Inc | S2892 | SES-3 | GSO
SES Americom, Inc | S2180 | AMC-15 | GSO
SES Americom, Inc | S2445 | AMC-1 | GSO
SES Americom, Inc | S2135 | AMC-4 | GSO
SES Americom, Inc | S2155 | AMC-7 | GSO
SES Americom, Inc | S2713 | AMC-18 | GSO
SES Americom, Inc | S2433 | AMC-11 | GSO
SES Americom, Inc/Alascom, Inc | S2379 | AMC-8 | GSO
SES Americom, Inc/EchoStar Satellite Services L.L.C | S2181 | AMC-16 | GSO
Sirius XM Radio Inc | S2710 | FM-5 | GSO
Skynet Satellite Corporation | S2933 | TELSTAR 12V | GSO
Skynet Satellite Corporation | S2357 | TELSTAR 11N | GSO
ViaSat, Inc | S2747 | VIASAT-1 | GSO
XM Radio LLC | S2617 | XM-3 | GSO
XM Radio LLC | S2616 | XM-4 | GSO
XM Radio LLC | S2786 | XM-5 | GSO

Non-U.S.-Licensed Space Stations—Market Access Through Petition for Declaratory Ruling
Licensee | Call sign | Satellite common name | Satellite type
ABS Global Ltd | S2987 | ABS-3A | GSO
DBSD Services Ltd | S2651 | DBSD G1 | GSO
Empresa Argentina de Soluciones Satelitales S.A | S2956 | ARSAT-2 | GSO
European Telecommunications Satellite Organization | S2596 | Atlantic Bird 2 | GSO
European Telecommunications Satellite Organization | S3031 | EUTELSAT 133 WEST A | GSO
Eutelsat S.A | S3056 | EUTELSAT 8 WEST B | GSO
Gamma Acquisition L.L.C. | S2633 | TerreStar 1 | GSO
Hispamar Satélites, S.A | S2793 | AMAZONAS-2 | GSO
Hispamar Satélites, S.A | S2886 | AMAZONAS-3 | GSO
Hispasat, S.A | S2969 | HISPASAT 30W-6 | GSO
Inmarsat PLC | S2932 | Inmarsat-4 F3 | GSO
Inmarsat PLC | S2949 | Inmarsat-3 F5 | GSO
Inmarsat Mobile Networks, Inc | E150028 | Inmarsat 5F3 | GSO
Intelsat License LLC | S2592/S2868 | Galaxy 23 | GSO
Intelsat License LLC | S3058 | HISPASAT 143W-1 | GSO
New Skies Satellites B.V | S2756 | NSS-9 | GSO
New Skies Satellites B.V | S2870 | SES-6 | GSO
New Skies Satellites B.V | S3048 | NSS-6 | GSO
New Skies Satellites B.V | S2828 | SES-4 | GSO
New Skies Satellites B.V | S2950 | SES-10 | GSO
Satelites Mexicanos, S.A. de C.V | S2695 | EUTELSAT 113 WEST A | GSO
Satelites Mexicanos, S.A. de C.V | S2926 | EUTELSAT 117 WEST B | GSO
Satelites Mexicanos, S.A. de C.V | S2938 | EUTELSAT 115 WEST B | GSO
Satelites Mexicanos, S.A. de C.V | S2873 | EUTELSAT 117 WEST A | GSO
SES Satellites (Gibraltar) Ltd | S2676 | AMC 21 | GSO
SES Americom, Inc | S3037 | NSS-11 | GSO
SES Americom, Inc | S2964 | SES-11 | GSO
SES DTH do Brasil Ltda | S2974 | SES-14 | GSO
SES Satellites (Gibraltar) Ltd | S2951 | SES-15 | GSO
Embratel Tvsat Telecommunicacoes S.A | S2677 | STAR ONE C1 | GSO
Embratel Tvsat Telecommunicacoes S.A | S2678 | STAR ONE C2 | GSO
Embratel Tvsat Telecommunicacoes S.A | S2845 | STAR ONE C3 | GSO
Telesat Brasil Capacidade de Satelites Ltda | S2821 | ESTRELA DO SUL 2 | GSO
Telesat Canada | S2674 | ANIK F1R | GSO
Telesat Canada | S2703 | ANIK F3 | GSO
Telesat Canada | S2646/S2472 | ANIK F2 | GSO
Telesat International Ltd | S2955 | TELSTAR 19 VANTAGE | GSO
Viasat, Inc | S2902 | VIASAT-2 | GSO

Non-U.S.-Licensed Space Stations—Market Access Through Earth Station Licenses
ITU name (if available) | Common name | Call sign | GSO/NGSO
APSTAR V | APSTAR 5 | E980250 | GSO
AUSSAT B 152E | OPTUS D2 | M221170 | GSO
CAN-BSS3 and CAN-BSS | ECHOSTAR 23 | SM1987/SM2975 | GSO
Ciel Satellite Group | Ciel-2 | E050029 | GSO
Eutelsat 65 West A | Eutelsat 65 West A | E160081 | GSO
INMARSAT 3F3 | INMARSAT 3F3 | E000284 | GSO
INMARSAT 4F1 | INMARSAT 4F1 | KA25 | GSO
INMARSAT 5F2 | INMARSAT 5F2 | E120072 | GSO
JCSAT-2B | JCSAT-2B | M174163 | GSO
NIMIQ 5 | NIMIQ 5 | E080107 | GSO
MSAT-1 | MSAT-1 | E980179 | GSO
QUETZSAT-1(MEX) | QUETZSAT-1 | NUS1101 | GSO
Superbird C2 | Superbird C2 | M334100 | GSO
WILDBLUE-1 | WILDBLUE-1 | E040213 | GSO
Yamal 300K | Yamal 300K | M174162 | GSO

Non-Geostationary Space Stations (NGSO)
ITU name (if available) | Common name | Call sign | NGSO
U.S.-Licensed NGSO Systems
ORBCOMM License Corp | ORBCOMM | S2103 | Other.
Iridium Constellation LLC | IRIDIUM | S2110 | Other.
Space Exploration Holdings, LLC | SPACEX Ku/Ka-Band | S2983/S3018 | Other.
Swarm Technologies | SWARM | S3041 | Other.
Planet Labs | Flock | S2912 | Less Complex.
Planet Labs | Skysats | S2862 | Less Complex.
Maxar License | WorldView 1,2,3 & 4 | S2129/S2348 | Less Complex.
BlackSky Global | Global 1,2,3 & 4 | S3032 | Less Complex.
Astro Digital U.S., Inc | LANDMAPPER | S3014 | Less Complex.
Hawkeye 360 | HE360 | S3042 | Less Complex.
Non-U.S.-Licensed NGSO Systems—Market Access Through Petition for Declaratory Ruling
Telesat Canada | TELESAT Ku/Ka-Band | S2976 | Other.
Kepler Communications, Inc | KEPLER | S2981 | Other.
WorldVu Satellites Ltd | ONEWEB | S2963 | Other.
Hiber Inc | HIBER | S3038 | Other.
O3b Ltd | O3b | S2935 | Other.
NGSO Systems That Are Partly U.S.-Licensed and Partly Non-U.S.-Licensed With Market Access Through Petition for Declaratory Ruling
Globalstar License LLC | GLOBALSTAR | S2115 | Other.
Spire Global | LEMUR & MINAS | S2946/S3045 | Less Complex.

Table 7—FY 2021 Full-Service Broadcast Television Stations by Call Sign
Facility Id. | Call sign | Service area population | Terrain limited population | Terrain limited fee amount
3246 | KAAH-TV | 955,391 | 879,906 | $6,857
18285 | KAAL | 589,502 | 568,169 | 4,428
11912 | KAAS-TV | 220,262 | 219,922 | 1,714
56528 | KABB | 2,474,296 | 2,456,689 | 19,145
282 | KABC-TV | 17,540,791 | 16,957,292 | 132,148
1236 | KACV-TV | 372,627 | 372,330 | 2,902
33261 | KADN-TV | 877,965 | 877,965 | 6,842
8263 | KAEF-TV | 138,085 | 122,808 | 957
2728 | KAET | 4,217,217 | 4,184,386 | 32,609
2767 | KAFT | 1,204,376 | 1,122,928 | 8,751
62442 | KAID | 711,035 | 702,721 | 5,476
4145 | KAII-TV | 188,810 | 165,396 | 1,289
67494 | KAIL | 1,967,744 | 1,948,341 | 15,183
13988 | KAIT | 861,149 | 845,812 | 6,591
40517 | KAJB | 383,886 | 383,195 | 2,986
65522 | KAKE | 803,937 | 799,254 | 6,229
804 | KAKM | 380,240 | 379,105 | 2,954
148 | KAKW-DT | 2,615,956 | 2,531,813 | 19,730
51598 | KALB-TV | 943,307 | 942,043 | 7,341
51241 | KALO | 948,683 | 844,503 | 6,581
40820 | KAMC | 391,526 | 391,502 | 3,051
8523 | KAMR-TV | 366,476 | 366,335 | 2,855
65301 | KAMU-TV | 346,892 | 342,455 | 2,669
2506 | KAPP | 319,797 | 283,944 | 2,213
3658 | KARD | 703,234 | 700,887 | 5,462
23079 | KARE | 3,924,944 | 3,907,483 | 30,451
33440 | KARK-TV | 1,212,038 | 1,196,196 | 9,322
37005 | KARZ-TV | 1,066,386 | 1,050,270 | 8,185
32311 | KASA-TV | 1,161,789 | 1,119,108 | 8,721
41212 | KASN | 1,175,627 | 1,159,721 | 9,038
7143 | KASW | 4,174,437 | 4,160,497 | 32,423
55049 | KASY-TV | 1,144,839 | 1,099,825 | 8,571
33471 | KATC | 1,348,897 | 1,348,897 | 10,512
13813 | KATN | 97,466 | 97,128 | 757
21649 | KATU | 2,977,993 | 2,845,582 | 22,176
33543 | KATV | 1,257,777 | 1,234,933 | 9,624
50182 | KAUT-TV | 1,637,333 | 1,636,330 | 12,752
6864 | KAUZ-TV | 381,671 | 379,435 | 2,957
73101 | KAVU-TV | 319,618 | 319,484 | 2,490
49579 | KAWB | 186,919 | 186,845 | 1,456
49578 | KAWE | 136,033 | 133,937 | 1,044
58684 | KAYU-TV | 809,464 | 750,766 | 5,851
29234 | KAZA-TV | 14,973,535 | 13,810,130 | 107,622
17433 | KAZD | 6,776,778 | 6,774,172 | 52,791
1151 | KAZQ | 1,097,010 | 1,084,327 | 8,450
35811 | KAZT-TV | 436,925 | 359,273 | 2,800
4148 | KBAK-TV | 1,510,400 | 1,263,910 | 9,850
16940 | KBCA | 479,260 | 479,219 | 3,735
53586 | KBCB | 1,256,193 | 1,223,883 | 9,538
69619 | KBCW | 8,227,562 | 7,375,199 | 57,475
22685 | KBDI-TV | 4,042,177 | 3,683,394 | 28,705
56384 | KBEH | 17,736,497 | 17,695,306 | 137,900
65395 | KBFD-DT | 953,207 | 834,341 | 6,502
169030 | KBGS-TV | 159,269 | 156,802 | 1,222
61068 | KBHE-TV | 140,860 | 133,082 | 1,037
48556 | KBIM-TV | 205,701 | 205,647 | 1,603
29108 | KBIN-TV | 912,921 | 911,725 | 7,105
33658 | KBJR-TV | 275,585 | 271,298 | 2,114
83306 | KBLN-TV | 297,384 | 134,927 | 1,051
63768 | KBLR | 1,964,979 | 1,915,861 | 14,930
53324 | KBME-TV | 123,571 | 123,485 | 962
10150 | KBMT | 743,009 | 742,369 | 5,785
22121 | KBMY | 119,993 | 119,908 | 934
49760 | KBOI-TV | 715,191 | 708,374 | 5,520
55370 | KBRR | 149,869 | 149,868 | 1,168
66414 | KBSD-DT | 155,012 | 154,891 | 1,207
66415 | KBSH-DT | 102,781 | 100,433 | 783
19593 | KBSI | 756,501 | 754,722 | 5,882
66416 | KBSL-DT | 49,814 | 48,483 | 378
4939 | KBSV | 1,352,166 | 1,262,708 | 9,840
62469 | KBTC-TV | 3,697,981 | 3,621,965 | 28,226
61214 | KBTV-TV | 734,008 | 734,008 | 5,720
6669 | KBTX-TV | 4,404,648 | 4,401,048 | 34,297
35909 | KBVO | 1,498,015 | 1,312,360 | 10,227
58618 | KBVU | 135,249 | 120,827 | 942
6823 | KBYU-TV | 2,389,548 | 2,209,060 | 17,215
33756 | KBZK | 120,807 | 107,817 | 840
21422 | KCAL-TV | 17,499,483 | 16,889,157 | 131,617
11265 | KCAU-TV | 714,315 | 706,224 | 5,504
14867 | KCBA | 3,088,394 | 2,369,803 | 18,468
27507 | KCBD | 414,804 | 414,091 | 3,227
9628 | KCBS-TV | 17,853,152 | 16,656,778 | 129,806
49750 | KCBY-TV | 89,156 | 73,211 | 571
33710 | KCCI | 1,102,130 | 1,095,326 | 8,536
9640 | KCCW-TV | 284,280 | 276,935 | 2,158
63158 | KCDO-TV | 2,798,103 | 2,650,225 | 20,653
62424 | KCDT | 698,389 | 657,101 | 5,121
83913 | KCEB | 1,163,228 | 1,159,665 | 9,037
57219 | KCEC | 3,831,192 | 3,613,287 | 28,158
10245 | KCEN-TV | 1,795,767 | 1,757,018 | 13,692
13058 | KCET | 16,875,019 | 15,402,588 | 120,032
18079 | KCFW-TV | 148,162 | 129,122 | 1,006
132606 | KCGE-DT | 123,930 | 123,930 | 966
60793 | KCHF | 1,118,671 | 1,085,205 | 8,457
33722 | KCIT | 382,477 | 381,818 | 2,976
62468 | KCKA | 953,680 | 804,362 | 6,268
41969 | KCLO-TV | 138,413 | 132,157 | 1,030
47903 | KCNC-TV | 3,794,400 | 3,541,089 | 27,596
71586 | KCNS | 8,270,858 | 7,381,656 | 57,525
33742 | KCOP-TV | 17,386,133 | 16,647,708 | 129,736
19117 | KCOS | 1,014,396 | 1,014,205 | 7,904
63165 | KCOY-TV | 664,655 | 459,468 | 3,581
33894 | KCPQ | 4,439,875 | 4,311,994 | 33,603
53843 | KCPT | 2,507,879 | 2,506,224 | 19,531
33875 | KCRA-TV | 10,612,483 | 6,500,774 | 50,661
9719 | KCRG-TV | 1,136,762 | 1,107,130 | 8,628
60728 | KCSD-TV | 273,553 | 273,447 | 2,131
59494 | KCSG | 174,814 | 164,765 | 1,284
33749 | KCTS-TV | 4,177,824 | 4,115,603 | 32,073
41230 | KCTV | 2,547,456 | 2,545,645 | 19,838
58605 | KCVU | 630,068 | 616,068 | 4,801
10036 | KCWC-DT | 44,216 | 39,439 | 307
64444 | KCWE | 2,460,172 | 2,458,913 | 19,162
51502 | KCWI-TV | 1,043,811 | 1,042,642 | 8,125
42008 | KCWO-TV | 50,707 | 50,685 | 395
166511 | KCWV | 207,398 | 207,370 | 1,616
24316 | KCWX | 3,961,268 | 3,954,787 | 30,820
68713 | KCWY-DT | 79,948 | 79,414 | 619
22201 | KDAF | 6,648,507 | 6,645,226 | 51,786
33764 | KDBC-TV | 1,015,564 | 1,015,162 | 7,911
79258 | KDCK | 43,088 | 43,067 | 336
166332 | KDCU-DT | 796,251 | 795,504 | 6,199
38375 | KDEN-TV | 3,376,799 | 3,351,182 | 26,116
17037 | KDFI | 6,684,439 | 6,682,487 | 52,077
33770 | KDFW | 6,659,312 | 6,657,023 | 51,878
29102 | KDIN-TV | 1,088,376 | 1,083,845 | 8,446
25454 | KDKA-TV | 3,611,796 | 3,450,690 | 26,891
60740 | KDKF | 71,413 | 64,567 | 503
4691 | KDLH | 263,422 | 260,394 | 2,029
41975 | KDLO-TV | 208,354 | 208,118 | 1,622
55379 | KDLT-TV | 639,284 | 628,281 | 4,896
55375 | KDLV-TV | 96,873 | 96,620 | 753
25221 | KDMD | 375,328 | 373,408 | 2,910
78915 | KDMI | 1,141,990 | 1,140,939 | 8,891
56524 | KDNL-TV | 2,987,219 | 2,982,311 | 23,241
24518 | KDOC-TV | 17,503,793 | 16,701,233 | 130,153
1005 | KDOR-TV | 1,112,060 | 1,108,556 | 8,639
60736 | KDRV | 519,706 | 440,002 | 3,429
61064 | KDSD-TV | 64,314 | 59,635 | 465
53329 | KDSE | 42,896 | 41,432 | 323
56527 | KDSM-TV | 1,096,220 | 1,095,478 | 8,537
49326 | KDTN | 6,602,327 | 6,600,186 | 51,435
83491 | KDTP | 26,564 | 24,469 | 191
33778 | KDTV-DT | 7,959,349 | 7,129,638 | 55,561
67910 | KDTX-TV | 6,680,738 | 6,679,424 | 52,053
126 | KDVR | 3,644,912 | 3,521,884 | 27,446
18084 | KECI-TV | 211,745 | 193,803 | 1,510
51208 | KECY-TV | 399,372 | 394,379 | 3,073
58408 | KEDT | 513,683 | 513,683 | 4,003
55435 | KEET | 177,313 | 159,960 | 1,247
41983 | KELO-TV | 705,364 | 646,126 | 5,035
34440 | KEMO-TV | 8,270,858 | 7,381,656 | 57,525
2777 | KEMV | 619,889 | 559,135 | 4,357
26304 | KENS | 2,544,094 | 2,529,382 | 19,711
63845 | KENV-DT | 47,220 | 40,677 | 317
18338 | KENW | 87,017 | 87,017 | 678
50591 | KEPB-TV | 576,964 | 523,655 | 4,081
56029 | KEPR-TV | 453,259 | 433,260 | 3,376
49324 | KERA-TV | 6,681,083 | 6,677,852 | 52,041
40878 | KERO-TV | 1,285,357 | 1,164,979 | 9,079
61067 | KESD-TV | 166,018 | 159,195 | 1,241
25577 | KESQ-TV | 1,334,172 | 572,057 | 4,458
50205 | KETA-TV | 1,702,441 | 1,688,227 | 13,156
62182 | KETC | 2,913,924 | 2,911,313 | 22,688
37101 | KETD | 3,323,570 | 3,285,231 | 25,602
2768 | KETG | 426,883 | 409,511 | 3,191
12895 | KETH-TV | 6,088,821 | 6,088,677 | 47,449
55643 | KETK-TV | 1,031,567 | 1,030,122 | 8,028
2770 | KETS | 1,185,111 | 1,166,796 | 9,093
53903 | KETV | 1,355,714 | 1,350,740 | 10,526
92872 | KETZ | 526,890 | 523,877 | 4,083
68853 | KEYC-TV | 544,900 | 531,079 | 4,139
33691 | KEYE-TV | 2,732,257 | 2,652,529 | 20,671
60637 | KEYT-TV | 1,419,564 | 1,239,577 | 9,660
83715 | KEYU | 339,348 | 339,302 | 2,644
34406 | KEZI | 1,113,171 | 1,065,880 | 8,306
34412 | KFBB-TV | 93,519 | 91,964 | 717
125 | KFCT | 795,114 | 788,747 | 6,147
51466 | KFDA-TV | 385,064 | 383,977 | 2,992
22589 | KFDM | 732,665 | 732,588 | 5,709
65370 | KFDX-TV | 381,703 | 381,318 | 2,972
49264 | KFFV | 4,020,926 | 3,987,153 | 31,072
12729 | KFFX-TV | 409,952 | 403,692 | 3,146
83992 | KFJX | 515,708 | 505,647 | 3,941
42122 | KFMB-TV | 3,947,735 | 3,699,981 | 28,834
53321 | KFME | 393,045 | 392,472 | 3,059
74256 | KFNB | 80,382 | 79,842 | 622
21613 | KFNE | 54,988 | 54,420 | 424
21612 | KFNR | 10,988 | 10,965 | 85
66222 | KFOR-TV | 1,616,459 | 1,615,614 | 12,590
33716 | KFOX-TV | 1,023,999 | 1,018,549 | 7,938
41517 | KFPH-DT | 347,579 | 282,838 | 2,204
81509 | KFPX-TV | 963,969 | 963,846 | 7,511
31597 | KFQX | 186,473 | 163,637 | 1,275
59013 | KFRE-TV | 1,721,275 | 1,705,484 | 13,291
51429 | KFSF-DT | 7,348,828 | 6,528,430 | 50,876
66469 | KFSM-TV | 906,728 | 884,919 | 6,896
8620 | KFSN-TV | 1,836,607 | 1,819,585 | 14,180
29560 | KFTA-TV | 818,859 | 809,173 | 6,306
83714 | KFTC | 61,990 | 61,953 | 483
60537 | KFTH-DT | 6,080,688 | 6,080,373 | 47,384
60549 | KFTR-DT | 17,560,679 | 16,305,726 | 127,071
61335 | KFTS | 74,936 | 65,126 | 508
81441 | KFTU-DT | 113,876 | 109,731 | 855
34439 | KFTV-DT | 1,794,984 | 1,779,917 | 13,871
36917 | KFVE | 953,895 | 851,585 | 6,636
592 | KFVS-TV | 895,871 | 873,777 | 6,809
29015 | KFWD | 6,610,836 | 6,598,496 | 51,422
35336 | KFXA | 875,538 | 874,070 | 6,812
17625 | KFXB-TV | 373,280 | 368,466 | 2,871
70917 | KFXK-TV | 934,043 | 931,791 | 7,261
84453 | KFXL-TV | 862,531 | 854,678 | 6,661
41427 | KFYR-TV | 130,881 | 128,301 | 1,000
25685 | KGAN | 1,083,213 | 1,057,597 | 8,242
34457 | KGBT-TV | 1,230,798 | 1,230,791 | 9,592
52593 | KGBY | 270,089 | 218,544 | 1,703
7841 | KGCW | 949,575 | 945,476 | 7,368
24485 | KGEB | 1,186,225 | 1,150,201 | 8,964
34459 | KGET-TV | 917,927 | 874,332 | 6,814
53320 | KGFE | 114,564 | 114,564 | 893
7894 | KGIN | 230,535 | 228,338 | 1,779
83945 | KGLA-DT | 1,645,641 | 1,645,641 | 12,824
34445 | KGMB | 953,398 | 851,088 | 6,633
23302 | KGMC | 1,824,786 | 1,803,796 | 14,057
36914 | KGMD-TV | 94,323 | 93,879 | 732
36920 | KGMV | 193,564 | 162,230 | 1,264
10061 | KGNS-TV | 267,236 | 259,548 | 2,023
34470 | KGO-TV | 8,637,074 | 7,929,294 | 61,793
56034 | KGPE | 1,699,131 | 1,682,082 | 13,108
81694 | KGPX-TV | 685,626 | 624,955 | 4,870
25511 | KGTF | 161,885 | 160,568 | 1,251
40876 | KGTV | 3,960,667 | 3,682,219 | 28,696
36918 | KGUN-TV | 1,398,527 | 1,212,484 | 9,449
34874 | KGW | 3,058,216 | 2,881,387 | 22,455
63177 | KGWC-TV | 80,475 | 80,009 | 624
63162 | KGWL-TV | 38,125 | 38,028 | 296
63166 | KGWN-TV | 469,467 | 440,388 | 3,432
63170 | KGWR-TV | 51,315 | 50,957 | 397
4146 | KHAW-TV | 95,204 | 94,851 | 739
34846 | KHBC-TV | 74,884 | 74,884 | 584
60353 | KHBS | 631,770 | 608,052 | 4,739
27300 | KHCE-TV | 2,353,883 | 2,348,391 | 18,301
26431 | KHET | 959,060 | 944,568 | 7,361
21160 | KHGI-TV | 233,973 | 229,173 | 1,786
29085 | KHIN | 1,041,244 | 1,039,383 | 8,100
17688 | KHME | 181,345 | 179,706 | 1,400
47670 | KHMT | 175,601 | 170,957 | 1,332
47987 | KHNE-TV | 203,931 | 202,944 | 1,582
34867 | KHNL | 953,398 | 851,088 | 6,633
60354 | KHOG-TV | 765,360 | 702,984 | 5,478
4144 | KHON-TV | 953,207 | 886,431 | 6,908
34529 | KHOU | 6,083,336 | 6,081,785 | 47,395
4690 | KHQA-TV | 318,469 | 316,134 | 2,464
34537 | KHQ-TV | 822,371 | 774,821 | 6,038
30601 | KHRR | 1,227,847 | 1,166,890 | 9,094
34348 | KHSD-TV | 188,735 | 185,202 | 1,443
24508 | KHSL-TV | 625,904 | 608,850 | 4,745
69677 | KHSV | 2,059,794 | 2,020,045 | 15,742
64544 | KHVO | 94,226 | 93,657 | 730
23394 | KIAH | 6,099,694 | 6,099,297 | 47,532
34564 | KICU-TV | 8,233,041 | 7,174,316 | 55,909
56028 | KIDK | 305,509 | 302,535 | 2,358
58560 | KIDY | 116,614 | 116,596 | 909
53382 | KIEM-TV | 174,390 | 160,801 | 1,253
66258 | KIFI-TV | 324,422 | 320,118 | 2,495
10188 | KIII | 569,864 | 566,796 | 4,417
29095 | KIIN | 1,365,215 | 1,335,707 | 10,409
34527 | KIKU | 953,896 | 850,963 | 6,632
63865 | KILM | 17,256,205 | 15,804,489 | 123,164
56033 | KIMA-TV | 308,604 | 260,593 | 2,031
66402 | KIMT | 654,083 | 643,384 | 5,014
67089 | KINC | 2,002,066 | 1,920,903 | 14,970
34847 | KING-TV | 4,074,288 | 4,036,926 | 31,460
51708 | KINT-TV | 1,015,582 | 1,015,274 | 7,912
26249 | KION-TV | 2,400,317 | 855,808 | 6,669
62427 | KIPT | 171,405 | 170,455 | 1,328
66781 | KIRO-TV | 4,058,101 | 4,030,968 | 31,413
62430 | KISU-TV | 311,827 | 307,651 | 2,398
12896 | KITU-TV | 712,362 | 712,362 | 5,551
64548 | KITV | 953,207 | 839,906 | 6,545
59255 | KIVI-TV | 710,819 | 702,619 | 5,476
47285 | KIXE-TV | 467,518 | 428,118 | 3,336
13792 | KJJC-TV | 82,749 | 81,865 | 638
14000 | KJLA | 17,929,100 | 16,794,896 | 130,883
20015 | KJNP-TV | 98,403 | 98,097 | 764
53315 | KJRE | 16,187 | 16,170 | 126
59439 | KJRH-TV | 1,416,108 | 1,397,311 | 10,889
55364 | KJRR | 45,515 | 44,098 | 344
7675 | KJTL | 379,594 | 379,263 | 2,956
55031 | KJTV-TV | 406,283 | 406,260 | 3,166
13814 | KJUD | 31,229 | 30,106 | 235
36607 | KJZZ-TV | 2,388,965 | 2,209,183 | 17,216
83180 | KKAI | 955,203 | 941,214 | 7,335
58267 | KKAP | 957,786 | 923,172 | 7,194
24766 | KKCO | 206,018 | 172,628 | 1,345
35097 | KKJB | 629,939 | 624,784 | 4,869
22644 | KKPX-TV | 7,588,288 | 6,758,490 | 52,669
35037 | KKTV | 2,892,126 | 2,478,864 | 19,318
35042 | KLAS-TV | 2,094,297 | 1,940,030 | 15,119
52907 | KLAX-TV | 367,212 | 366,839 | 2,859
3660 | KLBK-TV | 387,783 | 387,743 | 3,022
65523 | KLBY | 31,102 | 31,096 | 242
38430 | KLCS | 16,875,019 | 15,402,588 | 120,032
77719 | KLCW-TV | 381,889 | 381,816 | 2,975
51479 | KLDO-TV | 250,832 | 250,832 | 1,955
37105 | KLEI | 175,045 | 138,087 | 1,076
56032 | KLEW-TV | 164,908 | 148,256 | 1,155
35059 | KLFY-TV | 1,355,890 | 1,355,409 | 10,563
54011 | KLJB | 1,027,104 | 1,012,309 | 7,889
11264 | KLKN | 932,757 | 895,101 | 6,976
47975 | KLNE-TV | 120,338 | 120,277 | 937
38590 | KLPA-TV | 414,699 | 414,447 | 3,230
38588 | KLPB-TV | 749,053 | 749,053 | 5,837
749 | KLRN | 2,374,472 | 2,353,440 | 18,340
11951 | KLRT-TV | 1,171,678 | 1,152,541 | 8,982
8564 | KLRU | 2,614,658 | 2,575,518 | 20,071
8322 | KLSR-TV | 564,415 | 508,157 | 3,960
31114 | KLST | 199,067 | 169,551 | 1,321
24436 | KLTJ | 6,034,131 | 6,033,867 | 47,022
38587 | KLTL-TV | 423,574 | 423,574 | 3,301
38589 | KLTM-TV | 694,280 | 688,915 | 5,369
38591 | KLTS-TV | 883,661 | 882,589 | 6,878
68540 | KLTV | 1,069,690 | 1,051,361 | 8,193
12913 | KLUJ-TV | 1,195,751 | 1,195,751 | 9,318
57220 | KLUZ-TV | 1,079,718 | 1,019,302 | 7,943
11683 | KLVX | 2,044,150 | 1,936,083 | 15,088
82476 | KLWB | 1,065,748 | 1,065,748 | 8,305
40250 | KLWY | 541,043 | 538,231 | 4,194
64551 | KMAU | 213,060 | 188,953 | 1,473
51499 | KMAX-TV | 10,767,605 | 7,132,240 | 55,582
65686 | KMBC-TV | 2,507,895 | 2,506,661 | 19,534
56079 | KMBH | 1,225,732 | 1,225,732 | 9,552
35183 | KMCB | 69,357 | 66,203 | 516
41237 | KMCC | 2,064,592 | 2,010,262 | 15,666
42636 | KMCI-TV | 2,429,392 | 2,428,626 | 18,926
38584 | KMCT-TV | 267,004 | 266,880 | 2,080
22127 | KMCY | 71,797 | 71,793 | 559
162016 | KMDE | 35,409 | 35,401 | 276
26428 | KMEB | 221,810 | 203,470 | 1,586
39665 | KMEG | 708,748 | 704,130 | 5,487
35123 | KMEX-DT | 17,628,354 | 16,318,720 | 127,172
40875 | KMGH-TV | 3,815,253 | 3,574,365 | 27,855
35131 | KMID | 383,449 | 383,439 | 2,988
16749 | KMIR-TV | 2,760,914 | 730,764 | 5,695
63164 | KMIZ | 532,025 | 530,008 | 4,130
53541 | KMLM-DT | 293,290 | 293,290 | 2,286
52046 | KMLU | 711,951 | 708,107 | 5,518
47981 | KMNE-TV | 47,232 | 44,189 | 344
24753 | KMOH-TV | 199,885 | 184,283 | 1,436
4326 | KMOS-TV | 804,745 | 803,129 | 6,259
41425 | KMOT | 81,517 | 79,504 | 620
70034 | KMOV | 3,035,077 | 3,029,405 | 23,608
51488 | KMPH-TV | 1,725,397 | 1,697,871 | 13,232
73701 | KMPX | 6,678,829 | 6,674,706 | 52,016
44052 | KMSB | 1,321,614 | 1,039,442 | 8,100
68883 | KMSP-TV | 3,832,040 | 3,805,141 | 29,653
12525 | KMSS-TV | 1,068,120 | 1,066,388 | 8,310
43095 | KMTP-TV | 5,252,062 | 4,457,617 | 34,738
35189 | KMTR | 589,948 | 520,666 | 4,058
35190 | KMTV-TV | 1,346,549 | 1,344,796 | 10,480
77063 | KMTW | 761,521 | 761,516 | 5,934
35200 | KMVT | 184,647 | 176,351 | 1,374
32958 | KMVU-DT | 308,150 | 231,506 | 1,804
86534 | KMYA-DT | 200,764 | 200,719 | 1,564
51518 | KMYS | 2,273,888 | 2,267,913 | 17,674
54420 | KMYT-TV | 1,314,197 | 1,302,378 | 10,149
35822 | KMYU | 133,563 | 130,198 | 1,015
993 | KNAT-TV | 1,157,630 | 1,124,619 | 8,764
24749 | KNAZ-TV | 332,321 | 227,658 | 1,774
47906 | KNBC | 17,859,647 | 16,555,232 | 129,015
81464 | KNBN | 145,493 | 136,995 | 1,068
9754 | KNCT | 1,751,838 | 1,726,148 | 13,452
82611 | KNDB | 118,154 | 118,122 | 921
82615 | KNDM | 72,216 | 72,209 | 563
12395 | KNDO | 314,875 | 270,892 | 2,111
12427 | KNDU | 475,612 | 462,556 | 3,605
17683 | KNEP | 101,389 | 95,890 | 747
48003 | KNHL | 277,777 | 277,308 | 2,161
125710 | KNIC-DT | 2,398,296 | 2,383,294 | 18,573
59363 | KNIN-TV | 708,289 | 703,838 | 5,485
48525 | KNLC | 2,981,508 | 2,978,979 | 23,215
48521 | KNLJ | 655,000 | 642,705 | 5,009
84215 | KNMD-TV | 1,120,286 | 1,100,869 | 8,579
55528 | KNME-TV | 1,149,036 | 1,103,695 | 8,601
47707 | KNMT | 2,887,142 | 2,794,995 | 21,781
48975 | KNOE-TV | 733,097 | 729,703 | 5,687
49273 | KNOP-TV | 87,904 | 85,423 | 666
10228 | KNPB | 604,614 | 462,732 | 3,606
55362 | KNRR | 25,957 | 25,931 | 202
35277 | KNSD | 3,861,660 | 3,618,321 | 28,198
19191 | KNSN-TV | 611,981 | 459,485 | 3,581
58608 | KNSO | 1,976,317 | 1,931,825 | 15,055
35280 | KNTV | 8,525,818 | 8,027,505 | 62,558
144 | KNVA | 2,550,225 | 2,529,184 | 19,710
33745 | KNVN | 495,902 | 470,252 | 3,665
69692 | KNVO | 1,247,014 | 1,247,014 | 9,718
29557 | KNWA-TV | 822,906 | 804,682 | 6,271
16950 | KNXT | 2,180,045 | 2,160,460 | 16,836
59440 | KNXV-TV | 4,183,943 | 4,173,022 | 32,520
59014 | KOAA-TV | 1,608,528 | 1,203,731 | 9,381
50588 | KOAB-TV | 207,070 | 203,371 | 1,585
50590 | KOAC-TV | 1,957,282 | 1,543,401 | 12,028
58552 | KOAM-TV | 595,307 | 584,921 | 4,558
53928 | KOAT-TV | 1,132,372 | 1,105,116 | 8,612
35313 | KOB | 1,152,841 | 1,113,162 | 8,675
35321 | KOBF | 201,911 | 166,177 | 1,295
8260 | KOBI | 562,463 | 519,063 | 4,045
62272 | KOBR | 211,709 | 211,551 | 1,649
50170 | KOCB | 1,629,783 | 1,629,152 | 12,696
4328 | KOCE-TV | 17,447,903 | 16,331,792 | 127,274
84225 | KOCM | 1,434,325 | 1,433,605 | 11,172
12508 | KOCO-TV | 1,716,569 | 1,708,085 | 13,311
83181 | KOCW | 83,807 | 83,789 | 653
18283 | KODE-TV | 740,156 | 731,512 | 5,701
66195 | KOED-TV | 1,497,297 | 1,459,833 | 11,376
50198 | KOET | 658,606 | 637,640 | 4,969
51189 | KOFY-TV | 5,252,062 | 4,457,617 | 34,738
34859 | KOGG | 190,829 | 161,310 | 1,257
166534 | KOHD | 201,310 | 197,662 | 1,540
35380 | KOIN | 3,028,482 | 2,881,460 | 22,455
35388 | KOKH-TV | 1,627,116 | 1,625,246 | 12,666
11910 | KOKI-TV | 1,366,220 | 1,352,227 | 10,538
48663 | KOLD-TV | 1,216,228 | 887,754 | 6,918
7890 | KOLN | 1,225,400 | 1,190,178 | 9,275
63331 | KOLO-TV | 959,178 | 826,985 | 6,445
28496 | KOLR | 1,076,144 | 1,038,613 | 8,094
21656 | KOMO-TV | 4,132,260 | 4,087,435 | 31,853
65583 | KOMU-TV | 551,658 | 542,544 | 4,228
35396 | KONG | 4,006,008 | 3,985,271 | 31,057
60675 | KOOD | 113,416 | 113,285 | 883
50589 | KOPB-TV | 3,059,231 | 2,875,815 | 22,411
2566 | KOPX-TV | 1,501,110 | 1,500,883 | 11,696
64877 | KORO | 560,983 | 560,983 | 4,372
6865 | KOSA-TV | 340,978 | 338,070 | 2,635
34347 | KOTA-TV | 174,876 | 152,861 | 1,191
8284 | KOTI | 298,175 | 97,132 | 757
35434 | KOTV-DT | 1,417,753 | 1,403,838 | 10,940
56550 | KOVR | 10,784,477 | 7,162,989 | 55,821
51101 | KOZJ | 429,982 | 427,991 | 3,335
51102 | KOZK | 839,841 | 834,308 | 6,502
3659 | KOZL-TV | 992,495 | 963,281 | 7,507
35455 | KPAX-TV | 206,895 | 193,201 | 1,506
67868 | KPAZ-TV | 4,190,080 | 4,176,323 | 32,546
6124 | KPBS | 3,584,237 | 3,463,189 | 26,989
50044 | KPBT-TV | 340,080 | 340,080 | 2,650
77452 | KPCB-DT | 30,861 | 30,835 | 240
35460 | KPDX | 2,970,703 | 2,848,423 | 22,198
12524 | KPEJ-TV | 368,212 | 368,208 | 2,869
41223 | KPHO-TV | 4,195,073 | 4,175,139 | 32,537
61551 | KPIC | 156,687 | 105,807 | 825
86205 | KPIF | 265,080 | 258,174 | 2,012
25452 | KPIX-TV | 8,340,753 | 7,480,594 | 58,296
58912 | KPJK | 7,884,411 | 6,955,179 | 54,202
166510 | KPJR-TV | 3,402,088 | 3,372,831 | 26,284
13994 | KPLC | 1,406,085 | 1,403,853 | 10,940
41964 | KPLO-TV | 55,827 | 52,765 | 411
35417 | KPLR-TV | 2,968,619 | 2,965,673 | 23,111
12144 | KPMR | 1,731,370 | 1,473,251 | 11,481
47973 | KPNE-TV | 92,675 | 89,021 | 694
35486 | KPNX | 4,215,834 | 4,184,428 | 32,609
77512 | KPNZ | 2,394,311 | 2,208,707 | 17,212
73998 | KPOB-TV | 144,525 | 143,656 | 1,120
26655 | KPPX-TV | 4,186,998 | 4,171,450 | 32,508
53117 | KPRC-TV | 6,099,422 | 6,099,076 | 47,530
48660 | KPRY-TV | 42,521 | 42,426 | 331
61071 | KPSD-TV | 19,886 | 18,799 | 147
53544 | KPTB-DT | 322,780 | 320,646 | 2,499
81445 | KPTF-DT | 84,512 | 84,512 | 659
77451 | KPTH | 660,556 | 655,373 | 5,107
51491 | KPTM | 1,414,998 | 1,414,014 | 11,019
33345 | KPTS | 832,000 | 827,866 | 6,452
50633 | KPTV | 2,998,460 | 2,847,263 | 22,189
82575 | KPTW | 80,374 | 80,012 | 624
1270 | KPVI-DT | 271,379 | 264,204 | 2,059
58835 | KPXB-TV | 6,062,472 | 6,062,271 | 47,243
68695 | KPXC-TV | 3,362,518 | 3,341,951 | 26,044
68834 | KPXD-TV | 6,555,157 | 6,553,373 | 51,070
33337 | KPXE-TV | 2,437,178 | 2,436,024 | 18,984
5801 | KPXG-TV | 3,026,219 | 2,882,598 | 22,464
81507 | KPXJ | 1,138,632 | 1,135,626 | 8,850
61173 | KPXL-TV | 2,257,007 | 2,243,520 | 17,484
35907 | KPXM-TV | 3,507,312 | 3,506,503 | 27,326
58978 | KPXN-TV | 17,256,205 | 15,804,489 | 123,164
77483 | KPXO-TV | 953,329 | 913,341 | 7,118
21156 | KPXR-TV | 828,915 | 821,250 | 6,400
10242 | KQCA | 10,077,891 | 6,276,197 | 48,910
41430 | KQCD-TV | 35,623 | 33,415 | 260
18287 | KQCK | 3,220,160 | 3,162,711 | 24,647
78322 | KQCW-DT | 1,128,198 | 1,123,324 | 8,754
35525 | KQDS-TV | 304,935 | 301,439 | 2,349
35500 | KQED | 8,195,398 | 7,283,828 | 56,763
35663 | KQEH | 8,195,398 | 7,283,828 | 56,763
8214 | KQET | 2,981,040 | 2,076,157 | 16,179
5471 | KQIN | 596,371 | 596,277 | 4,647
17686 | KQME | 188,783 | 184,719 | 1,440
61063 | KQSD-TV | 32,526 | 31,328 | 244
8378 | KQSL | 196,316 | 133,564 | 1,041
20427 | KQTV | 1,494,987 | 1,401,160 | 10,919
78921 | KQUP | 697,016 | 551,824 | 4,300
306 | KRBC-TV | 229,395 | 229,277 | 1,787
166319 | KRBK | 983,888 | 966,187 | 7,529
22161 | KRCA | 17,540,791 | 16,957,292 | 132,148
57945 | KRCB | 8,783,441 | 8,503,802 | 66,270
41110 | KRCG | 684,989 | 662,418 | 5,162
8291 | KRCR-TV | 423,000 | 402,594 | 3,137
10192 | KRCW-TV | 2,966,912 | 2,842,523 | 22,152
49134 | KRDK-TV | 349,941 | 349,929 | 2,727
52579 | KRDO-TV | 2,622,603 | 2,272,383 | 17,709
70578 | KREG-TV | 149,306 | 95,141 | 741
34868 | KREM | 817,619 | 752,113 | 5,861
51493 | KREN-TV | 810,039 | 681,212 | 5,309
70596 | KREX-TV | 145,700 | 145,606 | 1,135
70579 | KREY-TV | 74,963 | 65,700 | 512
48589 | KREZ-TV | 148,079 | 105,121 | 819
43328 | KRGV-TV | 1,247,057 | 1,247,029 | 9,718
82698 | KRII | 133,840 | 132,912 | 1,036
29114 | KRIN | 949,313 | 923,735 | 7,199
25559 | KRIS-TV | 561,825 | 561,718 | 4,377
22204 | KRIV | 6,078,936 | 6,078,846 | 47,372
14040 | KRMA-TV | 3,722,512 | 3,564,949 | 27,782
14042 | KRMJ | 174,094 | 159,511 | 1,243
20476 | KRMT | 2,956,144 | 2,864,236 | 22,321
84224 | KRMU | 85,274 | 72,499 | 565
20373 | KRMZ | 36,293 | 33,620 | 262
47971 | KRNE-TV | 47,473 | 38,273 | 298
60307 | KRNV-DT | 955,490 | 792,543 | 6,176
65526 | KRON-TV | 8,573,167 | 8,028,256 | 62,564
53539 | KRPV-DT | 65,943 | 65,943 | 514
48575 | KRQE | 1,135,461 | 1,105,093 | 8,612
57431 | KRSU-TV | 1,000,289 | 998,310 | 7,780
82613 | KRTN-TV | 96,062 | 74,452 | 580
35567 | KRTV | 92,645 | 90,849 | 708
84157 | KRWB-TV | 111,538 | 110,979 | 865
35585 | KRWF | 85,596 | 85,596 | 667
55516 | KRWG-TV | 894,492 | 661,703 | 5,157
48360 | KRXI-TV | 725,391 | 548,865 | 4,277
307 | KSAN-TV | 135,063 | 135,051 | 1,052
11911 | KSAS-TV | 752,513 | 752,504 | 5,864
53118 | KSAT-TV | 2,539,658 | 2,502,246 | 19,500
35584 | KSAX | 365,209 | 365,209 | 2,846
35587 | KSAZ-TV | 4,203,126 | 4,178,448 | 32,563
38214 | KSBI | 1,577,231 | 1,575,865 | 12,281
19653 | KSBW | 5,083,461 | 4,429,165 | 34,516
19654 | KSBY | 535,029 | 495,562 | 3,862
82910 | KSCC | 517,740 | 517,740 | 4,035
10202 | KSCE | 1,015,148 | 1,010,581 | 7,875
35608 | KSCI | 17,447,903 | 16,331,792 | 127,274
72348 | KSCW-DT | 915,691 | 910,511 | 7,096
46981 | KSDK | 2,986,764 | 2,979,035 | 23,216
35594 | KSEE | 1,761,193 | 1,746,282 | 13,609
48658 | KSFY-TV | 670,536 | 607,844 | 4,737
17680 | KSGW-TV | 62,178 | 57,629 | 449
59444 | KSHB-TV | 2,432,205 | 2,431,273 | 18,947
73706 | KSHV-TV | 943,947 | 942,978 | 7,349
29096 | KSIN-TV | 340,143 | 338,811 | 2,640
664 | KSIX-TV | 82,902 | 73,553 | 573
35606 | KSKN | 731,818 | 643,590 | 5,015
70482 | KSLA | 1,017,556 | 1,016,667 | 7,923
6359 | KSL-TV | 2,390,742 | 2,206,920 | 17,199
71558 | KSMN | 320,813 | 320,808 | 2,500
33336 | KSMO-TV | 2,401,201 | 2,398,686 | 18,693
28510 | KSMQ-TV | 524,391 | 507,983 | 3,959
35611 | KSMS-TV | 1,589,263 | 882,948 | 6,881
21161 | KSNB-TV | 658,560 | 656,650 | 5,117
72359 | KSNC | 174,135 | 173,744 | 1,354
67766 | KSNF | 621,919 | 617,868 | 4,815
72361 | KSNG | 145,058 | 144,822 | 1,129
72362 | KSNK | 48,715 | 45,414 | 354
67335 | KSNT | 622,818 | 594,604 | 4,634
10179 | KSNV | 1,967,781 | 1,919,296 | 14,957
72358 | KSNW | 791,403 | 791,127 | 6,165
61956 | KSPS-TV | 819,101 | 769,852 | 5,999
52953 | KSPX-TV | 7,078,228 | 5,275,946 | 41,115
166546 | KSQA | 382,328 | 374,290 | 2,917
53313 | KSRE | 75,181 | 75,181 | 586
35843 | KSTC-TV | 3,843,788 | 3,835,674 | 29,891
63182 | KSTF | 51,317 | 51,122 | 398
28010 | KSTP-TV | 3,788,898 | 3,782,053 | 29,474
60534 | KSTR-DT | 6,632,577 | 6,629,296 | 51,662
64987 | KSTS | 8,363,473 | 7,264,852 | 56,615
22215 | KSTU | 2,384,996 | 2,201,716 | 17,158
23428 | KSTW | 4,265,956 | 4,186,266 | 32,624
5243 | KSVI | 175,390 | 173,667 | 1,353
58827 | KSWB-TV | 3,677,190 | 3,488,655 | 27,187
60683 | KSWK | 79,012 | 78,784 | 614
35645 | KSWO-TV | 483,132 | 458,057 | 3,570
61350 | KSYS | 519,209 | 443,204 | 3,454
59988 | KTAB-TV | 270,967 | 268,579 | 2,093
999 | KTAJ-TV | 2,343,843 | 2,343,227 | 18,261
35648 | KTAL-TV | 1,094,332 | 1,092,958 | 8,517
12930 | KTAS | 471,882 | 464,149 | 3,617
81458 | KTAZ | 4,182,503 | 4,160,481 | 32,423
35649 | KTBC | 3,242,215 | 2,956,614 | 23,041
67884 | KTBN-TV | 17,795,677 | 16,510,302 | 128,665
67999 | KTBO-TV | 1,585,283 | 1,583,664 | 12,341
35652 | KTBS-TV | 1,163,228 | 1,159,665 | 9,037
28324 | KTBU | 6,035,927 | 6,035,725 | 47,036
67950 | KTBW-TV | 4,202,104 | 4,108,031 | 32,014
35655 | KTBY | 348,080 | 346,562 | 2,701
68594 | KTCA-TV | 3,693,877 | 3,684,081 | 28,710
68597 | KTCI-TV | 3,606,606 | 3,597,183 | 28,033
35187 | KTCW | 103,341 | 89,207 | 695
36916 | KTDO | 1,015,336 | 1,010,771 | 7,877
2769 | KTEJ | 419,750 | 417,368 | 3,253
83707 | KTEL-TV | 53,423 | 53,414 | 416
35666 | KTEN | 602,788 | 599,778 | 4,674
24514 | KTFD-TV | 3,210,669 | 3,172,543 | 24,724
35512 | KTFF-DT | 2,225,169 | 2,203,398 | 17,171
20871 | KTFK-DT | 6,969,307 | 5,211,719 | 40,615
68753 | KTFN | 1,017,335 | 1,013,157 | 7,896
35084 | KTFQ-TV | 1,151,433 | 1,117,061 | 8,705
29232 | KTGM | 159,358 | 159,091 | 1,240
2787 | KTHV | 1,275,062 | 1,246,348 | 9,713
29100 | KTIN | 281,096 | 279,385 | 2,177
66170 | KTIV | 751,089 | 746,274 | 5,816
49397 | KTKA-TV | 759,369 | 746,370 | 5,816
35670 | KTLA | 18,156,910 | 16,870,262 | 131,470
62354 | KTLM | 1,044,526 | 1,044,509 | 8,140
49153 | KTLN-TV | 5,381,955 | 4,740,894 | 36,946
64984 | KTMD | 6,095,741 | 6,095,606 | 47,503
14675 | KTMF | 187,251 | 168,526 | 1,313
10177 | KTMW | 2,261,671 | 2,144,791 | 16,714
21533 | KTNC-TV | 8,270,858 | 7,381,656 | 57,525
47996 | KTNE-TV | 100,341 | 95,324 | 743
60519 | KTNL-TV | 8,642 | 8,642 | 67
74100 | KTNV-TV | 2,094,506 | 1,936,752 | 15,093
71023 | KTNW | 450,926 | 432,398 | 3,370
8651 | KTOO-TV | 31,269 | 31,176 | 243
7078 | KTPX-TV | 1,066,196 | 1,063,754 | 8,290
68541 | KTRE | 441,879 | 421,406 | 3,284
35675 | KTRK-TV | 6,114,259 | 6,112,870 | 47,638
28230 | KTRV-TV | 714,833 | 707,557 | 5,514
69170 | KTSC | 3,124,536 | 2,949,795 | 22,988
61066 | KTSD-TV | 83,645 | 82,828 | 645
37511 | KTSF | 7,959,349 | 7,129,638 | 55,561
67760 | KTSM-TV | 1,015,348 | 1,011,264 | 7,881
35678 | KTTC | 815,213 | 731,919 | 5,704
28501 | KTTM | 76,133 | 73,664 | 574
11908 | KTTU | 1,324,801 | 1,060,613 | 8,265
22208 | KTTV | 17,380,551 | 16,693,085 | 130,089
28521 | KTTW | 329,633 | 326,405 | 2,544
65355 | KTTZ-TV | 380,240 | 380,225 | 2,963
35685 | KTUL | 1,416,959 | 1,388,183 | 10,818
10173 | KTUU-TV | 380,240 | 379,047 | 2,954
77480 | KTUZ-TV | 1,668,531 | 1,666,026 | 12,983
49632 | KTVA | 342,517 | 342,300 | 2,668
34858 | KTVB | 714,865 | 707,882 | 5,517
31437 | KTVC | 137,239 | 100,204 | 781
68581 | KTVD | 3,800,970 | 3,547,607 | 27,647
35692 | KTVE | 641,139 | 640,201 | 4,989
49621 | KTVF | 98,068 | 97,929 | 763
5290 | KTVH-DT | 228,832 | 184,264 | 1,436
35693 | KTVI | 2,995,764 | 2,991,513 | 23,313
40993 | KTVK | 4,184,825 | 4,173,028 | 32,520
22570 | KTVL | 419,849 | 369,469 | 2,879
18066 | KTVM-TV | 260,105 | 217,694 | 1,696
59139 | KTVN | 955,490 | 800,420 | 6,238
21251 | KTVO | 148,780 | 148,647 | 1,158
35694 | KTVQ | 179,797 | 173,271 | 1,350
50592 | KTVR | 147,808 | 54,480 | 425
23422 | KTVT | 6,912,366 | 6,908,715 | 53,840
35703 | KTVU | 8,297,634 | 7,406,751 | 57,721
35705 | KTVW-DT | 4,173,111 | 4,159,807 | 32,417
68889 | KTVX | 2,389,392 | 2,200,520 | 17,149
55907 | KTVZ | 201,828 | 198,558 | 1,547
18286 | KTWO-TV | 80,426 | 79,905 | 623
70938 | KTWU | 1,703,798 | 1,562,305 | 12,175
51517 | KTXA | 6,915,461 | 6,911,822 | 53,864
42359 | KTXD-TV | 6,706,651 | 6,704,781 | 52,250
51569 | KTXH | 6,092,710 | 6,092,525 | 47,479
10205 | KTXL | 8,306,449 | 5,896,320 | 45,950
308 | KTXS-TV | 247,603 | 246,760 | 1,923
69315 | KUAC-TV | 98,717 | 98,189 | 765
51233 | KUAM-TV | 159,358 | 159,358 | 1,242
2722 | KUAS-TV | 994,802 | 977,391 | 7,617
2731 | KUAT-TV | 1,485,024 | 1,253,342 | 9,767
60520 | KUBD | 14,817 | 13,363 | 104
70492 | KUBE-TV | 6,090,970 | 6,090,817 | 47,466
1136 | KUCW | 2,388,889 | 2,199,787 | 17,143
69396 | KUED | 2,388,995 | 2,203,093 | 17,169
69582 | KUEN | 2,364,481 | 2,184,483 | 17,024
82576 | KUES | 30,925 | 25,978 | 202
82585 | KUEW | 132,168 | 120,411 | 938
66611 | KUFM-TV | 187,680 | 166,697 | 1,299
169028 | KUGF-TV | 86,622 | 85,986 | 670
68717 | KUHM-TV | 154,836 | 145,241 | 1,132
69269 | KUHT | 6,090,213 | 6,089,665 | 47,457
62382 | KUID-TV | 432,855 | 284,023 | 2,213
169027 | KUKL-TV | 124,505 | 115,844 | 903
35724 | KULR-TV | 177,242 | 170,142 | 1,326
41429 | KUMV-TV | 41,607 | 41,224 | 321
81447 | KUNP | 130,559 | 43,472 | 339
4624 | KUNS-TV | 4,027,849 | 4,015,626 | 31,294
86532 | KUOK | 28,974 | 28,945 | 226
66589 | KUON-TV | 1,375,257 | 1,360,005 | 10,599
86263 | KUPB | 318,914 | 318,914 | 2,485
65535 | KUPK | 149,642 | 148,180 | 1,155
27431 | KUPT | 87,602 | 87,602 | 683
89714 | KUPU | 956,178 | 948,005 | 7,388
57884 | KUPX-TV | 2,374,672 | 2,191,229 | 17,076
23074 | KUSA | 3,803,461 | 3,561,587 | 27,755
61072 | KUSD-TV | 460,480 | 460,277 | 3,587
10238 | KUSI-TV | 3,572,818 | 3,435,670 | 26,774
43567 | KUSM-TV | 122,678 | 109,830 | 856
69694 | KUTF | 1,210,774 | 1,031,870 | 8,041
81451 | KUTH-DT | 2,219,788 | 2,027,174 | 15,798
68886 | KUTP | 4,191,015 | 4,176,014 | 32,544
35823 | KUTV | 2,388,625 | 2,199,731 | 17,143
63927 | KUVE-DT | 1,294,971 | 964,396 | 7,516
7700 | KUVI-DT | 1,204,490 | 1,009,943 | 7,870
35841 | KUVN-DT | 6,680,126 | 6,678,157 | 52,043
58609 | KUVS-DT | 4,043,413 | 4,005,657 | 31,216
49766 | KVAL-TV | 1,016,673 | 866,173 | 6,750
32621 | KVAW | 76,153 | 76,153 | 593
58795 | KVCR-DT | 18,215,524 | 17,467,140 | 136,121
35846 | KVCT | 288,221 | 287,446 | 2,240
10195 | KVCW | 1,967,550 | 1,918,811 | 14,953
64969 | KVDA | 2,566,563 | 2,548,720 | 19,862
19783 | KVEA | 17,423,429 | 16,146,250 | 125,828
12523 | KVEO-TV | 1,244,504 | 1,244,504 | 9,698
2495 | KVEW | 476,720 | 464,347 | 3,619
35852 | KVHP | 747,917 | 747,837 | 5,828
49832 | KVIA-TV | 1,015,350 | 1,011,266 | 7,881
35855 | KVIE | 10,759,440 | 7,467,369 | 58,193
40450 | KVIH-TV | 91,912 | 91,564 | 714
40446 | KVII-TV | 379,042 | 378,218 | 2,947
61961 | KVLY-TV | 350,732 | 350,449 | 2,731
16729 | KVMD | 6,145,526 | 4,116,524 | 32,080
83825 | KVME-TV | 26,711 | 22,802 | 178
25735 | KVOA | 1,317,956 | 1,030,404 | 8,030
35862 | KVOS-TV | 2,202,674 | 2,131,652 | 16,612
69733 | KVPT | 1,744,349 | 1,719,318 | 13,399
55372 | KVRR | 356,645 | 356,645 | 2,779
166331 | KVSN-DT | 2,706,244 | 2,283,409 | 17,795
608 | KVTH-DT | 303,755 | 299,230 | 2,332
2784 | KVTJ-DT | 1,466,426 | 1,465,802 | 11,423
607 | KVTN-DT | 936,328 | 925,884 | 7,215
35867 | KVUE | 2,661,290 | 2,611,314 | 20,350
78910 | KVUI | 257,964 | 251,872 | 1,963
35870 | KVVU-TV | 2,042,029 | 1,935,466 | 15,083
36170 | KVYE | 396,495 | 392,498 | 3,059
35095 | KWBA-TV | 1,129,524 | 1,073,029 | 8,362
78314 | KWBM | 657,822 | 639,560 | 4,984
27425 | KWBN | 953,207 | 840,455 | 6,550
76268 | KWBQ | 1,148,810 | 1,105,600 | 8,616
66413 | KWCH-DT | 883,647 | 881,674 | 6,871
71549 | KWCM-TV | 252,284 | 244,033 | 1,902
35419 | KWDK | 4,194,152 | 4,117,852 | 32,090
42007 | KWES-TV | 424,862 | 423,544 | 3,301
50194 | KWET | 127,976 | 112,750 | 879
35881 | KWEX-DT | 2,376,463 | 2,370,469 | 18,473
35883 | KWGN-TV | 3,706,495 | 3,513,577 | 27,381
37099 | KWHB | 979,393 | 978,719 | 7,627
37103 | KWHD | 97,959 | 94,560 | 737
36846 | KWHE | 952,966 | 834,341 | 6,502
26231 | KWHY-TV | 17,736,497 | 17,695,306 | 137,900
35096 | KWKB | 1,121,676 | 1,111,629 | 8,663
162115 | KWKS | 39,708 | 39,323 | 306
12522 | KWKT-TV | 1,299,675 | 1,298,478 | 10,119
21162 | KWNB-TV | 91,093 | 89,332 | 696
67347 | KWOG | 512,412 | 505,049 | 3,936
56852 | KWPX-TV | 4,220,008 | 4,148,577 | 32,330
6885 | KWQC-TV | 1,063,507 | 1,054,618 | 8,219
29121 | KWSD | 280,675 | 280,672 | 2,187
53318 | KWSE | 54,471 | 53,400 | 416
71024 | KWSU-TV | 725,554 | 468,295 | 3,649
25382 | KWTV-DT | 1,628,106 | 1,627,198 | 12,681
35903 | KWTX-TV | 2,071,023 | 1,972,365 | 15,371
593 | KWWL | 1,089,498 | 1,078,458 | 8,404
84410 | KWWT | 293,291 | 293,291 | 2,286
14674 | KWYB | 86,495 | 69,598 | 542
10032 | KWYP-DT | 128,874 | 126,992 | 990
35920 | KXAN-TV | 2,678,666 | 2,624,648 | 20,454
49330 | KXAS-TV | 6,774,295 | 6,771,827 | 52,773
24287 | KXGN-TV | 14,217 | 13,883 | 108
35954 | KXII | 2,323,974 | 2,264,951 | 17,651
55083 | KXLA | 17,929,100 | 16,794,896 | 130,883
35959 | KXLF-TV | 258,100 | 217,808 | 1,697
53847 | KXLN-DT | 6,085,891 | 6,085,712 | 47,426
35906 | KXLT-TV | 348,025 | 347,296 | 2,706
61978 | KXLY-TV | 772,116 | 740,960 | 5,774
55684 | KXMA-TV | 32,005 | 31,909 | 249
55686 | KXMB-TV | 142,755 | 138,506 | 1,079
55685 | KXMC-TV | 97,569 | 89,483 | 697
55683 | KXMD-TV | 37,962 | 37,917 | 295
47995 | KXNE-TV | 300,021 | 298,839 | 2,329
81593 | KXNW | 602,168 | 597,747 | 4,658
35991 | KXRM-TV | 1,843,363 | 1,500,689 | 11,695
1255 | KXTF | 121,558 | 121,383 | 946
25048 | KXTV | 10,759,864 | 7,477,140 | 58,269
35994 | KXTX-TV | 6,721,578 | 6,718,616 | 52,358
62293 | KXVA | 185,478 | 185,276 | 1,444
23277 | KXVO | 1,404,703 | 1,403,380 | 10,937
9781 | KXXV | 1,771,620 | 1,748,287 | 13,624
31870 | KYAZ | 6,038,257 | 6,038,071 | 47,055
21488 | KYES-TV | 381,413 | 380,355 | 2,964
29086 | KYIN | 581,748 | 574,691 | 4,479
60384 | KYLE-TV | 323,330 | 323,225 | 2,519
33639 | KYMA-DT | 396,278 | 391,619 | 3,052
47974 | KYNE-TV | 929,406 | 929,242 | 7,242
53820 | KYOU-TV | 651,334 | 640,935 | 4,995
36003 | KYTV | 1,095,904 | 1,083,524 | 8,444
55644 | KYTX | 927,327 | 925,550 | 7,213
13815 | KYUR | 379,943 | 379,027 | 2,954
5237 | KYUS-TV | 12,496 | 12,356 | 96
33752 | KYVE | 301,951 | 259,559 | 2,023
55762 | KYVV-TV | 67,201 | 67,201 | 524
25453 | KYW-TV | 11,061,941 | 10,876,511 | 84,761
69531 | KZJL | 6,037,458 | 6,037,272 | 47,048
69571 | KZJO | 4,147,016 | 4,097,776 | 31,934
61062 | KZSD-TV | 41,207 | 35,825 | 279
33079 | KZTV | 567,635 | 564,464 | 4,399
57292 | WAAY-TV | 1,498,006 | 1,428,197 | 11,130
1328 | WABC-TV | 20,948,273 | 20,560,001 | 160,224
43203 | WABG-TV | 393,020 | 392,348 | 3,058
17005 | WABI-TV | 530,773 | 510,729 | 3,980
16820 | WABM | 1,703,202 | 1,675,700 | 13,059
23917 | WABW-TV | 1,097,560 | 1,096,376 | 8,544
19199 | WACH | 1,403,222 | 1,400,385 | 10,913
189358 | WACP | 9,415,263 | 9,301,049 | 72,483
23930 | WACS-TV | 621,686 | 616,443 | 4,804
60018 | WACX | 4,292,829 | 4,288,149 | 33,418
361 | WACY-TV | 946,580 | 946,071 | 7,373
455 | WADL | 4,610,065 | 4,606,521 | 35,899
589 | WAFB | 1,857,882 | 1,857,418 | 14,475
591 | WAFF | 1,527,517 | 1,456,436 | 11,350
70689 | WAGA-TV | 6,000,355 | 5,923,191 | 46,159
48305 | WAGM-TV | 64,721 | 63,331 | 494
37809 | WAGV | 1,193,158 | 1,060,935 | 8,268
706 | WAIQ | 611,733 | 609,794 | 4,752
701 | WAKA | 799,637 | 793,645 | 6,185
4143 | WALA-TV | 1,320,419 | 1,318,127 | 10,272
70713 | WALB | 773,899 | 772,467 | 6,020
60536 | WAMI-DT | 5,449,193 | 5,449,193 | 42,466
70852 | WAND | 1,388,118 | 1,386,074 | 10,802
39270 | WANE-TV | 1,146,442 | 1,146,442 | 8,934
52280 | WAOE | 2,943,679 | 2,887,654 | 22,503
64546 | WAOW | 636,957 | 629,068 | 4,902
52073 | WAPA-TV | 3,764,742 | 2,794,738 | 21,779
49712 | WAPT | 793,621 | 791,620 | 6,169
67792 | WAQP | 2,135,670 | 2,131,399 | 16,610
13206 | WATC-DT | 5,732,204 | 5,705,819 | 44,465
71082 | WATE-TV | 1,874,433 | 1,638,059 | 12,765
22819 | WATL | 5,882,837 | 5,819,099 | 45,348
20287 | WATM-TV | 893,989 | 749,183 | 5,838
11907 | WATN-TV | 1,787,595 | 1,784,560 | 13,907
13989 | WAVE | 1,891,797 | 1,880,563 | 14,655
71127 | WAVY-TV | 2,080,708 | 2,080,691 | 16,215
54938 | WAWD | 579,079 | 579,023 | 4,512
65247 | WAWV-TV | 705,790 | 700,361 | 5,458
12793 | WAXN-TV | 2,677,951 | 2,669,224 | 20,801
65696 | WBAL-TV | 9,743,335 | 9,344,875 | 72,825
74417 | WBAY-TV | 1,225,928 | 1,225,335 | 9,549
71085 | WBBH-TV | 2,017,267 | 2,017,267 | 15,721
65204 | WBBJ-TV | 662,148 | 658,839 | 5,134
9617 | WBBM-TV | 9,914,233 | 9,907,806 | 77,212
9088 | WBBZ-TV | 1,269,256 | 1,260,686 | 9,825
70138 | WBDT | 3,660,544 | 3,646,874 | 28,420
51349 | WBEC-TV | 5,421,355 | 5,421,355 | 42,249
10758 | WBFF | 8,523,983 | 8,381,042 | 65,313
12497 | WBFS-TV | 5,349,613 | 5,349,613 | 41,690
6568 | WBGU-TV | 1,343,816 | 1,343,816 | 10,472
81594 | WBIF | 309,707 | 309,707 | 2,414
84802 | WBIH | 718,439 | 706,994 | 5,510
717 | WBIQ | 1,563,080 | 1,532,266 | 11,941
46984 | WBIR-TV | 1,978,347 | 1,701,857 | 13,263
67048 | WBKB-TV | 136,823 | 130,625 | 1,018
34167 | WBKI | 2,062,137 | 2,046,808 | 15,951
4692 | WBKO | 963,413 | 862,651 | 6,723
76001 | WBKP | 55,655 | 55,305 | 431
68427 | WBMM | 562,284 | 562,123 | 4,381
73692 | WBNA | 1,699,683 | 1,666,248 | 12,985
23337 | WBNG-TV | 1,435,634 | 1,051,932 | 8,198
71217 | WBNS-TV | 2,847,721 | 2,784,795 | 21,702
72958 | WBNX-TV | 3,639,256 | 3,630,531 | 28,293
71218 | WBOC-TV | 813,888 | 813,888 | 6,343
71220 | WBOY-TV | 711,302 | 621,367 | 4,842
60850 | WBPH-TV | 10,613,847 | 9,474,797 | 73,837
7692 | WBPX-TV | 6,833,712 | 6,761,949 | 52,696
5981 | WBRA-TV | 1,726,408 | 1,677,204 | 13,070
71221 | WBRC | 1,884,007 | 1,849,135 | 14,410
71225 | WBRE-TV | 2,879,196 | 2,244,735 | 17,493
38616 | WBRZ-TV | 2,223,336 | 2,222,309 | 17,318
82627 | WBSF | 1,836,543 | 1,832,446 | 14,280
30826 | WBTV | 4,433,020 | 4,295,962 | 33,478
66407 | WBTW | 1,975,457 | 1,959,172 | 15,268
16363 | WBUI | 981,884 | 981,868 | 7,652
59281 | WBUP | 126,472 | 112,603 | 878
60830 | WBUY-TV | 1,569,254 | 1,567,815 | 12,218
72971 | WBXX-TV | 2,142,759 | 1,984,544 | 15,466
25456 | WBZ-TV | 7,960,556 | 7,730,847 | 60,246
63153 | WCAU | 11,269,831 | 11,098,540 | 86,491
363 | WCAV | 1,032,270 | 874,886 | 6,818
46728 | WCAX-TV | 784,748 | 665,685 | 5,188
39659 | WCBB | 964,079 | 910,222 | 7,093
10587 | WCBD-TV | 1,149,489 | 1,149,489 | 8,958
12477 | WCBI-TV | 680,511 | 678,424 | 5,287
9610 | WCBS-TV | 22,087,789 | 21,511,236 | 167,637
49157 | WCCB | 3,642,232 | 3,574,928 | 27,859
9629 | WCCO-TV | 3,837,442 | 3,829,714 | 29,845
14050 | WCCT-TV | 5,818,471 | 5,307,612 | 41,362
69544 | WCCU | 694,550 | 693,317 | 5,403
3001 | WCCV-TV | 3,391,703 | 2,062,994 | 16,077
23937 | WCES-TV | 1,098,868 | 1,097,706 | 8,554
65666 | WCET | 3,123,290 | 3,110,519 | 24,240
46755 | WCFE-TV | 445,131 | 411,198 | 3,204
71280 | WCHS-TV | 1,352,824 | 1,274,766 | 9,934
42124 | WCIA | 834,084 | 833,547 | 6,496
711 | WCIQ | 3,186,320 | 3,016,907 | 23,511
71428 | WCIU-TV | 10,052,136 | 10,049,244 | 78,314
9015 | WCIV | 1,152,800 | 1,152,800 | 8,984
42116 | WCIX | 554,002 | 549,911 | 4,285
16993 | WCJB-TV | 977,492 | 977,492 | 7,618
11125 | WCLF | 4,097,389 | 4,096,624 | 31,925
68007 | WCLJ-TV | 2,305,723 | 2,303,534 | 17,951
50781 | WCMH-TV | 2,756,260 | 2,712,989 | 21,142
9917 | WCML | 233,439 | 224,255 | 1,748
9908 | WCMU-TV | 707,702 | 699,551 | 5,452
9922 | WCMV | 425,499 | 411,288 | 3,205
9913 | WCMW | 106,975 | 104,859 | 817
32326 | WCNC-TV | 3,883,049 | 3,809,706 | 29,689
53734 | WCNY-TV | 1,342,821 | 1,279,429 | 9,971
73642 | WCOV-TV | 889,102 | 884,417 | 6,892
40618 | WCPB | 560,426 | 560,426 | 4,367
59438 | WCPO-TV | 3,330,885 | 3,313,654 | 25,823
10981 | WCPX-TV | 9,753,235 | 9,751,916 | 75,997
71297 | WCSC-TV | 1,028,018 | 1,028,018 | 8,011
39664 | WCSH | 1,755,325 | 1,548,824 | 12,070
69479 | WCTE | 612,760 | 541,314 | 4,218
18334 | WCTI-TV | 1,671,152 | 1,668,833 | 13,005
31590 | WCTV | 1,065,524 | 1,065,464 | 8,303
33081 | WCTX | 7,844,936 | 7,332,431 | 57,142
65684 | WCVB-TV | 7,780,868 | 7,618,496 | 59,371
9987 | WCVE-TV | 1,721,004 | 1,712,249 | 13,344
83304 | WCVI-TV | 50,601 | 50,495 | 394
34204 | WCVN-TV | 2,129,816 | 2,120,349 | 16,524
9989 | WCVW | 1,505,484 | 1,505,330 | 11,731
73042 | WCWF | 1,077,314 | 1,077,194 | 8,395
35385 | WCWG | 3,630,551 | 3,299,114 | 25,710
29712 | WCWJ | 1,661,270 | 1,661,132 | 12,945
73264 | WCWN | 1,909,223 | 1,621,751 | 12,638
2455 | WCYB-TV | 2,363,002 | 2,057,404 | 16,033
11291 | WDAF-TV | 2,539,581 | 2,537,411 | 19,774
21250 | WDAM-TV | 512,594 | 500,343 | 3,899
22129 | WDAY-TV | 339,239 | 338,856 | 2,641
22124 | WDAZ-TV | 151,720 | 151,659 | 1,182
71325 | WDBB | 1,792,728 | 1,762,643 | 13,736
71326 | WDBD | 940,665 | 939,489 | 7,321
71329 | WDBJ | 1,626,017 | 1,435,762 | 11,189
51567 | WDCA | 8,070,491 | 8,015,328 | 62,463
16530 | WDCQ-TV | 1,269,199 | 1,269,199 | 9,891
30576 | WDCW | 8,155,998 | 8,114,847 | 63,239
54385 | WDEF-TV | 1,731,483 | 1,508,250 | 11,754
32851 | WDFX-TV | 271,499 | 270,942 | 2,111
43846 | WDHN | 452,377 | 451,978 | 3,522
71338 | WDIO-DT | 341,506 | 327,469 | 2,552
714 | WDIQ | 663,062 | 620,124 | 4,833
53114 | WDIV-TV | 5,450,318 | 5,450,174 | 42,473
71427 | WDJT-TV | 3,267,652 | 3,256,507 | 25,378
39561 | WDKA | 658,699 | 658,277 | 5,130
64017 | WDKY-TV | 1,204,817 | 1,173,579 | 9,146
67893 | WDLI-TV | 4,147,298 | 4,114,920 | 32,068
72335 | WDPB | 596,888 | 596,888 | 4,652
83740 | WDPM-DT | 1,365,977 | 1,364,744 | 10,635
1283 | WDPN-TV | 11,594,463 | 11,467,616 | 89,367
6476 | WDPX-TV | 6,833,712 | 6,761,949 | 52,696
28476 | WDRB | 2,054,813 | 2,037,086 | 15,875
12171 | WDSC-TV | 3,389,559 | 3,389,559 | 26,415
17726 | WDSE | 330,994 | 316,643 | 2,468
71353 | WDSI-TV | 1,100,302 | 1,042,191 | 8,122
71357 | WDSU | 1,649,083 | 1,649,083 | 12,851
7908 | WDTI | 2,092,242 | 2,091,941 | 16,302
65690 | WDTN | 3,660,544 | 3,646,874 | 28,420
70592 | WDTV | 962,532 | 850,394 | 6,627
25045 | WDVM-TV | 3,074,837 | 2,646,508 | 20,624
4110 | WDWL | 2,638,361 | 1,977,410 | 15,410
49421 | WEAO | 3,960,217 | 3,945,408 | 30,747
71363 | WEAR-TV | 1,520,973 | 1,520,386 | 11,848
7893 | WEAU | 1,006,393 | 971,050 | 7,567
61003 | WEBA-TV | 645,039 | 635,967 | 4,956
19561 | WECN | 2,886,669 | 2,157,288 | 16,812
48666 | WECT | 1,156,807 | 1,156,807 | 9,015
13602 | WEDH | 5,328,800 | 4,724,167 | 36,815
13607 | WEDN | 3,451,170 | 2,643,344 | 20,600
69338 | WEDQ | 5,379,887 | 5,365,612 | 41,814
21808 | WEDU | 5,379,887 | 5,365,612 | 41,814
13594 | WEDW | 5,996,408 | 5,544,708 | 43,210
13595 | WEDY | 5,328,800 | 4,724,167 | 36,815
24801 | WEEK-TV | 698,238 | 698,220 | 5,441
6744 | WEFS | 3,380,743 | 3,380,743 | 26,346
24215 | WEHT | 857,558 | 844,070 | 6,578
721 | WEIQ | 1,055,632 | 1,055,193 | 8,223
18301 | WEIU-TV | 458,480 | 458,416 | 3,572
69271 | WEKW-TV | 1,263,049 | 773,108 | 6,025
60825 | WELF-TV | 1,477,691 | 1,387,044 | 10,809
26602 | WELU | 2,248,146 | 1,678,682 | 13,082
40761 | WEMT | 1,726,085 | 1,186,706 | 9,248
69237 | WENH-TV | 4,500,498 | 4,328,222 | 33,730
71508 | WENY-TV | 656,240 | 517,754 | 4,035
83946 | WEPH | 604,105 | 602,833 | 4,698
81508 | WEPX-TV | 950,012 | 950,012 | 7,403
25738 | WESH | 4,059,180 | 4,048,459 | 31,550
65670 | WETA-TV | 8,315,499 | 8,258,807 | 64,361
69944 | WETK | 670,087 | 558,842 | 4,355
60653 | WETM-TV | 721,800 | 620,074 | 4,832
18252 | WETP-TV | 2,167,383 | 1,888,574 | 14,718
2709 | WEUX | 380,569 | 373,680 | 2,912
72041 | WEVV-TV | 752,417 | 751,094 | 5,853
59441 | WEWS-TV | 4,112,984 | 4,078,299 | 31,782
72052 | WEYI-TV | 3,715,686 | 3,652,991 | 28,468
72054 | WFAA | 6,917,502 | 6,907,616 | 53,831
81669 | WFBD | 814,185 | 813,564 | 6,340
69532 | WFDC-DT | 8,155,998 | 8,114,847 | 63,239
10132 | WFFF-TV | 633,649 | 552,182 | 4,303
25040 | WFFT-TV | 1,095,429 | 1,095,411 | 8,537
11123 | WFGC | 3,018,351 | 3,018,351 | 23,522
6554 | WFGX | 1,493,866 | 1,493,319 | 11,637
13991 | WFIE | 743,079 | 740,909 | 5,774
715 | WFIQ | 546,563 | 544,258 | 4,241
64592 | WFLA-TV | 5,583,544 | 5,576,649 | 43,459
22211 | WFLD | 9,957,301 | 9,954,828 | 77,578
72060 | WFLI-TV | 1,294,209 | 1,189,897 | 9,273
39736 | WFLX | 5,740,086 | 5,740,086 | 44,732
72062 | WFMJ-TV | 4,328,477 | 3,822,691 | 29,790
72064 | WFMY-TV | 4,772,783 | 4,746,167 | 36,987
39884 | WFMZ-TV | 10,613,847 | 9,474,797 | 73,837
83943 | WFNA | 1,391,519 | 1,390,447 | 10,836
47902 | WFOR-TV | 5,398,266 | 5,398,266 | 42,069
11909 | WFOX-TV | 1,603,324 | 1,603,324 | 12,495
40626 | WFPT | 5,829,226 | 5,442,352 | 42,412
21245 | WFPX-TV | 2,637,949 | 2,634,141 | 20,528
25396 | WFQX-TV | 537,340 | 534,314 | 4,164
9635 | WFRV-TV | 1,263,353 | 1,256,376 | 9,791
53115 | WFSB | 4,752,788 | 4,370,519 | 34,059
6093 | WFSG | 364,961 | 364,796 | 2,843
21801 | WFSU-TV | 576,105 | 576,093 | 4,489
11913 | WFTC | 3,787,177 | 3,770,207 | 29,381
64588 | WFTS-TV | 5,236,379 | 5,236,287 | 40,806
16788 | WFTT-TV | 4,523,828 | 4,521,879 | 35,239
72076 | WFTV | 3,882,888 | 3,882,888 | 30,259
70649 | WFTX-TV | 1,758,172 | 1,758,172 | 13,701
60553 | WFTY-DT | 5,678,755 | 5,560,460 | 43,333
25395 | WFUP | 234,863 | 234,436 | 1,827
60555 | WFUT-DT | 19,992,096 | 19,643,518 | 153,082
22108 | WFWA | 1,035,114 | 1,034,862 | 8,065
9054 | WFXB | 1,393,865 | 1,393,510 | 10,860
3228 | WFXG | 1,070,032 | 1,057,760 | 8,243
70815 | WFXL | 793,637 | 785,106 | 6,118
19707 | WFXP | 583,315 | 562,500 | 4,384
24813 | WFXR | 1,426,061 | 1,286,450 | 10,025
6463 | WFXT | 7,494,070 | 7,400,830 | 57,675
22245 | WFXU | 218,273 | 218,273 | 1,701
43424 | WFXV | 702,682 | 612,494 | 4,773
25236 | WFXW | 274,078 | 270,967 | 2,112
41397 | WFYI | 2,389,627 | 2,388,970 | 18,617
53930 | WGAL | 6,287,688 | 5,610,833 | 43,725
2708 | WGBA-TV | 1,170,375 | 1,170,127 | 9,119
24314 | WGBC | 249,415 | 249,235 | 1,942
72099 | WGBH-TV | 7,711,842 | 7,601,732 | 59,240
12498 | WGBO-DT | 9,771,815 | 9,769,552 | 76,134
72098 | WGBX-TV | 7,803,280 | 7,636,641 | 59,512
72096 | WGBY-TV | 4,470,009 | 3,739,675 | 29,143
72120 | WGCL-TV | 6,027,276 | 5,961,471 | 46,458
62388 | WGCU | 1,510,671 | 1,510,671 | 11,773
54275 | WGEM-TV | 361,598 | 356,682 | 2,780
27387 | WGEN-TV | 43,037 | 43,037 | 335
7727 | WGFL | 877,163 | 877,163 | 6,836
25682 | WGGB-TV | 3,443,386 | 3,053,436 | 23,795
11027 | WGGN-TV | 1,991,462 | 1,969,331 | 15,347
9064 | WGGS-TV | 2,759,326 | 2,705,067 | 21,081
72106 | WGHP | 4,174,964 | 4,123,106 | 32,131
710 | WGIQ | 363,849 | 363,806 | 2,835
12520 | WGMB-TV | 1,742,708 | 1,742,659 | 13,581
25683 | WGME-TV | 1,495,724 | 1,325,465 | 10,329
24618 | WGNM | 742,458 | 741,502 | 5,779
72119 | WGNO | 1,641,765 | 1,641,765 | 12,794
9762 | WGNT | 2,128,079 | 2,127,891 | 16,583
72115 | WGN-TV | 9,942,959 | 9,941,552 | 77,475
40619 | WGPT | 578,294 | 344,300 | 2,683
65074 | WGPX-TV | 2,765,350 | 2,754,743 | 21,468
64547 | WGRZ | 1,878,725 | 1,812,309 | 14,123
63329 | WGTA | 1,061,654 | 1,030,538 | 8,031
66285 | WGTE-TV | 2,210,496 | 2,208,927 | 17,214
59279 | WGTQ | 95,618 | 92,019 | 717
59280 | WGTU | 358,543 | 353,477 | 2,755
23948 | WGTV | 5,880,594 | 5,832,714 | 45,454
7623 | WGTW-TV | 807,797 | 807,797 | 6,295
24783 | WGVK | 2,439,225 | 2,437,526 | 18,996
24784 | WGVU-TV | 1,825,744 | 1,784,264 | 13,905
21536 | WGWG | 986,963 | 986,963 | 7,691
56642 | WGWW | 1,677,166 | 1,647,976 | 12,843
58262 | WGXA | 779,955 | 779,087 | 6,071
73371 | WHAM-TV | 1,381,564 | 1,334,653 | 10,401
32327 | WHAS-TV | 1,955,983 | 1,925,901 | 15,009
6096 | WHA-TV | 1,635,777 | 1,628,950 | 12,694
13950 | WHBF-TV | 1,712,339 | 1,704,072 | 13,280
12521 | WHBQ-TV | 1,736,335 | 1,708,345 | 13,313
10894 | WHBR | 1,302,764 | 1,302,041 | 10,147
65128 | WHDF | 1,553,469 | 1,502,852 | 11,712
72145 | WHDH | 7,441,208 | 7,343,735 | 57,230
83929 | WHDT | 5,768,239 | 5,768,239 | 44,952
70041 | WHEC-TV | 1,322,243 | 1,279,606 | 9,972
67971 | WHFT-TV | 5,417,409 | 5,417,409 | 42,218
41458 | WHIO-TV | 3,877,520 | 3,868,597 | 30,148
713 | WHIQ | 1,278,174 | 1,225,940 | 9,554
61216 | WHIZ-TV | 917,531 | 847,762 | 6,607
65919 | WHKY-TV | 3,304,037 | 3,269,549 | 25,480
18780 | WHLA-TV | 554,446 | 515,561 | 4,018
48668 | WHLT | 484,432 | 483,532 | 3,768
24582 | WHLV-TV | 3,906,201 | 3,906,201 | 30,441
37102 | WHMB-TV | 2,959,585 | 2,889,145 | 22,515
61004 | WHMC | 774,921 | 774,921 | 6,039
36117 | WHME-TV | 1,455,358 | 1,455,110 | 11,340
37106 | WHNO | 1,499,653 | 1,499,653 | 11,687
72300 | WHNS | 2,549,610 | 2,270,868 | 17,697
48693 | WHNT-TV | 1,569,885 | 1,487,578 | 11,593
66221 | WHO-DT | 1,120,480 | 1,099,818 | 8,571
6866 | WHOI | 736,125 | 736,047 | 5,736
72313 | WHP-TV | 4,030,693 | 3,538,096 | 27,572
51980 | WHPX-TV | 5,579,464 | 5,114,336 | 39,856
73036 | WHRM-TV | 495,398 | 495,174 | 3,859
25932 | WHRO-TV | 2,169,238 | 2,169,237 | 16,905
68058 | WHSG-TV | 5,870,314 | 5,808,605 | 45,266
4688 | WHSV-TV | 845,013 | 711,912 | 5,548
9990 | WHTJ | 807,960 | 690,381 | 5,380
72326 | WHTM-TV | 2,829,585 | 2,367,000 | 18,446
11117 | WHTN | 1,914,755 | 1,905,733 | 14,851
27772 | WHUT-TV | 7,649,763 | 7,617,337 | 59,362
18793 | WHWC-TV | 994,710 | 946,335 | 7,375
72338 | WHYY-TV | 10,379,045 | 9,982,651 | 77,795
5360 | WIAT | 1,837,072 | 1,802,810 | 14,049
63160 | WIBW-TV | 1,234,347 | 1,181,009 | 9,204
25684 | WICD | 1,238,332 | 1,237,046 | 9,640
25686 | WICS | 1,149,358 | 1,147,264 | 8,941
24970 | WICU-TV | 740,115 | 683,435 | 5,326
62210 | WICZ-TV | 1,249,974 | 965,416 | 7,523
18410 | WIDP | 2,559,306 | 1,899,768 | 14,805
26025 | WIFS | 1,583,693 | 1,578,870 | 12,304
720 | WIIQ | 353,241 | 347,685 | 2,710
68939 | WILL-TV | 1,178,545 | 1,158,147 | 9,025
6863 | WILX-TV | 3,378,644 | 3,218,221 | 25,080
22093 | WINK-TV | 1,851,105 | 1,851,105 | 14,426
67787 | WINM | 1,001,485 | 971,031 | 7,567
41314 | WINP-TV | 2,935,057 | 2,883,944 | 22,475
3646 | WIPB | 1,965,353 | 1,965,174 | 15,315
48408 | WIPL | 850,656 | 799,165 | 6,228
53863 | WIPM-TV | 2,196,157 | 1,554,017 | 2,253
53859 | WIPR-TV | 3,596,802 | 2,811,148 | 21,907
10253 | WIPX-TV | 2,305,723 | 2,303,534 | 17,951
39887 | WIRS | 1,153,382 | 761,454 | 4,676
71336 | WIRT-DT | 127,001 | 126,300 | 984
13990 | WIS | 2,644,715 | 2,600,887 | 20,269
65143 | WISC-TV | 1,734,112 | 1,697,537 | 13,229
13960 | WISE-TV | 1,070,155 | 1,070,155 | 8,340
39269 | WISH-TV | 2,912,963 | 2,855,253 | 22,251
65680 | WISN-TV | 3,003,636 | 2,997,695 | 23,361
73083 | WITF-TV | 2,412,561 | 2,191,501 | 17,078
73107 | WITI | 3,111,641 | 3,102,097 | 24,175
594 | WITN-TV | 1,861,458 | 1,836,905 | 14,315
61005 | WITV | 871,783 | 871,783 | 6,794
7780 | WIVB-TV | 1,900,503 | 1,820,106 | 14,184
11260 | WIVT | 855,138 | 613,934 | 4,784
60571 | WIWN | 3,338,845 | 3,323,941 | 25,903
62207 | WIYC | 639,641 | 637,499 | 4,968
73120 | WJAC-TV | 2,219,529 | 1,897,986 | 14,791
10259 | WJAL | 8,750,706 | 8,446,074 | 65,820
50780 | WJAR | 7,108,180 | 6,976,099 | 54,365
35576 | WJAX-TV | 1,630,782 | 1,630,782 | 12,709
27140 | WJBF | 1,601,088 | 1,588,444 | 12,379
73123 | WJBK | 5,748,623 | 5,711,224 | 44,508
37174 | WJCL | 938,086 | 938,086 | 7,311
73130 | WJCT | 1,624,624 | 1,624,033 | 12,656
29719 | WJEB-TV | 1,607,603 | 1,607,603 | 12,528
65749 | WJET-TV | 747,431 | 717,721 | 5,593
7651 | WJFB | 1,805,891 | 1,798,600 | 14,016
49699 | WJFW-TV | 277,530 | 268,295 | 2,091
73136 | WJHG-TV | 864,121 | 859,823 | 6,701
57826 | WJHL-TV | 2,034,663 | 1,462,129 | 11,394
68519 | WJKT | 655,780 | 655,373 | 5,107
1051 | WJLA-TV | 8,750,706 | 8,447,643 | 65,832
86537 | WJLP | 21,384,863 | 21,119,366 | 164,583
9630 | WJMN-TV | 160,991 | 154,424 | 1,203
61008 | WJPM-TV | 623,965 | 623,813 | 4,861
58340 | WJPX | 3,254,481 | 2,500,195 | 19,484
21735 | WJRT-TV | 2,788,684 | 2,543,446 | 19,821
23918 | WJSP-TV | 4,225,860 | 4,188,428 | 32,640
41210 | WJTC | 1,381,529 | 1,379,283 | 10,749
48667 | WJTV | 987,206 | 980,717 | 7,643
73150 | WJW | 3,977,148 | 3,905,325 | 30,434
61007 | WJWJ-TV | 1,034,555 | 1,034,555 | 8,062
58342 | WJWN-TV | 1,962,885 | 1,405,189 | 4,676
53116 | WJXT | 1,622,616 | 1,622,616 | 12,645
11893 | WJXX | 1,618,191 | 1,617,272 | 12,603
32334 | WJYS | 9,667,341 | 9,667,317 | 75,337
25455 | WJZ-TV | 9,743,335 | 9,350,346 | 72,867
73152 | WJZY | 4,432,745 | 4,301,117 | 33,519
64983 | WKAQ-TV | 3,697,088 | 2,731,588 | 21,287
6104 | WKAR-TV | 1,693,373 | 1,689,830 | 13,169
34171 | WKAS | 542,308 | 512,994 | 3,998
51570 | WKBD-TV | 5,065,617 | 5,065,350 | 39,474
73153 | WKBN-TV | 4,898,622 | 4,535,576 | 35,346
13929 | WKBS-TV | 1,082,894 | 937,847 | 7,309
74424 | WKBT-DT | 866,325 | 824,795 | 6,428
54176 | WKBW-TV | 2,247,191 | 2,161,366 | 16,844
53465 | WKCF | 4,241,181 | 4,240,354 | 33,045
73155 | WKEF | 3,730,595 | 3,716,127 | 28,960
34177 | WKGB-TV | 413,268 | 411,587 | 3,207
34196 | WKHA | 511,281 | 400,721 | 3,123
34207 | WKLE | 856,237 | 846,630 | 6,598
34212 | WKMA-TV | 524,617 | 524,035 | 4,084
71293 | WKMG-TV | 3,803,492 | 3,803,492 | 29,641
34195 | WKMJ-TV | 1,477,906 | 1,470,645 | 11,461
34202 | WKMR | 463,316 | 428,462 | 3,339
34174 | WKMU | 344,430 | 344,050 | 2,681
42061 | WKNO | 1,645,867 | 1,642,092 | 12,797
83931 | WKNX-TV | 1,684,178 | 1,459,493 | 11,374
34205 | WKOH | 584,645 | 579,258 | 4,514
67869 | WKOI-TV | 3,660,544 | 3,646,874 | 28,420
34211 | WKON | 1,080,274 | 1,072,320 | 8,357
18267 | WKOP-TV | 1,555,654 | 1,382,098 | 10,771
64545 | WKOW | 1,918,224 | 1,899,746 | 14,805
21432 | WKPC-TV | 1,525,919 | 1,517,701 | 11,827
65758 | WKPD | 283,454 | 282,250 | 2,200
34200 | WKPI-TV | 606,666 | 481,220 | 3,750
27504 | WKPT-TV | 1,131,213 | 887,806 | 6,919
58341 | WKPV | 1,132,932 | 731,199 | 4,676
11289 | WKRC-TV | 3,281,914 | 3,229,223 | 25,165
73187 | WKRG-TV | 1,526,600 | 1,526,075 | 11,893
73188 | WKRN-TV | 2,409,767 | 2,388,588 | 18,614
34222 | WKSO-TV | 658,441 | 642,090 | 5,004
40902 | WKTC | 1,387,229 | 1,386,779 | 10,807
60654 | WKTV | 1,573,503 | 1,342,387 | 10,461
73195 | WKYC | 4,180,327 | 4,124,135 | 32,139
24914 | WKYT-TV | 1,174,615 | 1,156,978 | 9,016
71861 | WKYU-TV | 411,448 | 409,310 | 3,190
34181 | WKZT-TV | 1,044,532 | 1,020,878 | 7,956
18819 | WLAE-TV | 1,397,967 | 1,397,967 | 10,894
36533 | WLAJ | 4,100,475 | 4,063,963 | 31,670
2710 | WLAX | 469,017 | 447,381 | 3,486
68542 | WLBT | 948,671 | 947,857 | 7,387
39644 | WLBZ | 373,129 | 364,346 | 2,839
69328 | WLED-TV | 332,718 | 174,998 | 1,364
63046 | WLEF-TV | 192,283 | 191,149 | 1,490
73203 | WLEX-TV | 969,481 | 964,735 | 7,518
37806 | WLFB | 808,036 | 680,534 | 5,303
37808 | WLFG | 1,614,321 | 1,282,063 | 9,991
73204 | WLFI-TV | 2,243,009 | 2,221,313 | 17,311
73205 | WLFL | 3,640,360 | 3,636,542 | 28,340
11113 | WLGA | 950,018 | 943,236 | 7,351
19777 | WLII-DT | 2,801,102 | 2,153,564 | 13,928
37503 | WLIO | 1,067,232 | 1,050,170 | 8,184
38336 | WLIW | 20,027,920 | 19,717,729 | 153,660
27696 | WLJC-TV | 1,401,072 | 1,281,256 | 9,985
71645 | WLJT-DT | 385,493 | 385,380 | 3,003
53939 | WLKY | 1,927,997 | 1,919,810 | 14,961
11033 | WLLA | 2,081,693 | 2,081,436 | 16,221
17076 | WLMB | 2,754,484 | 2,747,490 | 21,411
68518 | WLMT | 1,736,552 | 1,733,496 | 13,509
22591 | WLNE-TV | 6,429,522 | 6,381,825 | 49,734
74420 | WLNS-TV | 4,100,475 | 4,063,963 | 31,670
73206 | WLNY-TV | 7,501,199 | 7,415,578 | 57,790
84253 | WLOO | 913,960 | 912,674 | 7,112
56537 | WLOS | 3,086,751 | 2,544,360 | 19,828
37732 | WLOV-TV | 609,526 | 607,780 | 4,736
13995 | WLOX | 1,182,149 | 1,170,659 | 9,123
38586 | WLPB-TV | 1,219,624 | 1,219,407 | 9,503
73189 | WLPX-TV | 1,066,912 | 1,022,543 | 7,969
66358 | WLRN-TV | 5,447,399 | 5,447,399 | 42,452
73226 | WLS-TV | 10,174,464 | 10,170,757 | 79,261
73230 | WLTV-DT | 5,427,398 | 5,427,398 | 42,296
37176 | WLTX | 1,580,677 | 1,578,645 | 12,302
37179 | WLTZ | 689,521 | 685,358 | 5,341
21259 | WLUC-TV | 92,246 | 85,393 | 665
4150 | WLUK-TV | 1,251,563 | 1,247,414 | 9,721
73238 | WLVI | 7,441,208 | 7,343,735 | 57,230
36989 | WLVT-TV | 10,613,847 | 9,474,797 | 73,837
3978 | WLWC | 3,281,532 | 3,150,875 | 24,555
46979 | WLWT | 3,367,381 | 3,355,009 | 26,146
54452 | WLXI | 4,184,851 | 4,166,318 | 32,468
55350 | WLYH | 2,829,585 | 2,367,000 | 18,446
43192 | WMAB-TV | 407,794 | 401,487 | 3,129
43170 | WMAE-TV | 686,076 | 653,173 | 5,090
43197 | WMAH-TV | 1,257,393 | 1,256,995 | 9,796
43176 | WMAO-TV | 369,696 | 369,343 | 2,878
47905 | WMAQ-TV | 9,914,395 | 9,913,272 | 77,254
59442 | WMAR-TV | 9,198,495 | 9,072,076 | 70,699
43184 | WMAU-TV | 642,328 | 636,504 | 4,960
43193 | WMAV-TV | 1,008,339 | 1,008,208 | 7,857
43169 | WMAW-TV | 726,173 | 715,450 | 5,576
46991 | WMAZ-TV | 1,185,678 | 1,136,616 | 8,858
66398 | WMBB | 935,027 | 914,607 | 7,128
43952 | WMBC-TV | 18,706,132 | 18,458,331 | 143,846
42121 | WMBD-TV | 742,729 | 742,660 | 5,788
83969 | WMBF-TV | 445,363 | 445,363 | 3,471
60829 | WMCF-TV | 612,942 | 609,635 | 4,751
9739 | WMCN-TV | 10,379,045 | 9,982,651 | 77,795
19184 | WMC-TV | 2,047,403 | 2,043,125 | 15,922
189357 | WMDE | 6,384,827 | 6,257,910 | 48,768
73255 | WMDN | 278,227 | 278,018 | 2,167
16455 | WMDT | 731,931 | 731,931 | 5,704
39656 | WMEA-TV | 902,755 | 853,857 | 6,654
39648 | WMEB-TV | 511,761 | 494,574 | 3,854
70537 | WMEC | 218,027 | 217,839 | 1,698
39649 | WMED-TV | 30,488 | 29,577 | 230
39662 | WMEM-TV | 71,700 | 69,981 | 545
41893 | WMFD-TV | 1,561,367 | 1,324,244 | 10,320
41436 | WMFP | 5,792,048 | 5,564,295 | 43,363
61111 | WMGM-TV | 807,797 | 807,797 | 6,295
43847 | WMGT-TV | 601,894 | 601,309 | 4,686
73263 | WMHT | 1,719,949 | 1,550,977 | 12,087
68545 | WMLW-TV | 1,843,933 | 1,843,663 | 14,368
53819 | WMOR-TV | 5,394,541 | 5,394,541 | 42,040
81503 | WMOW | 121,150 | 105,957 | 826
65944 | WMPB | 7,279,563 | 7,190,696 | 56,037
43168 | WMPN-TV | 856,237 | 854,089 | 6,656
65942 | WMPT | 8,637,742 | 8,584,398 | 66,898
60827 | WMPV-TV | 1,423,052 | 1,422,411 | 11,085
10221 | WMSN-TV | 1,947,942 | 1,927,158 | 15,018
2174 | WMTJ | 3,143,148 | 2,365,308 | 18,433
6870 | WMTV | 1,548,616 | 1,545,459 | 12,044
73288 | WMTW | 1,940,292 | 1,658,816 | 12,927
23935 | WMUM-TV | 862,740 | 859,204 | 6,696
73292 | WMUR-TV | 5,192,179 | 5,003,980 | 38,996
42663 | WMVS | 3,172,534 | 3,112,231 | 24,254
42665 | WMVT | 3,172,534 | 3,112,231 | 24,254
81946 | WMWC-TV | 946,858 | 916,989 | 7,146
56548 | WMYA-TV | 1,650,798 | 1,571,594 | 12,247
74211 | WMYD | 5,750,989 | 5,750,873 | 44,817
20624 | WMYT-TV | 4,432,745 | 4,301,117 | 33,519
25544 | WMYV | 3,901,915 | 3,875,210 | 30,200
73310 | WNAB | 2,176,984 | 2,166,809 | 16,886
73311 | WNAC-TV | 7,310,183 | 6,959,064 | 54,232
47535 | WNBC | 21,952,082 | 21,399,204 | 166,764
83965 | WNBW-DT | 1,400,631 | 1,396,012 | 10,879
72307 | WNCF | 667,683 | 665,950 | 5,190
50782 | WNCN | 3,795,494 | 3,783,131 | 29,482
57838 | WNCT-TV | 1,935,414 | 1,887,929 | 14,713
41674 | WNDU-TV | 1,863,764 | 1,835,398 | 14,303
28462 | WNDY-TV | 2,912,963 | 2,855,253 | 22,251
71928 | WNED-TV | 1,387,961 | 1,370,480 | 10,680
60931 | WNEH | 1,261,482 | 1,255,218 | 9,782
41221 | WNEM-TV | 1,475,094 | 1,471,908 | 11,471
49439 | WNEO | 3,353,869 | 3,271,369 | 25,494
73318 | WNEP-TV | 3,429,213 | 2,838,000 | 22,117
18795 | WNET | 21,113,760 | 20,615,190 | 160,654
51864 | WNEU | 7,135,190 | 7,067,520 | 55,077
23942 | WNGH-TV | 5,744,856 | 5,595,366 | 43,605
67802 | WNIN | 883,322 | 865,128 | 6,742
41671 | WNIT | 1,305,447 | 1,305,447 | 10,173
48457 | WNJB | 20,787,272 | 20,036,393 | 156,144
48477 | WNJN | 20,787,272 | 20,036,393 | 156,144
48481 | WNJS | 7,211,292 | 7,176,711 | 55,928
48465 | WNJT | 7,211,292 | 7,176,711 | 55,928
73333 | WNJU | 21,952,082 | 21,399,204 | 166,764
73336 | WNJX-TV | 1,585,248 | 1,149,468 | 2,381
61217 | WNKY | 379,002 | 377,357 | 2,941
71905 | WNLO | 1,900,503 | 1,820,106 | 14,184
4318 | WNMU | 181,736 | 179,662 | 1,400
73344 | WNNE | 792,551 | 676,539 | 5,272
54280 | WNOL-TV | 1,632,389 | 1,632,389 | 12,721
71676 | WNPB-TV | 2,130,047 | 1,941,707 | 15,132
62137 | WNPI-DT | 167,931 | 161,748 | 1,261
41398 | WNPT | 2,260,463 | 2,227,570 | 17,359
28468 | WNPX-TV | 2,084,890 | 2,071,017 | 16,139
61009 | WNSC-TV | 2,431,154 | 2,425,044 | 18,898
61010 | WNTV | 2,419,841 | 2,211,019 | 17,230
16539 | WNTZ-TV | 344,704 | 343,849 | 2,680
7933 | WNUV | 9,098,694 | 8,906,508 | 69,408
9999 | WNVC | 807,960 | 690,381 | 5,380
10019 | WNVT | 1,721,004 | 1,712,249 | 13,344
73354 | WNWO-TV | 2,232,660 | 2,232,660 | 17,399
136751 | WNYA | 1,540,430 | 1,406,032 | 10,957
30303 | WNYB | 1,785,269 | 1,756,096 | 13,685
6048 | WNYE-TV | 19,185,983 | 19,015,910 | 148,191
34329 | WNYI | 1,627,542 | 1,338,811 | 10,433
67784 | WNYO-TV | 1,430,491 | 1,409,756 | 10,986
73363 | WNYT | 1,679,494 | 1,516,775 | 11,820
22206 | WNYW | 20,075,874 | 19,753,060 | 153,936
69618 | WOAI-TV | 2,525,811 | 2,513,887 | 19,591
66804 | WOAY-TV | 581,486 | 443,210 | 3,454
41225 | WOFL | 4,048,104 | 4,043,672 | 31,512
70651 | WOGX | 1,112,408 | 1,112,408 | 8,669
8661 | WOI-DT | 1,173,757 | 1,170,432 | 9,121
39746 | WOIO | 3,821,233 | 3,745,335 | 29,187
71725 | WOLE-DT | 1,784,094 | 1,312,984 | 10,232
73375 | WOLF-TV | 2,990,646 | 2,522,858 | 19,661
60963 | WOLO-TV | 2,635,715 | 2,594,980 | 20,223
36838 | WOOD-TV | 2,507,053 | 2,501,084 | 19,491
67602 | WOPX-TV | 3,877,863 | 3,877,805 | 30,220
64865 | WORA-TV | 2,733,629 | 2,149,090 | 2,873
73901 | WORO-DT | 3,243,301 | 2,511,742 | 19,574
60357 | WOST | 1,193,381 | 853,762 | 6,653
66185 | WOSU-TV | 2,843,651 | 2,776,901 | 21,640
131 | WOTF-TV | 3,451,383 | 3,451,383 | 26,897
10212 | WOTV | 2,368,797 | 2,368,397 | 18,457
50147 | WOUB-TV | 756,762 | 734,988 | 5,728
50141 | WOUC-TV | 1,713,515 | 1,649,853 | 12,857
23342 | WOWK-TV | 1,159,175 | 1,083,663 | 8,445
65528 | WOWT | 1,380,979 | 1,377,287 | 10,733
31570 | WPAN | 637,347 | 637,347 | 4,967
4190 | WPBA | 5,217,180 | 5,200,958 | 40,531
51988 | WPBF | 3,190,307 | 3,186,405 | 24,832
21253 | WPBN-TV | 442,005 | 430,953 | 3,358
62136 | WPBS-DT | 338,448 | 301,692 | 2,351
13456 | WPBT | 5,416,604 | 5,416,604 | 42,212
13924 | WPCB-TV | 2,934,614 | 2,800,516 | 21,824
64033 | WPCH-TV | 5,948,778 | 5,874,163 | 45,777
4354 | WPCT | 195,270 | 194,869 | 1,519
69880 | WPCW | 3,393,365 | 3,188,441 | 24,848
17012 | WPDE-TV | 1,772,233 | 1,769,553 | 13,790
52527 | WPEC | 5,788,448 | 5,788,448 | 45,109
84088 | WPFO | 1,329,690 | 1,209,873 | 9,429
54728 | WPGA-TV | 559,495 | 559,025 | 4,356
60820 | WPGD-TV | 2,355,629 | 2,343,715 | 18,265
73875 | WPGH-TV | 3,236,098 | 3,121,767 | 24,328
2942 | WPGX | 425,098 | 422,872 | 3,295
73879 | WPHL-TV | 10,421,216 | 10,246,856 | 79,854
73881 | WPIX | 20,638,932 | 20,213,158 | 157,521
53113 | WPLG | 5,587,129 | 5,587,129 | 43,540
11906 | WPMI-TV | 1,468,001 | 1,467,594 | 11,437
10213 | WPMT | 2,412,561 | 2,191,501 | 17,078
18798 | WPNE-TV | 1,161,295 | 1,160,631 | 9,045
73907 | WPNT | 3,172,170 | 3,064,423 | 23,881
28480 | WPPT | 10,613,847 | 9,474,797 | 73,837
51984 | WPPX-TV | 8,206,117 | 7,995,941 | 62,312
47404 | WPRI-TV | 7,254,721 | 6,990,606 | 54,478
51991 | WPSD-TV | 883,814 | 879,213 | 6,852
12499 | WPSG | 10,232,988 | 9,925,334 | 77,348
66219 | WPSU-TV | 1,055,133 | 868,013 | 6,764
73905 | WPTA | 1,099,180 | 1,099,180 | 8,566
25067 | WPTD | 3,423,417 | 3,411,727 | 26,588
25065 | WPTO | 2,961,254 | 2,951,883 | 23,004
59443 | WPTV-TV | 5,840,102 | 5,840,102 | 45,512
57476 | WPTZ | 792,551 | 676,539 | 5,272
8616 | WPVI-TV | 11,491,587 | 11,302,701 | 88,082
48772 | WPWR-TV | 9,957,301 | 9,954,828 | 77,578
51969 | WPXA-TV | 6,587,205 | 6,458,510 | 50,331
71236 | WPXC-TV | 1,561,014 | 1,561,014 | 12,165
5800 | WPXD-TV | 5,249,447 | 5,249,447 | 40,909
37104 | WPXE-TV | 3,067,071 | 3,057,388 | 23,826
48406 | WPXG-TV | 2,577,848 | 2,512,150 | 19,577
73312 | WPXH-TV | 1,471,601 | 1,451,634 | 11,313
73910 | WPXI | 3,300,896 | 3,197,864 | 24,921
2325 | WPXJ-TV | 2,357,870 | 2,289,706 | 17,844
52628 | WPXK-TV | 1,801,997 | 1,577,806 | 12,296
21729 | WPXL-TV | 1,639,180 | 1,639,180 | 12,774
48608 | WPXM-TV | 5,153,621 | 5,153,621 | 40,162
73356 | WPXN-TV | 20,878,066 | 20,454,468 | 159,402
27290 | WPXP-TV | 5,565,072 | 5,565,072 | 43,369
50063 | WPXQ-TV | 3,281,532 | 3,150,875 | 24,555
70251 | WPXR-TV | 1,375,640 | 1,200,331 | 9,354
40861 | WPXS | 2,339,305 | 2,251,498 | 17,546
53065 | WPXT | 1,002,128 | 952,535 | 7,423
37971 | WPXU-TV | 690,613 | 690,613 | 5,382
67077 | WPXV-TV | 1,919,794 | 1,919,794 | 14,961
74091 | WPXW-TV | 8,075,268 | 8,024,342 | 62,534
21726 | WPXX-TV | 1,562,675 | 1,560,834 | 12,164
73319 | WQAD-TV | 1,101,012 | 1,089,523 | 8,491
65130 | WQCW | 1,307,345 | 1,236,020 | 9,632
71561 | WQEC | 183,969 | 183,690 | 1,431
41315 | WQED | 3,529,305 | 3,426,684 | 26,704
3255 | WQHA | 1,052,107 | 730,913 | 5,696
60556 | WQHS-DT | 3,996,567 | 3,952,672 | 30,803
53716 | WQLN | 602,232 | 577,633 | 4,501
52075 | WQMY | 410,269 | 254,586 | 1,984
64550 | WQOW | 369,066 | 358,576 | 2,794
5468 | WQPT-TV | 595,685 | 595,437 | 4,640
64690 | WQPX-TV | 1,644,283 | 1,212,587 | 9,450
52408 | WQRF-TV | 1,375,774 | 1,354,979 | 10,559
2175 | WQTO | 2,864,201 | 1,598,365 | 5,727
8688 | WRAL-TV | 3,852,675 | 3,848,801 | 29,994
10133 | WRAY-TV | 4,184,851 | 4,166,318 | 32,468
64611 | WRAZ | 3,800,594 | 3,797,515 | 29,594
136749 | WRBJ-TV | 1,030,831 | 1,028,010 | 8,011
3359 | WRBL | 1,493,140 | 1,461,459 | 11,389
57221 | WRBU | 2,933,497 | 2,929,776 | 22,832
54940 | WRBW | 4,080,267 | 4,077,341 | 31,775
59137 | WRCB | 1,587,742 | 1,363,582 | 10,626
47904 | WRC-TV | 8,188,601 | 8,146,696 | 63,487
54963 | WRDC | 3,972,477 | 3,966,864 | 30,914
55454 | WRDQ | 3,931,023 | 3,931,023 | 30,634
73937 | WRDW-TV | 1,564,584 | 1,533,682 | 11,952
66174 | WREG-TV | 1,642,307 | 1,638,585 | 12,769
61011 | WRET-TV | 2,419,841 | 2,211,019 | 17,230
73940 | WREX | 2,303,027 | 2,047,951 | 15,960
54443 | WRFB | 2,674,527 | 1,975,375 | 21,287
73942 | WRGB | 1,757,575 | 1,645,483 | 12,823
411 | WRGT-TV | 3,451,036 | 3,416,078 | 26,621
74416 | WRIC-TV | 2,059,152 | 1,996,075 | 15,555
61012 | WRJA-TV | 1,127,088 | 1,119,936 | 8,728
412 | WRLH-TV | 2,017,508 | 1,959,111 | 15,267
61013 | WRLK-TV | 1,229,094 | 1,228,616 | 9,575
43870 | WRLM | 3,960,217 | 3,945,408 | 30,747
74156 | WRNN-TV | 19,853,836 | 19,615,370 | 152,863
73964 | WROC-TV | 1,203,412 | 1,185,203 | 9,236
159007 | WRPT | 110,009 | 109,937 | 857
20590 | WRPX-TV | 2,637,949 | 2,634,141 | 20,528
62009 | WRSP-TV | 1,156,134 | 1,154,040 | 8,993
40877 | WRTV | 2,919,683 | 2,895,164 | 22,562
15320 | WRUA | 2,905,193 | 2,121,362 | 16,532
71580 | WRXY-TV | 1,784,000 | 1,784,000 | 13,903
48662 | WSAV-TV | 1,000,315 | 1,000,309 | 7,795
6867 | WSAW-TV | 652,442 | 646,386 | 5,037
36912 | WSAZ-TV | 1,239,187 | 1,168,954 | 9,110
56092 | WSBE-TV | 7,535,710 | 7,266,304 | 56,626
73982 | WSBK-TV | 7,290,901 | 7,225,463 | 56,308
72053 | WSBS-TV | 42,952 | 42,952 | 335
73983 | WSBT-TV | 1,763,215 | 1,752,698 | 13,659
23960 | WSB-TV | 5,897,425 | 5,828,269 | 45,420
69446 | WSCG | 867,516 | 867,490 | 6,760
64971 | WSCV | 5,465,435 | 5,465,435 | 42,592
70536 | WSEC | 541,118 | 540,495 | 4,212
49711 | WSEE-TV | 613,176 | 595,476 | 4,641
21258 | WSES | 1,548,117 | 1,513,982 | 11,798
73988 | WSET-TV | 1,569,722 | 1,323,180 | 10,312
13993 | WSFA | 1,168,636 | 1,133,724 | 8,835
11118 | WSFJ-TV | 1,675,987 | 1,667,150 | 12,992
10203 | WSFL-TV | 5,344,129 | 5,344,129 | 41,647
72871 | WSFX-TV | 970,833 | 970,833 | 7,566
73999 | WSIL-TV | 672,560 | 669,176 | 5,215
4297 | WSIU-TV | 1,019,939 | 937,070 | 7,303
74007 | WSJV | 1,522,499 | 1,522,499 | 11,865
78908 | WSKA | 546,588 | 431,354 | 3,362
74034 | WSKG-TV | 892,402 | 633,163 | 4,934
76324 | WSKY-TV | 1,934,585 | 1,934,519 | 15,076
57840 | WSLS-TV | 1,447,286 | 1,277,753 | 9,958
21737 | WSMH | 2,339,224 | 2,327,660 | 18,139
41232 | WSMV-TV | 2,447,769 | 2,404,766 | 18,740
70119 | WSNS-TV | 9,914,395 | 9,913,272 | 77,254
74070 | WSOC-TV | 3,706,808 | 3,638,832 | 28,357
66391 | WSPA-TV | 3,388,945 | 3,227,025 | 25,148
64352 | WSPX-TV | 1,298,295 | 1,174,763 | 9,155
17611 | WSRE | 1,354,495 | 1,353,634 | 10,549
63867 | WSST-TV | 331,907 | 331,601 | 2,584
60341 | WSTE-DT | 3,723,930 | 3,033,241 | 23,638
21252 | WSTM-TV | 1,455,586 | 1,379,393 | 10,750
11204 | WSTR-TV | 3,297,280 | 3,286,795 | 25,614
19776 | WSUR-DT | 3,714,790 | 3,015,529 | 10,232
2370 | WSVI | 50,601 | 50,601 | 394
63840 | WSVN | 5,588,748 | 5,588,748 | 43,553
73374 | WSWB | 1,530,002 | 1,102,316 | 8,590
28155 | WSWG | 381,004 | 380,910 | 2,968
71680 | WSWP-TV | 858,726 | 659,416 | 5,139
74094 | WSYM-TV | 1,498,905 | 1,498,671 | 11,679
73113 | WSYR-TV | 1,329,933 | 1,243,035 | 9,687
40758 | WSYT | 1,970,721 | 1,739,071 | 13,553
56549 | WSYX | 2,635,937 | 2,592,420 | 20,203
65681 | WTAE-TV | 2,995,755 | 2,860,979 | 22,296
23341 | WTAJ-TV | 1,187,718 | 948,598 | 7,392
4685 | WTAP-TV | 512,358 | 494,914 | 3,857
416 | WTAT-TV | 1,111,476 | 1,111,476 | 8,662
67993 | WTBY-TV | 15,858,470 | 15,766,438 | 122,868
29715 | WTCE-TV | 2,620,599 | 2,620,599 | 20,422
65667 | WTCI | 1,204,613 | 1,099,395 | 8,568
67786 | WTCT | 608,457 | 607,620 | 4,735
28954 | WTCV | 3,254,481 | 2,500,195 | 19,484
74422 | WTEN | 1,902,431 | 1,613,747 | 12,576
9881 | WTGL | 3,707,507 | 3,707,507 | 28,893
27245 | WTGS | 966,519 | 966,357 | 7,531
70655 | WTHI-TV | 928,934 | 886,846 | 6,911
70162 | WTHR | 2,949,339 | 2,901,633 | 22,612
147 | WTIC-TV | 5,318,753 | 4,707,697 | 36,687
26681 | WTIN-TV | 3,714,547 | 2,898,224 | 2,381
66536 | WTIU | 1,570,257 | 1,569,135 | 12,228
1002 | WTJP-TV | 1,947,743 | 1,907,300 | 14,864
4593 | WTJR | 334,527 | 334,221 | 2,605
70287 | WTJX-TV | 135,017 | 121,498 | 947
47401 | WTKR | 2,149,376 | 2,149,375 | 16,750
82735 | WTLF | 349,696 | 349,691 | 2,725
23486 | WTLH | 1,065,127 | 1,065,105 | 8,300
67781 | WTLJ | 1,622,365 | 1,621,227 | 12,634
65046 | WTLV | 1,757,600 | 1,739,021 | 13,552
1222 | WTLW | 1,646,714 | 1,644,206 | 12,813
74098 | WTMJ-TV | 3,096,406 | 3,085,983 | 24,049
74109 | WTNH | 7,845,782 | 7,332,431 | 57,142
19200 | WTNZ | 1,699,427 | 1,513,754 | 11,797
590 | WTOC-TV | 993,098 | 992,658 | 7,736
74112 | WTOG | 4,796,964 | 4,796,188 | 37,377
4686 | WTOK-TV | 410,134 | 404,555 | 3,153
13992 | WTOL | 4,184,020 | 4,174,198 | 32,530
21254 | WTOM-TV | 83,379 | 81,092 | 632
74122 | WTOV-TV | 3,892,886 | 3,619,899 | 28,210
82574 | WTPC-TV | 2,049,246 | 2,042,851 | 15,920
86496 | WTPX-TV | 255,972 | 255,791 | 1,993
6869 | WTRF-TV | 2,941,511 | 2,565,375 | 19,992
67798 | WTSF | 922,441 | 851,465 | 6,635
11290 | WTSP | 5,511,840 | 5,494,925 | 42,822
4108 | WTTA | 5,583,544 | 5,576,649 | 43,459
74137 | WTTE | 2,690,341 | 2,650,354 | 20,654
22207 | WTTG | 8,070,491 | 8,015,328 | 62,463
56526 | WTTK | 2,844,384 | 2,825,807 | 22,022
74138 | WTTO | 1,817,151 | 1,786,516 | 13,922
56523 | WTTV | 2,522,077 | 2,518,133 | 19,624
10802 | WTTW | 9,729,982 | 9,729,634 | 75,823
74148 | WTVA | 823,492 | 810,123 | 6,313
22590 | WTVC | 1,579,628 | 1,366,976 | 10,653
8617 | WTVD | 3,790,354 | 3,775,757 | 29,424
55305 | WTVE | 5,156,905 | 5,152,997 | 40,157
36504 | WTVF | 2,384,622 | 2,367,601 | 18,451
74150 | WTVG | 4,274,274 | 4,263,894 | 33,229
74151 | WTVH | 1,350,223 | 1,275,171 | 9,937
10645 | WTVI | 2,856,703 | 2,829,960 | 22,054
63154 | WTVJ | 5,458,451 | 5,458,451 | 42,538
595 | WTVM | 1,498,667 | 1,405,957 | 10,957
72945 | WTVO | 1,409,708 | 1,398,825 | 10,901
28311 | WTVP | 678,884 | 678,539 | 5,288
51597 | WTVQ-DT | 989,786 | 983,552 | 7,665
57832 | WTVR-TV | 1,816,197 | 1,809,035 | 14,098
16817 | WTVS | 5,511,091 | 5,510,837 | 42,946
68569 | WTVT | 5,475,385 | 5,462,416 | 42,569
3661 | WTVW | 839,003 | 834,187 | 6,501
35575 | WTVX | 3,157,609 | 3,157,609 | 24,607
4152 | WTVY | 974,532 | 971,173 | 7,568
40759 | WTVZ-TV | 2,156,534 | 2,156,346 | 16,804
66908 | WTWC-TV | 1,061,101 | 1,061,079 | 8,269
20426 | WTWO | 737,341 | 731,294 | 5,699
81692 | WTWV | 1,527,511 | 1,526,625 | 11,897
51568 | WTXF-TV | 10,784,256 | 10,492,549 | 81,768
41065 | WTXL-TV | 1,054,514 | 1,054,322 | 8,216
8532 | WUAB | 3,821,233 | 3,745,335 | 29,187
12855 | WUCF-TV | 3,707,507 | 3,707,507 | 28,893
36395 | WUCW | 3,664,480 | 3,657,236 | 28,501
69440 | WUFT | 1,372,142 | 1,372,142 | 10,693
413 | WUHF | 1,152,580 | 1,147,972 | 8,946
8156 | WUJA | 2,638,361 | 1,977,410 | 15,410
69080 | WUNC-TV | 4,184,851 | 4,166,318 | 32,468
69292 | WUND-TV | 1,506,640 | 1,506,640 | 11,741
69114 | WUNE-TV | 3,146,865 | 2,625,942 | 20,464
69300 | WUNF-TV | 2,335,055 | 2,068,975 | 16,124
69124 | WUNG-TV | 3,605,143 | 3,588,220 | 27,963
60551 | WUNI | 7,209,571 | 7,084,349 | 55,208
69332 | WUNJ-TV | 1,081,274 | 1,081,274 | 8,426
69149 | WUNK-TV | 2,018,916 | 2,013,516 | 15,691
69360 | WUNL-TV | 3,055,263 | 2,834,274 | 22,087
69444 | WUNM-TV | 1,357,346 | 1,357,346 | 10,578
69397 | WUNP-TV | 1,402,186 | 1,393,524 | 10,860
69416 | WUNU | 1,202,495 | 1,201,481 | 9,363
83822 | WUNW | 1,109,237 | 570,072 | 4,443
6900 | WUPA | 5,966,454 | 5,888,379 | 45,888
13938 | WUPL | 1,721,320 | 1,721,320 | 13,414
10897 | WUPV | 1,933,664 | 1,914,643 | 14,921
19190 | WUPW | 2,100,914 | 2,099,572 | 16,362
23128 | WUPX-TV | 1,102,435 | 1,089,118 | 8,487
65593 | WUSA | 8,750,706 | 8,446,074 | 65,820
4301 | WUSI-TV | 339,507 | 339,507 | 2,646
60552 | WUTB | 8,523,983 | 8,381,042 | 65,313
30577 | WUTF-TV | 7,918,927 | 7,709,189 | 60,078
57837 | WUTR | 526,114 | 481,957 | 3,756
415 | WUTV | 1,589,376 | 1,557,474 | 12,137
16517 | WUVC-DT | 3,768,817 | 3,748,841 | 29,215
48813 | WUVG-DT | 6,029,495 | 5,965,975 | 46,493
3072 | WUVN | 1,233,568 | 1,157,140 | 9,018
60560 | WUVP-DT | 10,421,216 | 10,246,856 | 79,854
9971 | WUXP-TV | 2,316,872 | 2,305,293 | 17,965
417 | WVAH-TV | 1,373,555 | 1,295,383 | 10,095
23947 | WVAN-TV | 1,026,862 | 1,025,950 | 7,995
65387 | WVBT | 1,885,169 | 1,885,169 | 14,691
72342 | WVCY-TV | 2,543,642 | 2,542,235 | 19,812
60559 | WVEA-TV | 4,553,004 | 4,552,113 | 35,475
74167 | WVEC | 2,098,679 | 2,092,868 | 16,310
5802 | WVEN-TV | 3,921,016 | 3,919,361 | 30,544
61573 | WVEO | 1,153,382 | 761,454 | 4,676
69946 | WVER | 888,756 | 758,441 | 5,911
10976 | WVFX | 731,193 | 609,763 | 4,752
47929 | WVIA-TV | 3,429,213 | 2,838,000 | 22,117
3667 | WVII-TV | 368,022 | 346,874 | 2,703
70309 | WVIR-TV | 1,945,637 | 1,908,395 | 14,872
74170 | WVIT | 5,846,093 | 5,357,639 | 41,752
18753 | WVIZ | 3,695,223 | 3,689,173 | 28,750
70021 | WVLA-TV | 1,897,179 | 1,897,007 | 14,783
81750 | WVLR | 1,412,728 | 1,300,554 | 10,135
35908 | WVLT-TV | 1,888,607 | 1,633,633 | 12,731
74169 | WVNS-TV | 911,630 | 606,820 | 4,729
11259 | WVNY | 742,579 | 659,270 | 5,138
29000 | WVOZ-TV | 1,132,932 | 731,199 | 4,676
71657 | WVPB-TV | 780,268 | 752,747 | 5,866
60111 | WVPT | 767,268 | 642,173 | 5,004
70491 | WVPX-TV | 4,147,298 | 4,114,920 | 32,068
66378 | WVPY | 756,696 | 632,649 | 4,930
67190 | WVSN | 2,948,832 | 2,137,333 | 16,656
69943 | WVTA | 760,072 | 579,703 | 4,518
69940 | WVTB | 455,880 | 257,445 | 2,006
74173 | WVTM-TV | 2,009,346 | 1,940,153 | 15,120
74174 | WVTV | 3,091,132 | 3,083,108 | 24,027
77496 | WVUA | 2,209,921 | 2,160,101 | 16,834
4149 | WVUE-DT | 1,658,125 | 1,658,125 | 12,922
4329 | WVUT | 273,293 | 273,215 | 2,129
74176 | WVVA | 1,037,632 | 722,666 | 5,632
3113 | WVXF | 85,191 | 78,556 | 612
12033 | WWAY | 1,208,625 | 1,208,625 | 9,419
30833 | WWBT | 1,924,502 | 1,892,842 | 14,751
20295 | WWCP-TV | 2,811,278 | 2,548,691 | 19,862
24812 | WWCW | 1,390,985 | 1,212,308 | 9,448
23671 | WWDP | 5,792,048 | 5,564,295 | 43,363
21158 | WWHO | 2,762,344 | 2,721,504 | 21,209
14682 | WWJE-DT | 7,209,571 | 7,084,349 | 55,208
72123 | WWJ-TV | 5,562,031 | 5,561,777 | 43,343
166512 | WWJX | 518,866 | 518,846 | 4,043
6868 | WWLP | 3,838,272 | 3,077,800 | 23,985
74192 | WWL-TV | 1,788,624 | 1,788,624 | 13,939
3133 | WWMB | 1,547,974 | 1,544,778 | 12,038
74195 | WWMT | 2,460,942 | 2,455,432 | 19,135
68851 | WWNY-TV | 375,600 | 346,623 | 2,701
74197 | WWOR-TV | 19,853,836 | 19,615,370 | 152,863
65943 | WWPB | 3,197,858 | 2,775,966 | 21,633
23264 | WWPX-TV | 2,299,441 | 2,231,612 | 17,391
68547 | WWRS-TV | 2,324,155 | 2,321,066 | 18,088
61251 | WWSB | 3,340,133 | 3,340,133 | 26,030
23142 | WWSI | 11,269,831 | 11,098,540 | 86,491
16747 | WWTI | 196,531 | 190,097 | 1,481
998 | WWTO-TV | 5,613,737 | 5,613,737 | 43,748
26994 | WWTV | 1,034,174 | 1,022,322 | 7,967
84214 | WWTW | 1,527,511 | 1,526,625 | 11,897
26993 | WWUP-TV | 116,638 | 110,592 | 862
23338 | WXBU | 4,030,693 | 3,538,096 | 27,572
61504 | WXCW | 1,749,847 | 1,749,847 | 13,637
61084 | WXEL-TV | 5,416,604 | 5,416,604 | 42,212
60539 | WXFT-DT | 10,174,464 | 10,170,757 | 79,261
23929 | WXGA-TV | 608,494 | 606,849 | 4,729
51163 | WXIA-TV | 6,179,680 | 6,035,828 | 47,037
53921 | WXII-TV | 3,630,551 | 3,299,114 | 25,710
146 | WXIN | 2,836,532 | 2,814,815 | 21,936
39738 | WXIX-TV | 2,911,054 | 2,900,875 | 22,607
414 | WXLV-TV | 4,362,761 | 4,333,737 | 33,773
68433 | WXMI | 1,988,970 | 1,988,589 | 15,497
64549 | WXOW | 425,378 | 413,264 | 3,221
6601 | WXPX-TV | 4,594,588 | 4,592,639 | 35,790
74215 | WXTV-DT | 19,992,096 | 19,643,518 | 153,082
12472 | WXTX | 699,095 | 694,837 | 5,415
11970 | WXXA-TV | 1,680,670 | 1,537,868 | 11,985
57274 | WXXI-TV | 1,184,860 | 1,168,696 | 9,108
53517 | WXXV-TV | 1,191,123 | 1,189,584 | 9,270
10267 | WXYZ-TV | 5,622,543 | 5,622,140 | 43,813
12279 | WYCC | 9,729,982 | 9,729,634 | 75,823
77515 | WYCI | 35,873 | 26,508 | 207
70149 | WYCW | 3,388,945 | 3,227,025 | 25,148
62219 | WYDC | 560,266 | 449,486 | 3,503
18783 | WYDN | 2,577,848 | 2,512,150 | 19,577
35582 | WYDO | 1,097,745 | 1,097,745 | 8,555
25090 | WYES-TV | 1,872,245 | 1,872,059 | 14,589
53905 | WYFF | 2,626,363 | 2,416,551 | 18,832
49803 | WYIN | 6,956,141 | 6,956,141 | 54,209
24915 | WYMT-TV | 1,180,276 | 863,881 | 6,732
17010 | WYOU | 2,879,196 | 2,226,883 | 17,354
77789 | WYOW | 91,233 | 90,799 | 708
13933 | WYPX-TV | 1,529,500 | 1,413,583 | 11,016
4693 | WYTV | 4,898,622 | 4,535,576 | 35,346
5875 | WYZZ-TV | 1,042,140 | 1,036,721 | 8,079
15507 | WZBJ | 1,606,844 | 1,439,716 | 11,220
28119 | WZDX | 1,596,771 | 1,514,654 | 11,804
70493 | WZME | 5,996,408 | 5,544,708 | 43,210
81448 | WZMQ | 73,423 | 72,945 | 568
71871 | WZPX-TV | 2,039,157 | 2,039,157 | 15,891
136750 | WZRB | 952,279 | 951,693 | 7,417
418 | WZTV | 2,312,658 | 2,301,187 | 17,933
83270 | WZVI | 76,992 | 75,863 | 591
19183 | WZVN-TV | 1,981,488 | 1,981,488 | 15,442
49713 | WZZM | 1,574,546 | 1,548,835 | 12,070
Notes:
¹ Call signs WIPM and WIPR are stations in Puerto Rico that are linked together with a total fee of $24,160.
² Call signs WNJX and WAPA are stations in Puerto Rico that are linked together with a total fee of $24,160.
² Call signs WKAQ and WORA are stations in Puerto Rico that are linked together with a total fee of $24,160.
⁴ Call signs WOLE and WLII are stations in Puerto Rico that are linked together with a total fee of $24,160.
⁵ Call signs WVEO and WTCV are stations in Puerto Rico that are linked together with a total fee of $24,160.
⁶ Call signs WJPX and WJWN are stations in Puerto Rico that are linked together with a total fee of $24,160.
⁷ Call signs WAPA and WTIN are stations in Puerto Rico that are linked together with a total fee of $24,160.
⁸ Call signs WSUR and WLII are stations in Puerto Rico that are linked together with a total fee of $24,160.
⁹ Call signs WVOZ and WTCV are stations in Puerto Rico that are linked together with a total fee of $24,160.
¹⁰ Call signs WJPX and WKPV are stations in Puerto Rico that are linked together with a total fee of $24,160.
¹¹ Call signs WMTJ and WQTO are stations in Puerto Rico that are linked together with a total fee of $24,160.
¹² Call signs WIRS and WJPX are stations in Puerto Rico that are linked together with a total fee of $24,160.
¹³ Call signs WRFB and WORA are stations in Puerto Rico that are linked together with a total fee of $24,160.

Table 8—FY 2020 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25
Microwave (per license) (47 CFR part 101) | 25
Marine (Ship) (per station) (47 CFR part 80) | 15
Marine (Coast) (per license) (47 CFR part 80) | 40
Rural Radio (47 CFR part 22) (previously listed under the Land Mobile category) | 10
PLMRS (Shared Use) (per license) (47 CFR part 90) | 10
Aviation (Aircraft) (per station) (47 CFR part 87) | 10
Aviation (Ground) (per license) (47 CFR part 87) | 20
CMRS Mobile/Cellular Services (per unit) (47 CFR parts 20, 22, 24, 27, 80 and 90) | .17
CMRS Messaging Services (per unit) (47 CFR parts 20, 22, 24 and 90) | .08
Broadband Radio Service (formerly MMDS/MDS) (per license) (47 CFR part 27) | 560
Local Multipoint Distribution Service (per call sign) (47 CFR, part 101) | 560
AM Radio Construction Permits | 610
FM Radio Construction Permits | 1,075
AM and FM Broadcast Radio Station Fees | See Table Below
Digital TV (47 CFR part 73) VHF and UHF Commercial Fee Factor | * $.007837
Digital TV Construction Permits | 4,950
Low Power TV, Class A TV, TV/FM Translators & FM Boosters (47 CFR part 74) | 315
CARS (47 CFR part 78) | 1,300
Cable Television Systems (per subscriber) (47 CFR part 76), Including IPTV | .89
Direct Broadcast Service (DBS) (per subscriber) (as defined by section 602(13) of the Act) | .72
Interstate Telecommunication Service Providers (per revenue dollar) | .00321
Toll Free (per toll free subscriber) (47 CFR section 52.101 (f) of the rules) | .12
Earth Stations (47 CFR part 25) | 560
Space Stations (per operational station in geostationary orbit) (47 CFR part 25) also includes DBS Service (per operational station) (47 CFR part 100) | 98,125
Space Stations (per operational system in non-geostationary orbit) (47 CFR part 25) | 223,500
International Bearer Circuits—Terrestrial/Satellites (per Gbps circuit) | $41
Submarine Cable Landing Licenses Fee (per cable system) | See Table Below.
* See Appendix G for fee amounts due, also available at https://www.fcc.gov/licensing-databases/fees/regulatory-fees.

FY 2020 Radio Station Regulatory Fees
Population served | AM Class A | AM Class B | AM Class C | AM Class D | FM Classes A, B1 & C3 | FM Classes B, C, C0, C1 & C2
<=25,000 | $975 | $700 | $610 | $670 | $1,075 | $1,225
25,001-75,000 | 1,475 | 1,050 | 915 | 1,000 | 1,625 | 1,850
75,001-150,000 | 2,200 | 1,575 | 1,375 | 1,500 | 2,425 | 2,750
150,001-500,000 | 3,300 | 2,375 | 2,050 | 2,275 | 3,625 | 4,150
500,001-1,200,000 | 4,925 | 3,550 | 3,075 | 3,400 | 5,450 | 6,200
1,200,001-3,000,000 | 7,400 | 5,325 | 4,625 | 5,100 | 8,175 | 9,300
3,000,001-6,000,000 | 11,100 | 7,975 | 6,950 | 7,625 | 12,250 | 13,950
>6,000,000 | 16,675 | 11,975 | 10,425 | 11,450 | 18,375 | 20,925

FY 2020 International Bearer Circuits—Submarine Cable Systems
Submarine cable systems (capacity as of December 31, 2019) | Fee ratio (units) | FY 2020 regulatory fees
Less than 50 Gbps | .0625 | $13,450
50 Gbps or greater, but less than 250 Gbps | .125 | 26,875
250 Gbps or greater, but less than 1,500 Gbps | .25 | 53,750
1,500 Gbps or greater, but less than 3,500 Gbps | .5 | 107,500
3,500 Gbps or greater, but less than 6,500 Gbps | 1.0 | 215,000
6,500 Gbps or greater | 2.0 | 430,000

IV. Final Regulatory Flexibility Analysis

1. As required by the Regulatory Flexibility Act of 1980, as amended (RFA), an Initial Regulatory Flexibility Analysis (IRFA) was included in the Notice of Proposed Rulemaking (NPRM) for fiscal year 2021. The Commission sought written public comment on these proposals including comment on the IRFA. This Final Regulatory Flexibility Analysis (FRFA) conforms to the IRFA.

A. Need for, and Objectives of, the Report and Order

2. In the Report and Order, the Commission adopts a regulatory fee schedule to collect $374,000,000 in congressionally required regulatory fees for fiscal year (FY) 2021. Under section 9 of the Communications Act of 1934, as amended, (Communications Act or Act), regulatory fees are mandated by Congress and collected to recover the regulatory costs associated with the Commission's enforcement, policy and rulemaking, user information, and international activities in an amount that can be reasonably expected to equal the amount of the Commission's annual appropriation. The objective in the Report for adopting the regulatory fee schedule is to comply with the Congressional mandate to recover the total amount of the Commission's annual appropriation, from the various industries for which the Commission provides oversight or regulation, based on the number of full time employees (FTEs) involved in such oversight and regulation in the licensing bureaus.

B. Summary of the Significant Issues Raised by the Public Comments in Response to the IRFA

3. None.

C. Response to Comments by the Chief Counsel for Advocacy of the Small Business Administration

4. No comments were filed by the Chief Counsel for Advocacy of the Small Business Administration.

D. Description and Estimate of the Number of Small Entities to Which the Rules Will Apply

5. The RFA directs agencies to provide a description of, and where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA.

6. Small Businesses, Small Organizations, Small Governmental Jurisdictions. Small Businesses, Small Organizations, Small Governmental Jurisdictions. Our actions, over time, may affect small entities that are not easily categorized at present. We therefore describe here, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 30.7 million businesses.

7. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2018, there were approximately 571,709 small exempt organizations in the U.S. reporting revenues of $50,000 or less according to the registration and tax data for exempt organizations available from the IRS.

8. Finally, the small entity described as a “small governmental jurisdiction” is defined generally as “governments of cities, counties, towns, townships, villages, school districts, or special districts, with a population of less than fifty thousand.” U.S. Census Bureau data from the 2017 Census of Governments indicate that there were 90,075 local governmental jurisdictions consisting of general purpose governments and special purpose governments in the United States. Of this number there were 36,931 general purpose governments (county, municipal and town or township) with populations of less than 50,000 and 12,040 special purpose governments—independent school districts with enrollment populations of less than 5ll governmental jurisdictions.”

9. Wired Telecommunications Carriers. The U.S. Census Bureau defines this industry as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including Voice over internet Protocol (VoIP) services, wired (cable and IPTV) audio and video programming distribution, and wired broadband internet services. By exception, establishments providing satellite television distribution services using facilities and infrastructure that they operate are included in this industry.” The SBA has developed a small business size standard for Wired Telecommunications Carriers, which consists of all such companies having 1,500 or fewer employees. U.S. Census Bureau data for 2012 show that there were 3,117 firms that operated that year. Of this total, 3,083 operated with fewer than 1,000 employees. Thus, under this size standard, the majority of firms in this industry can be considered small.

10. Local Exchange Carriers (LECs). Neither the Commission nor the SBA has developed a size standard for small businesses specifically applicable to local exchange services. The closest applicable NAICS Code category is Wired Telecommunications Carriers. Under the applicable SBA size standard, such a business is small if it has 1,500 or fewer employees. U.S. Census Bureau data for 2012 show that there were 3,117 firms that operated for the entire year. Of that total, 3,083 operated with fewer than 1,000 employees. Thus under this category and the associated size standard, the Commission estimates that the majority of local exchange carriers are small entities.

11. Incumbent LECs. Neither the Commission nor the SBA has developed a small business size standard specifically for incumbent local exchange services. The closest applicable NAICS Code category is Wired Telecommunications Carriers. Under the applicable SBA size standard, such a business is small if it has 1,500 or fewer employees. U.S. Census Bureau data for 2012 indicate that 3,117 firms operated the entire year. Of this total, 3,083 operated with fewer than 1,000 employees. Consequently, the Commission estimates that most providers of incumbent local exchange service are small businesses that may be affected by our actions. According to Commission data, one thousand three hundred and seven (1,307) Incumbent Local Exchange Carriers reported that they were incumbent local exchange service providers. Of this total, an estimated 1,006 have 1,500 or fewer employees. Thus, using the SBA's size standard the majority of incumbent LECs can be considered small entities.

12. Competitive Local Exchange Carriers (Competitive LECs), Competitive Access Providers (CAPs), Shared-Tenant Service Providers, and Other Local Service Providers. Neither the Commission nor the SBA has developed a small business size standard specifically for these service providers. The appropriate NAICS Code category is Wired Telecommunications Carriers and under that size standard, such a business is small if it has 1,500 or fewer employees. U.S. Census Bureau data for 2012 indicate that 3,117 firms operated during that year. Of that number, 3,083 operated with fewer than 1,000 employees. Based on these data, the Commission concludes that the majority of Competitive LECS, CAPs, Shared-Tenant Service Providers, and Other Local Service Providers, are small entities. According to Commission data, 1,442 carriers reported that they were engaged in the provision of either competitive local exchange services or competitive access provider services. Of these 1,442 carriers, an estimated 1,256 have 1,500 or fewer employees. In addition, 17 carriers have reported that they are Shared-Tenant Service Providers, and all 17 are estimated to have 1,500 or fewer employees. Also, 72 carriers have reported that they are Other Local Service Providers. Of this total, 70 have 1,500 or fewer employees. Consequently, based on internally researched FCC data, the Commission estimates that most providers of competitive local exchange service, competitive access providers, Shared-Tenant Service Providers, and Other Local Service Providers are small entities.

13. Interexchange Carriers (IXCs). Neither the Commission nor the SBA has developed a small business size standard specifically for Interexchange Carriers. The closest applicable NAICS Code category is Wired Telecommunications Carriers. The applicable size standard under SBA rules is that such a business is small if it has 1,500 or fewer employees. U.S. Census Bureau data for 2012 indicate that 3,117 firms operated for the entire year. Of that number, 3,083 operated with fewer than 1,000 employees. According to internally developed Commission data, 359 companies reported that their primary telecommunications service activity was the provision of interexchange services. Of this total, an estimated 317 have 1,500 or fewer employees. Consequently, the Commission estimates that the majority of interexchange service providers are small entities.

14. Prepaid Calling Card Providers. Neither the Commission nor the SBA has developed a small business size standard specifically for prepaid calling card providers. The appropriate NAICS code category for prepaid calling card providers is Telecommunications Resellers. This industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA has developed a small business size standard for the category of Telecommunications Resellers. Under that size standard, such a business is small if it has 1,500 or fewer employees. U.S. Census Bureau data for 2012 show that 1,341 firms provided resale services during that year. Of that number, 1,341 operated with fewer than 1,000 employees. Thus, under this category and the associated small business size standard, the majority of these resellers can be considered small entities. According to Commission data, 193 carriers have reported that they are engaged in the provision of prepaid calling cards. All 193 carriers have 1,500 or fewer employees. Consequently, the Commission estimates that the majority of prepaid calling card providers are small.

15. Local Resellers. The SBA has not developed a small business size standard specifically for Local Resellers. The SBA category of Telecommunications Resellers is the closest NAICs code category for local resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. Under the SBA's size standard, such a business is small if it has 1,500 or fewer employees. U.S. Census Bureau data from 2012 show that 1,341 firms provided resale services during that year. Of that number, all operated with fewer than 1,000 employees. Thus, under this category and the associated small business size standard, the majority of these resellers can be considered small entities. According to Commission data, 213 carriers have reported that they are engaged in the provision of local resale services. Of these, an estimated 211 have 1,500 or fewer employees and two have more than 1,500 employees. Consequently, the Commission estimates that the majority of local resellers are small entities.

16. Toll Resellers. The Commission has not developed a definition for Toll Resellers. The closest NAICS Code Category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA has developed a small business size standard for the category of Telecommunications Resellers. Under that size standard, such a business is small if it has 1,500 or fewer employees. 2012 Census Bureau data show that 1,341 firms provided resale services during that year. Of that number, 1,341 operated with fewer than 1,000 employees. Thus, under this category and the associated small business size standard, the majority of these resellers can be considered small entities. According to Commission data, 881 carriers have reported that they are engaged in the provision of toll resale services. Of this total, an estimated 857 have 1,500 or fewer employees. Consequently, the Commission estimates that the majority of toll resellers are small entities.

17. Other Toll Carriers. Neither the Commission nor the SBA has developed a size standard for small businesses specifically applicable to Other Toll Carriers. This category includes toll carriers that do not fall within the categories of interexchange carriers, operator service providers, prepaid calling card providers, satellite service carriers, or toll resellers. The closest applicable NAICS code category is for Wired Telecommunications Carriers, as defined in paragraph 6 of this IRFA. Under that size standard, such a business is small if it has 1,500 or fewer employees. U.S. Census Bureau data for 2012 show that there were 3,117 firms that operated that year. Of this total, 3,083 operated with fewer than 1,000 employees. Thus, under this size standard, the majority of firms in this industry can be considered small. According to Commission data, 284 companies reported that their primary telecommunications service activity was the provision of other toll carriage. Of these, an estimated 279 have 1,500 or fewer employees. Consequently, the Commission estimates that most Other Toll Carriers are small entities.

18. Wireless Telecommunications Carriers (except Satellite). This industry comprises establishments engaged in operating and maintaining switching and transmission facilities to provide communications via the airwaves. Establishments in this industry have spectrum licenses and provide services using that spectrum, such as cellular services, paging services, wireless internet access, and wireless video services. The appropriate size standard under SBA rules is that such a business is small if it has 1,500 or fewer employees. For this industry, U.S. Census Bureau data for 2012 show that there were 967 firms that operated for the entire year. Of this total, 955 firms had employment of 999 or fewer employees and 12 had employment of 1,000 employees or more. Thus under this category and the associated size standard, the Commission estimates that the majority of wireless telecommunications carriers (except satellite) are small entities.

19. Television Broadcasting. This Economic Census category “comprises establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA has created the following small business size standard for such businesses: Those having $41.5 million or less in annual receipts. The 2012 Economic Census reports that 751 firms in this category operated in that year. Of that number, 656 had annual receipts of $25,000,000 or less. Based on this data we therefore estimate that the majority of commercial television broadcasters are small entities under the applicable SBA size standard.

20. The Commission has estimated the number of licensed commercial television stations to be 1,377. Of this total, 1,258 stations (or about 91 percent) had revenues of $41.5 million or less, according to Commission staff review of the BIA Kelsey Inc. Media Access Pro Television Database (BIA) on November 16, 2017, and therefore these licensees qualify as small entities under the SBA definition. In addition, the Commission has estimated the number of licensed noncommercial educational television stations to be 384. Notwithstanding, the Commission does not compile and otherwise does not have access to information on the revenue of NCE stations that would permit it to determine how many such stations would qualify as small entities. There are also 2,300 low power television stations, including Class A stations (LPTV) and 3,681 TV translator stations. Given the nature of these services, we will presume that all of these entities qualify as small entities under the above SBA small business size standard.

21. In assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific television broadcast station is dominant in its field of operation. Accordingly, the estimate of small businesses to which rules may apply does not exclude any television station from the definition of a small business on this basis and is therefore possibly over-inclusive. Also, as noted above, an additional element of the definition of “small business” is that the entity must be independently owned and operated. The Commission notes that it is difficult at times to assess these criteria in the context of media entities and its estimates of small businesses to which they apply may be over-inclusive to this extent.

22. Radio Stations. This Economic Census category “comprises establishments primarily engaged in broadcasting aural programs by radio to the public. Programming may originate in their own studio, from an affiliated network, or from external sources.” The SBA has established a small business size standard for this category as firms having $41.5 million or less in annual receipts. Economic Census data for 2012 show that 2,849 radio station firms operated during that year. Of that number, 2,806 firms operated with annual receipts of less than $25 million per year, 17 with annual receipts between $25 million and $49,999,999 million and 26 with annual receipts of $50 million or more. Therefore, based on the SBA's size standard the majority of such entities are small entities.

23. According to Commission staff review of the BIA/Kelsey, LLC's Media Access Pro Radio Database as of January 2018, about 11,261 (or about 99.9 percent) of 11,383 commercial radio stations had revenues of $41.5 million or less and thus qualify as small entities under the SBA definition. The Commission has estimated the number of licensed commercial AM radio stations to be 4,633 stations and the number of commercial FM radio stations to be 6,738, for a total number of 11,371. We note the Commission has also estimated the number of licensed noncommercial (NCE) FM radio stations to be 4,128. Nevertheless, the Commission does not compile and otherwise does not have access to information on the revenue of NCE stations that would permit it to determine how many such stations would qualify as small entities. We also note, that in assessing whether a business entity qualifies as small under the above definition, business control affiliations must be included. The Commission's estimate therefore likely overstates the number of small entities that might be affected by its action, because the revenue figure on which it is based does not include or aggregate revenues from affiliated companies. In addition, to be determined a “small business,” an entity may not be dominant in its field of operation. We further note, that it is difficult at times to assess these criteria in the context of media entities, and the estimate of small businesses to which these rules may apply does not exclude any radio station from the definition of a small business on these basis, thus our estimate of small businesses may therefore be over-inclusive. Also, as noted above, an additional element of the definition of “small business” is that the entity must be independently owned and operated. The Commission notes that it is difficult at times to assess these criteria in the context of media entities and the estimates of small businesses to which they apply may be over-inclusive to this extent.

24. Cable Companies and Systems (Rate Regulation). The Commission has also developed its own small business size standards, for the purpose of cable rate regulation. Under the Commission's rules, a “small cable company” is one serving 400,000 or fewer subscribers nationwide. Industry data indicate that there are 4,600 active cable systems in the United States. Of this total, all but five cable operators nationwide are small under the 400,000-subscriber size standard. In addition, under the Commission's rate regulation rules, a “small system” is a cable system serving 15,000 or fewer subscribers. Commission records show 4,600 cable systems nationwide. Of this total, 3,900 cable systems have fewer than 15,000 subscribers, and 700 systems have 15,000 or more subscribers, based on the same records. Thus, under this standard as well, we estimate that most cable systems are small entities.

25. Cable System Operators (Telecom Act Standard). The Communications Act of 1934, as amended, also contains a size standard for small cable system operators, which is “a cable operator that, directly or through an affiliate, serves in the aggregate fewer than one percent of all subscribers in the United States and is not affiliated with any entity or entities whose gross annual revenues in the aggregate exceed $250,000,000.” As of 2019, there were approximately 48,646,056 basic cable video subscribers in the United States. Accordingly, an operator serving fewer than 486,460 subscribers shall be deemed a small operator if its annual revenues, when combined with the total annual revenues of all its affiliates, do not exceed $250 million in the aggregate. Based on available data, we find that all but five cable operators are small entities under this size standard. We note that the Commission neither requests nor collects information on whether cable system operators are affiliated with entities whose gross annual revenues exceed $250 million. Therefore, we are unable at this time to estimate with greater precision the number of cable system operators that would qualify as small cable operators under the definition in the Communications Act.

26. Direct Broadcast Satellite (DBS) Service. DBS service is a nationally distributed subscription service that delivers video and audio programming via satellite to a small parabolic “dish” antenna at the subscriber's location. DBS is included in SBA's economic census category “Wired Telecommunications Carriers.” The Wired Telecommunications Carriers industry comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry. The SBA determines that a wireline business is small if it has fewer than 1,500 employees. U.S. Census Bureau data for 2012 indicates that 3,117 wireline companies were operational during that year. Of that number, 3,083 operated with fewer than 1,000 employees. Based on that data, we conclude that the majority of wireline firms are small under the applicable SBA standard. Currently, however, only two entities provide DBS service, which requires a great deal of capital for operation: DIRECTV (owned by AT&T) and DISH Network. DIRECTV and DISH Network each report annual revenues that are in excess of the threshold for a small business. Accordingly, we must conclude that internally developed FCC data are persuasive that, in general, DBS service is provided only by large firms.

27. All Other Telecommunications. The “All Other Telecommunications” category is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing internet services or voice over internet protocol (VoIP) services via client-supplied telecommunications connections are also included in this industry. The SBA has developed a small business size standard for All Other Telecommunications, which consists of all such firms with annual receipts of $35 million or less. For this category, U.S. Census Bureau data for 2012 shows that there were 1,442 firms that operated for the entire year. Of those firms, a total of 1,400 had annual receipts less than $25 million and 15 firms had annual receipts of $25 million to $49,999,999. Thus, the Commission estimates that the majority of “All Other Telecommunications” firms potentially affected by our action can be considered small.

28. RespOrgs. Responsible Organizations, or RespOrgs, are entities chosen by toll free subscribers to manage and administer the appropriate records in the toll free Service Management System for the toll free subscriber. Although RespOrgs are often wireline carriers, they can also include non-carrier entities. Therefore, in the definition herein of RespOrgs, two categories are presented, i.e., Carrier RespOrgs and Non-Carrier RespOrgs.

29. Carrier RespOrgs. Neither the Commission, the U.S. Census, nor the SBA have developed a definition for Carrier RespOrgs. Accordingly, the Commission believes that the closest NAICS code-based definitional categories for Carrier RespOrgs are Wired Telecommunications Carriers, and Wireless Telecommunications Carriers (except satellite).

30. The U.S. Census Bureau defines Wired Telecommunications Carriers as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.” The SBA has developed a small business size standard for Wired Telecommunications Carriers, which consists of all such companies having 1,500 or fewer employees. U.S. Census Bureau data for 2012 show that there were 3,117 firms that operated that year. Of this total, 3,083 operated with fewer than 1,000 employees. Based on that data, we conclude that the majority of Carrier RespOrgs that operated with wireline-based technology are small.

31. The U.S. Census Bureau defines Wireless Telecommunications Carriers (except satellite) as establishments engaged in operating and maintaining switching and transmission facilities to provide communications via the airwaves, such as cellular services, paging services, wireless internet access, and wireless video services. The appropriate size standard under SBA rules is that such a business is small if it has 1,500 or fewer employees. Census data for 2012 show that 967 Wireless Telecommunications Carriers operated in that year. Of that number, 955 operated with less than 1,000 employees. Based on that data, we conclude that the majority of Carrier RespOrgs that operated with wireless-based technology are small.

32. Non-Carrier RespOrgs. Neither the Commission, the U.S. Census, nor the SBA have developed a definition of Non-Carrier RespOrgs. Accordingly, the Commission believes that the closest NAICS code-based definitional categories for Non-Carrier RespOrgs are “Other Services Related to Advertising” and “Other Management Consulting Services.”

33. The U.S. Census defines Other Services Related to Advertising as comprising establishments primarily engaged in providing advertising services (except advertising agency services, public relations agency services, media buying agency services, media representative services, display advertising services, direct mail advertising services, advertising material distribution services, and marketing consulting services). The SBA has established a size standard for this industry as annual receipts of $16.5 million dollars or less. Census data for 2012 show that 5,804 firms operated in this industry for the entire year. Of that number, 5,612 operated with annual receipts of less than $10 million. Based on that data we conclude that the majority of Non-Carrier RespOrgs who provide toll-free number (TFN)-related advertising services are small.

34. The U.S. Census defines Other Management Consulting Services as establishments primarily engaged in providing management consulting services (except administrative and general management consulting; human resources consulting; marketing consulting; or process, physical distribution, and logistics consulting). Establishments providing telecommunications or utilities management consulting services are included in this industry. The SBA has established a size standard for this industry of $16.5 million dollars or less. Census data for 2012 show that 3,683 firms operated in this industry for that entire year. Of that number, 3,632 operated with less than $10 million in annual receipts. Based on this data, we conclude that a majority of non-carrier RespOrgs who provide TFN-related management consulting services are small.

35. In addition to the data contained in the four (see above) U.S. Census NAICS code categories that provide definitions of what services and functions the Carrier and Non-Carrier RespOrgs provide, Somos, the trade association that monitors RespOrg activities, compiled data showing that as of July 1, 2016 there were 23 RespOrgs operational in Canada and 436 RespOrgs operational in the United States, for a total of 459 RespOrgs currently registered with Somos.

E. Description of Projected Reporting, Recordkeeping and Other Compliance Requirements

36. This Report and Order does not adopt any new reporting, recordkeeping, or other compliance requirements.

F. Steps Taken To Minimize Significant Economic Impact on Small Entities and Significant Alternatives Considered

37. The RFA requires an agency to describe any significant alternatives that it has considered in reaching its approach, which may include the following four alternatives, among others: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

38. The methodology adopted by the Commission for using the population-based calculations for TV broadcasters was initially adopted because it is a fairer methodology for the smaller broadcasters. The Commission is using this methodology for this year, too. The changes for Puerto Rican broadcasters were adopted by the Commission in order to give relief for these broadcasters, some of which may be small entities, and the Commission is also using this methodology this year. Finally, the waiver process that we adopted previously and are continuing in 2021 was adopted to provide relief to entities that have suffered financial hardship in the COVID-19 pandemic, which includes small entities.

39. In addition, under the Commission's de minimis rule, under section 9(e)(2) of the Act, a regulatee is exempt from paying regulatory fees if the sum total of all of its annual regulatory fee liabilities is $1,000 or less for the fiscal year. The de minimis threshold applies only to filers of annual regulatory fees.

V. Ordering Clauses

40. Accordingly, it is ordered that, pursuant to the authority found in sections 4(i) and (j), 9, 9A, and 303(r) of the Communications Act of 1934, as amended, 47 U.S.C. 154(i), 154(j), 159, 159A, and 303(r), this Report and Order is hereby adopted.

41. It is further ordered that the FY 2021 section 9 regulatory fees assessment requirements and the rules set forth in this Report and Order are adopted as specified herein.

42. It is further ordered that this Report and Order shall be effective upon publication in the Federal Register.

43. It is further ordered that the Commission's Consumer and Governmental Affairs Bureau, Reference Information Center, shall send a copy of this Report and Order, including the Final Regulatory Flexibility Analysis in this document, to Congress and the Government Accountability Office pursuant to 5 U.S.C. 801(a)(1)(A).

List of Subjects in 47 CFR Part 1

Administrative practice and procedure, Broadband, Reporting and recordkeeping requirements, Telecommunications.

Federal Communications Commission.
Marlene Dortch,
Secretary.

Final Rules

For the reasons discussed in the preamble, the Federal Communications Commission 47 CFR part 1 is amended as follows:

Part 1 of Title 47 of the Code of Federal Regulations is amended to read as follows:

PART 1—PRACTICE AND PROCEDURE

1. The authority citation for part 1 continues to read as follows:

Authority: 47 U.S.C. chs. 2, 5, 9, 13; 28 U.S.C. 2461 note, unless otherwise noted.

2. Section 1.1151 of the Commission's rules is revised to read as follows:

§ 1.1151 Authority to prescribe and collect regulatory fees.

Authority to impose and collect regulatory fees is contained in section 9 of the Communications Act, as amended by sections 101-103 of title I of the Consolidated Appropriations Act of 2018 (Pub. L. 115-141, 132 Stat. 1084), 47 U.S.C. 159, which directs the Commission to prescribe and collect annual regulatory fees to recover the cost of carrying out the functions of the Commission.

3. Section 1.1152 is revised to read as follows:

§ 1.1152 Schedule of annual regulatory fees for wireless radio services.

Table 1 to § 1.1152
Exclusive use services (per license) | Fee amount
1. Land Mobile (Above 470 MHz and 220 MHz Local, Base Station & SMRS) (47 CFR part 90):
(a) New, Renew/Mod (FCC 601 & 159) | $25.00
(b) New, Renew/Mod (Electronic Filing) (FCC 601 & 159) | 25.00
(c) Renewal Only (FCC 601 & 159) | 25.00
(d) Renewal Only (Electronic Filing) (FCC 601 & 159) | 25.00
220 MHz Nationwide:
(a) New, Renew/Mod (FCC 601 & 159) | 25.00
(b) New, Renew/Mod (Electronic Filing) (FCC 601 & 159) | 25.00
(c) Renewal Only (FCC 601 & 159) | 25.00
(d) Renewal Only (Electronic Filing) (FCC 601 & 159) | 25.00
2. Microwave (47 CFR part 101) (Private):
(a) New, Renew/Mod (FCC 601 & 159) | 25.00
(b) New, Renew/Mod (Electronic Filing) (FCC 601 & 159) | 25.00
(c) Renewal Only (FCC 601 & 159) | 25.00
(d) Renewal Only (Electronic Filing) (FCC 601 & 159) | 25.00
3. Shared Use Services:
Land Mobile (Frequencies Below 470 MHz—except 220 MHz):
(a) New, Renew/Mod (FCC 601 & 159) | 10.00
(b) New, Renew/Mod (Electronic Filing) (FCC 601 & 159) | 10.00
(c) Renewal Only (FCC 601 & 159) | 10.00
(d) Renewal Only (Electronic Filing) (FCC 601 & 159) | 10.00
Rural Radio (47 CFR part 22):
(a) New, Additional Facility, Major Renew/Mod (Electronic Filing) (FCC 601 & 159) | 10.00
(b) Renewal, Minor Renew/Mod (Electronic Filing) | 10.00
Marine Coast:
(a) New Renewal/Mod (FCC 601 & 159) | 40.00
(b) New, Renewal/Mod (Electronic Filing) (FCC 601 & 159) | 40.00
(c) Renewal Only (FCC 601 & 159) | 40.00
(d) Renewal Only (Electronic Filing) (FCC 601 & 159) | 40.00
Aviation Ground:
(a) New, Renewal/Mod (FCC 601 & 159) | 20.00
(b) New, Renewal/Mod (Electronic Filing) (FCC 601 & 159) | 20.00
(c) Renewal Only (FCC 601 & 159) | 20.00
(d) Renewal Only (Electronic Only) (FCC 601 & 159) | 20.00
Marine Ship:
(a) New, Renewal/Mod (FCC 605 & 159) | 15.00
(b) New, Renewal/Mod (Electronic Filing) (FCC 605 & 159) | 15.00
(c) Renewal Only (FCC 605 & 159) | 15.00
(d) Renewal Only (Electronic Filing) (FCC 605 & 159) | 15.00
Aviation Aircraft:
(a) New, Renew/Mod (FCC 605 & 159) | 10.00
(b) New, Renew/Mod (Electronic Filing) (FCC 605 & 159) | 10.00
(c) Renewal Only (FCC 605 & 159) | 10.00
(d) Renewal Only (Electronic Filing) (FCC 605 & 159) | 10.00
4. CMRS Cellular/Mobile Services (per unit) (FCC 159) | ¹.15
5. CMRS Messaging Services (per unit) (FCC 159) | ².08
6. Broadband Radio Service (formerly MMDS and MDS) | 605
7. Local Multipoint Distribution Service | 605
¹ These are standard fees that are to be paid in accordance with § 1.1157(b) of this chapter.
² These are standard fees that are to be paid in accordance with § 1.1157(b) of this chapter.

4. Section 1.1153 is revised to read as follows:

§ 1.1153 Schedule of annual regulatory fees and filing locations for mass media services.

Table 1 to § 1.1153
Radio [AM and FM] (47 CFR part 73) | Fee amount
1. AM Class A:
≤25,000 population | $975
25,001-75,000 population | 1,465
75,001-150,000 population | 2,195
150,001-500,000 population | 3,295
500,001-1,200,000 population | 4,935
1,200,001-3,000,000 population | 7,410
3,000,001-6,000,000 population | 11,105
>6,000,000 population | 16,665
2. AM Class B:
≤25,000 population | 700
25,001-75,000 population | 1,050
75,001-150,000 population | 1,575
150,001-500,000 population | 2,365
500,001-1,200,000 population | 3,540
1,200,001-3,000,000 population | 5,320
3,000,001-6,000,000 population | 7,975
>6,000,000 population | 11,965
3. AM Class C:
≤25,000 population | 610
25,001-75,000 population | 915
75,001-150,000 population | 1,375
150,001-500,000 population | 2,060
500,001-1,200,000 population | 3,085
1,200,001-3,000,000 population | 4,635
3,000,001-6,000,000 population | 6,950
>6,000,000 population | 10,425
4. AM Class D:
≤25,000 population | 670
25,001-75,000 population | 1,000
75,001-150,000 population | 1,510
150,001-500,000 population | 2,265
500,001-1,200,000 population | 3,390
1,200,001-3,000,000 population | 5,090
3,000,001-6,000,000 population | 7,630
>6,000,000 population | 11,450
5. AM Construction Permit | 610
6. FM Classes A, B1 and C3:
≤25,000 population | 1,070
25,001-75,000 population | 1,605
75,001-150,000 population | 2,410
150,001-500,000 population | 3,615
500,001-1,200,000 population | 5,415
1,200,001-3,000,000 population | 8,130
3,000,001-6,000,000 population | 12,185
>6,000,000 population | 18,285
7. FM Classes B, C, C0, C1 and C2:
≤25,000 population | 1,220
25,001-75,000 population | 1,830
75,001-150,000 population | 2,745
150,001-500,000 population | 4,125
500,001-1,200,000 population | 6,175
1,200,001-3,000,000 population | 9,270
3,000,001-6,000,000 population | 13,895
>6,000,000 population | 20,850
8. FM Construction Permits | 1,070
TV (47 CFR part 73)
Digital TV (UHF and VHF Commercial Stations):
1. Digital TV Construction Permits | 5,100
2. Television Fee Factor | * .007793
Low Power TV, Class A TV, FM Translator, & TV/FM Booster (47 CFR part 74) | 320
* Per population count.

5. Section 1.1154 is revised to read as follows:

§ 1.1154 Schedule of annual regulatory charges for common carrier services.

Table 1 to § 1.1154
Radio facilities | Fee amount
1. Microwave (Domestic Public Fixed) (Electronic Filing) (FCC Form 601 & 159) | $25.00
Carriers:
1. Interstate Telephone Service Providers (per interstate and international end-user revenues (see FCC Form 499-A) | .00400
2. Toll Free Number Fee | * .12
* Per Toll Free Number.

6. Section 1.1155 is revised to read as follows:

§ 1.1155 Schedule of regulatory fees for cable television services.

Table 1 to § 1.1155
| Fee amount
1. Cable Television Relay Service | $1,555
2. Cable TV System, Including IPTV (per subscriber), and DBS (per subscriber) | .98

7. Section 1.1156 is revised to read as follows:

§ 1.1156 Schedule of regulatory fees for international services.

(a) Geostationary orbit (GSO) and non-geostationary orbit (NGSO) space stations. The following schedule applies for the listed services:

Table 1 to Paragraph (a)
Fee category | Fee amount
Space Stations (Geostationary Orbit) | $116,855
Space Stations (Non-Geostationary Orbit)—Other | 343,555
Space Stations (Non-Geostationary Orbit)—Less Complex | 122,695
Earth Stations: Transmit/Receive & Transmit only (per authorization or registration) | 595

(b) International terrestrial and satellite Bearer Circuits. (1) Regulatory fees for International Bearer Circuits are to be paid by facilities-based common carriers that have active (used or leased) international bearer circuits as of December 31 of the prior year in any terrestrial or satellite transmission facility for the provision of service to an end user or resale carrier, which includes active circuits to themselves or to their affiliates. In addition, non-common carrier terrestrial and satellite operators must pay a fee for each active circuit sold or leased to any customer, including themselves or their affiliates, other than an international common carrier authorized by the Commission to provide U.S. international common carrier services. “Active circuits” for purposes of this paragrpah (b) include backup and redundant circuits. In addition, whether circuits are used specifically for voice or data is not relevant in determining that they are active circuits.

(2) The fee amount, per active Gbps circuit will be determined for each fiscal year.

Table 2 to Paragraph (b)(2)
International terrestrial and satellite (capacity as of December 31, 2020) | Fee amount
Terrestrial Common Carrier and Non-Common Carrier; Satellite Common Carrier and Non-Common Carrier | $43 *
* Per Gbps circuit.

(c) Submarine cable. Regulatory fees for submarine cable systems will be paid annually, per cable landing license, for all submarine cable systems operating based on their lit capacity as of December 31 of the prior year. The fee amount will be determined by the Commission for each fiscal year.

Table 3 to Paragraph (c)—FY 2021 International Bearer Circuits—Submarine Cable Systems
Submarine cable systems (lit capacity as of December 31, 2020) | Fee ratio (units) | FY 2020 regulatory fees
Less than 50 Gbps | .0625 | $9,495
50 Gbps or greater, but less than 250 Gbps | .125 | 18,990
250 Gbps or greater, but less than 1,500 Gbps | .25 | 37,980
1,500 Gbps or greater, but less than 3,500 Gbps | .5 | 75,955
3,500 Gbps or greater, but less than 6,500 Gbps | 1.0 | 151,910
6,500 Gbps or greater | 2.0 | 303,820

[FR Doc. 2021-20078 Filed 9-21-21; 8:45 am]

BILLING CODE 6712-01-P